DEPARTMENT OF THE INTERIOR

Bureau of Indian Affairs

Indian Child Welfare Act; Receipt of Designated Tribal Agents for Service of Notice

AGENCY: Bureau of Indian Affairs, Interior.

ACTION: Notice.

SUMMARY: The regulations implementing the Indian Child Welfare Act provide that Indian Tribes may designate an agent other than the Tribal chairman for service of notice proceedings under the Act. This notice includes the current list of designated Tribal agents for service of notice, and includes each designated Tribal agent received by the Secretary of the Interior prior to the date of this publication.

FOR FURTHER INFORMATION CONTACT: Sue V. Settles, Chief, Human Services Division, Bureau of Indian Affairs, 1849 C Street, NW., Mail Stop 4513-MIB, Washington, DC 20240; Telephone: (202) 513-7621.

SUPPLEMENTARY INFORMATION:

The regulations implementing the Indian Child Welfare Act, 25 U.S.C. 1901 et seq., provide that Indian Tribes may designate an agent other than the Tribal chairman for service of notice proceedings under the Act. See 25 CFR 23.12. The Secretary of the Interior is required to publish in the Federal Register on an annual basis the names and addresses of the designated Tribal agents. This notice is published in exercise of authority delegated by the Secretary of the Interior to the Principal Deputy Assistant Secretary—Indian Affairs by 209 DM 8.

This notice presents, in two different formats, the names and addresses of current designated Tribal agents for service of notice, and includes each designated Tribal agent received by the Secretary of the Interior prior to the date of this publication. The first format lists designated Tribal agents by region and alphabetically by Tribe within each region. The second format is a table that lists designated Tribal agents alphabetically by the Tribal affiliation (first listing American Indian Tribes, then listing Alaska Native Tribes). Each format also lists the Bureau of Indian Affairs contact(s) for each of the twelve regions.

Table of Contents

A. List of Designated Tribal Agents by Region

1. Alaska Region

2. Eastern Oklahoma Region

3. Eastern Region

4. Great Plains Region

5. Midwest Region

6. Navajo Region

7. Northwest Region

8. Pacific Region

9. Rocky Mountain Region

10. Southern Plains Region

11. Southwest Region

12. Western Region

B. List of Designated Tribal Agents By Tribal Affiliation

1. Tribes Other Than Alaska Native Tribes and Villages

2. Alaska Native Tribes and Villages

A. List of Designated Tribal Agents by Region

1. Alaska Region

Niles Cesar, Regional Director, Alaska Regional Office, P.O. Box 25520, 709 W. 9th, 3rd Floor, Federal Building, Juneau, AK 99802-5520; Phone: (800) 645-8397; Fax: (907) 586-7252.

Gloria Gorman, M.S.W., Human Services Director, P.O. Box 25520, 709 W. 9th, 3rd Floor, Federal Building, Juneau, AK 99802-5520; Phone: (800) 645-8397 extension 2; Fax: (907) 586-7037.

A

Afognak, Native Village of (formerly the Village of Afognak), Melissa Borton, Tribal Administrator, 115 Mill Bay Rd, Ste. 201, Kodiak, AK 99615; Phone: (907) 486-6357; Fax: (907) 486-6529; e-mail: tribe@afognak.org.

Agdaagux Tribe of King Cove, Arthur Newman, Tribal Administrator, P.O. Box 249, King Cove, AK 99612; Phone: (907) 497-2648; Fax: (907) 497-2803; e-mail: ATC@arctic.net and, Grace Smith, Family Programs Coordinator, Aleutian/Pribilof Islands Association, 1131 East International Airport Road, Anchorage, AK 99518-1408; Phone: (907) 276-2700 or 222-4236; Fax: (907) 279-4351; e-mail: graces@apiai.org.

Akhiok, Native Village of, David Eluska, Tribal Manager P.O. Box 5030, Akhiok, AK 99615; Phone: (907) 836-2312 or 836-2313; Fax: (907) 836-2345; e-mail: david.eluska@kanaweb.org, or Sandra.zeedar@kanaweb.org.

Akiachak Native Community, Georgiann Wassilie, Tribal Family Services, P.O. Box 70, Akiachak, AK 99551-0070; Phone: (907) 825-4626/4073; Fax: (907) 825-4029/4075.

Akiak Native Community, Andrea Jasper, ICWA Worker, and Balassia Phillip, Social Services Director, P.O. Box 52127, Akiak, AK 99552; Phone: (907) 765-7117; Fax: (907) 765-7120; e-mail: akiaknc@unicom-alaska.com; akiakss@unicom-alaska.com.

Akutan, Native Village of, Grace Smith, Family Programs Coordinator, Aleutian/Pribilof Islands Association, 1131 East International Airport Road, Anchorage, AK 99518-1408; Phone: (907) 276-2700 or 222-4236; Fax: (907) 279-4351; e-mail: graces@apiai.org.

Alakanuk, Village of, Charlene Smith, ICWA Specialist, P.O. Box 149, Alakanuk, AK 99554; Phone: (907) 238-3704; Fax: (907) 238-3705; csmith@avcp.org, and Association of Village Council Presidents, ICWA Counsel, P.O. Box 219, Bethel, AK 99559; Phone: (907) 543-7440; Fax: (907) 543-5759.

Alatna Village, Michelle Sam, Acting Tribal Administrator, P.O. Box 70, Allakaket, AK 99720; Phone: (907) 968-2304; Fax: (907) 968-2305; and Legal Department, Tanana Chiefs Conference, 122 First Avenue, Suite 600, Fairbanks, AK 99701; Phone: (907) 452-8251 ext. 3177; Fax: (907) 459-3953.

Aleknagik, Native Village of, Jane Gottschalk, Tribal Children Service Worker, P.O. Box 115, Aleknagik, AK 99555; Phone: (907) 842-4577; Fax: (907) 842-2229; janegottschalk@gmail.com; and Children's Services Program Manager, Bristol Bay Native Association, P.O. Box 310, 1500 Kanakanak Road, Dillingham, AK 99576; Phone: (907) 842-4139; Fax: (907) 842-4106; e-mail: cnixon@bbna.com.

Algaaciq Native Village (St. Mary's), Sven Paukan, Tribal President, P.O. Box 48, St. Mary's, AK 99658-0048; Phone: (907) 438-2932; Fax: (907) 438-2227; and Association of Village Council Presidents, ICWA Counsel, P.O. Box 219, Bethel, AK 99559; Phone: (907) 543-7440; Fax: (907) 543-5759.

Allakaket Village, Elisa Bergman, ICWA Worker, P.O. Box 50, Allakaket, AK 99720; Phone: (907) 968-2237/2303; Fax: (907) 968-2233; e-mail: elisa.bergman@tananachiefs.org, and Legal Department, Tanana Chiefs Conference, 122 First Avenue, Suite 600, Fairbanks, AK 99701; Phone: (907) 452-8251, ext. 3177; Fax: (907) 459-3953.

Ambler, Native Village of, Shield Downey, Jr. First Chief and Mary J. Ramoth, ICWA Coordinator, Box 86047, Ambler, AK 99786; Phone: (907) 445-2189/2238; Fax: (907) 445-2257/2181; e-mail: mary.ramoth@ivisaappaat.org.

Anaktuvuk Pass, Village of, Tribal President, P.O. Box 21065, Anaktuvuk Pass, AK 99721; Phone: (907) 661-2575; Fax: (907) 661-2576; and Price Leavitt, Sr., Executive Director; Inupiat Community of the Arctic Slope; P.O. Box 934, 6986 Ahmaogak St., Barrow, AK 99723; Phone: (907) 852-4227; Fax: (907) 852-4068; e-mail: icas.executive@barrow.com.

Andreafski, Yupiit of, Carol Alstrom, Tribal Administrator, P.O. Box 88, St. Mary's, AK 99658-0088; Phone: (907) 438-2312; Fax: (907) 438-2512.

Angoon Community Association, Albert Kookesh III, Social Service Manager, P.O. Box 328, Angoon, AK 99820; Phone: (907) 788-3411; Fax: (907) 788-3412.

Aniak, Village of, Muriel Morgan, ICWA Worker, Box 349, Aniak, AK 99557; Phone: (907) 675-4349; (907) 675-4507; Fax (907) 675-4513.

Anvik Village, Alberta Walker, Tribal Family Youth Specialist (TFYS), P.O. Box 10, Anvik, AK 99558; Phone: (907) 663-6322; Fax: (907) 663-6357; and Legal Department, Tanana Chiefs Conference, 122 First Avenue, Suite 600, Fairbanks, AK 99701; Phone: (907) 452-8251, ext. 3177; Fax: (907) 459-3953.

Arctic Village, Nena C. Wilson, ICWA—Manager, P.O. Box 69, Arctic Village, AK 99722; Phone: (907) 587-5523/5328; Fax: (907) 587-5128.

Asa'carsarmiut Tribe (formerly Native Village of Mountain Village), Evelyn D. Peterson, ICWA Worker, P.O. Box 32107, Mountain Village, AK 99632; Phone: (907) 591-2428; Fax: (907) 591-2934; e-mail: atcadmin@gci.net.

Atka, Native Village of, Grace Smith, Family Programs Coordinator, Aleutian/Pribilof Islands Association, 1131 East International Airport Road, Anchorage, AK 99518-1408; Phone: (907) 276-2700 or (907) 222-4236; Fax: (907) 279-4351; e-mail: graces@apiai.org.

Atmautluak, Village of, Louisa G. Pavilla, ICWA Worker, P.O. Box 6568, Atmautluak, AK 99559; Phone: (907) 553-5510; Fax: (907) 553-5150.

Atqasuk Village (Atkasook), Candace Itta, President, P.O. Box 91108, Atqasuk, AK 99791; Phone: (907) 633-2575; Fax: (907) 633-2576; e-mail: icastaq@astacalaska.net; and Arctic Slope Native Association, Maude Hopson, ICWA Worker; P.O. Box 1232, Barrow, Alaska 99723 Phone: (907) 852-9374; Fax: (907) 852-2761.

B

Barrow Inupiat Traditional Government, Native Village of, Marie H. Ahsoak, Social Services Director, P.O. Box 1130, Barrow, AK 99723; Phone: (907) 852-4411 ext. 209; Direct line: (907) 852-8909; Fax: (907) 852-4413; e-mail: mahsoak@nvbarrow.net.

Beaver Village, Arlene Pitka, ICWA Coordinator, P.O. Box 24029, Beaver, AK 99724; Phone: (907) 628-6126; Fax: (907) 628-6815; and Legal Department, Tanana Chiefs Conference, 122 First Avenue, Suite 600, Fairbanks, AK 99701; Phone (907) 452-8251 ext. 3177; Fax: (907) 459-3953.

Belkofski, Native Village of, Grace Smith, Family Program Coordinator, Aleutian/Pribilof Islands Association, 1131 East International Airport Road, Anchorage, AK 99518-1408; Phone: (907) 276-2700 or 222-4236; Fax: (907) 279-4351; e-mail: graces@apiai.org.

Bettles Field (See Evansville Village).

Bill Moore's Slough, Village of, Nancy C. Andrews, ICWA Family Specialist, P.O. Box 20288, Kotlik, AK 99620; Phone: (907) 899-4236; Fax: (907) 899-4461.

Birch Creek Tribe, Legal Department, Tanana Chiefs Conference, 122 First Avenue, Suite 600, Fairbanks, AK 99701; Phone: (907) 452-8251 ext. 3177; Fax: (907) 459-3953, and Legal Department, Tanana Chiefs Conference, 122 First Avenue, Suite 600, Fairbanks, AK 99701; Phone (907) 452-8251 ext. 3177; Fax: (907) 459-3953.

Brevig Mission, Native Village of, Linda M. Tocktoo, Tribal Family Coordinator, P.O. Box 85039, Brevig Mission, AK 99785; Phone: (907) 642-3012; Fax: (907) 642-3042.

Buckland, Native Village of, Evans Thomas, Jr., IRA President, P.O. Box 67, Buckland, AK 99727-0067; Phone: (907) 494-2171; Fax: (907) 494-2217; e-mail: Clarence.thomas@nunachiak.org.

C

Cantwell, Native Village of, Angel Craig, ICWA Coordinator, Copper River Native Association, Drawer H, Copper Center, AK 99573; Phone: (907) 822-5241, ext. 273; Fax: (907) 822-8801; e-mail: angel@crnative.org.

Central Council of the Tlingit and Haida Indian Tribes, Marilyn Doyle 320 W. Willoughby Avenue, Suite 300, Juneau, AK 99801-9983; Phone: (907) 463-7148; Fax: (907) 463-7343; e-mail: mdoyle@ccthita.org.

Chalkyitsik Village, Candice Nathaniel, ICWA Coordinator, P.O. Box 57, Chalkyitsik, AK 99788; Phone: (907) 848-8117/8119; Fax: (907) 848-8116; and Legal Department, Tanana Chiefs Conference, 122 First Avenue, Suite 600, Fairbanks, AK 99701; Phone (907) 452-8251 ext. 3177; Fax: (907) 459-3953.

Chanega (aka Chenega), Native Village of, Norma Selanoff, ICWA Worker, P.O. Box 8079, Chenega Bay, AK 99574; Phone: (907) 573-5386; Fax: (907) 573-5387.

Cheesh-Na Tribe, (formerly the Native Village of Chistochina), Elaine Sinyon, Tribal Administrator, P.O. Box 263 Gakona, AK 99586; Phone: (907) 822-3503; Fax: (907) 822-5179; e-mail: esinyon@cheesh-na.com.

Chefornak, Village of, Edward Kinegak, ICWA Specialist, P.O. Box 110, Chefornak, AK 99561-0110; Phone: (907) 867-8808; Fax: (907) 867-8711; e-mail: ekinegak@gci.net; and Association of Village Council Presidents, ICWA Counsel, P.O. Box 219, Bethel, AK 99559; Phone (907) 543-7440; Fax: (907) 543-5759.

Chevak Native Village (aka Qissunamiut Tribe), Esther Friday, ICWA Director/Worker, P.O. Box 140, Chevak, AK 99563; Phone: (907) 858-7918; Fax: (907) 858-7919; and Association of Village Council Presidents, ICWA Counsel, P.O. Box 219, Bethel, AK 99559; Phone (907) 543-7440; Fax: (907) 543-5759.

Chickaloon Native Village, Penny Westing, ICWA Case Manager, P.O. Box 1105, Chickaloon, AK 99674; Phone: (907) 745-0749; Fax: (907) 745-0709; e-mail: penny@chickaloon.org.

Chignik Bay Tribal Council (formerly the Native Village of Chignik), Debbie Carlson, Administrator, P.O. Box 50, Chignik, AK 99564; Phone: (907) 749-2445; Fax: (907) 749-2423; e-mail: baytc@aol.com; and Children's Services Program Manager, Bristol Bay Native Association, P.O. Box 310, 1500 Kanakanak Road, Dillingham, AK 99576; Phone (907) 842-4139; Fax: (907) 842-4106; e-mail: cnixon@bbna.com.

Chignik Lagoon, Native Village of, Clemence Grunert, Jr., President and Delissa Jones, Village Administrator, P.O. Box 09, Chignik Lagoon, AK 99565; Phone: (907) 840-2281; Fax: (907) 840-2217; e-mail: clagoon@gci.net; and Children's Services Program Manager, Bristol Bay Native Association, P.O. Box 310, 1500 Kanakanak Road, Dillingham, AK 99576; Phone: (907) 842-4139; Fax: (907) 842-4106; e-mail: cnixon@bbna.com.

Chignik Lake Village, Crystal Kalmakoff, Tribal Children's Service Worker, P.O. Box 33, Chignik Lake, AK 99548; Phone: (907) 845-2358; Fax: (907) 845-2246; and Children's Services Program Manager, Bristol Bay Native Association, P.O. Box 310, 1500 Kanakanak Road, Dillingham, AK 99576; Phone: (907) 842-4139; Fax: (907) 842-4106; e-mail: cnixon@bbna.com.

Chilkat Indian Village (Klukwan), Elizabeth Strong, Tribal Service Specialist, P.O. Box 210/32, Haines, AK 99827; Phone: (907) 767-5505; Fax: (907) 767-5408; e-mail: lstrong@chilkatindianvillage.org.

Chilkoot Indian Association (Haines), Stella Howard, Family Caseworker, P.O. Box 624, Haines, AK 99827; Phone: (907) 766-2810; Fax: (907) 766-2845; e-mail: showard@ccthita.org.

Chinik Eskimo Community (Golovin), Joyce Fagerstrom, Tribal Family Coordinator, P.O. Box 62019, Golovin, AK 99762; Phone: (907) 779-3489; Fax: (907) 779-2000; e-mail: jfagerstrom@kawerak.org.

Chistochina (see Cheesh-na).

Chitina, Native Village of, Elizabeth Kelley, ICWA Worker, P.O. Box 31, Chitina, AK 99566; Phone: (907) 823-2287; Fax: (907) 823-2233; e-mail ICWA.ctivc@starband.net.

Chuathbaluk, Native Village of, Lucy Simeon, Vice Chairman, P.O. Box CHU, Chuathbaluk, AK 99557; Phone: (907) 467-4323/4313; Fax: (907) 467-4113/4311.

Chuloonawick Native Village, LaVerne Manumik, Tribal Administrator, P.O. Box 245, Emmonak, AK 99581; Phone: (907) 949-1341/1345; Fax: (907) 949-1346; e-mail: coffice@starband.net.

Circle Native Community, Jessica Boyle, P.O. Box 89, Circle, AK 99733; Phone: (907) 773-2822; Fax: (907) 773-2823/2820; and Legal Department, Tanana Chiefs Conference, 122 First Avenue, Suite 600, Fairbanks, AK 99701; Phone: (907) 452-8251 ext. 3177; Fax: (907) 459-3953.

Clarks Point, Village of, Harry Wassily, Sr., Tribal President, P.O. Box 90, Clarks Point, AK 99569; Phone: (907) 236-1427; Fax: (907) 236-1428; and Children's Services Program Manager, Bristol Bay Native Association, P.O. Box 310, 1500 Kanakanak Road, Dillingham, AK 99576; Phone: (907) 842-4139; Fax: (907) 842-4106; e-mail: cnixon@bbna.com.

Copper Center (see Native Village of Kluti-Kaah).

Cordova (See Eyak).

Council, Native Village of, Tribal President and ICWA Coordinator, P.O. Box 2050, Nome, AK 99762; Phone: (907) 443-7649; Fax: (907) 443-5965; e-mail: council@alaska.com.

Craig Community Association, Family Caseworker II, P.O. Box 746, Craig AK 99921; Phone: (907) 826-3948; Fax: (907) 826-5526.

Crooked Creek, Village of, Evelyn Thomas, President and Lorraine John, ICWA Worker, P.O. Box 69, Crooked Creek, AK 99575; Phone: (907) 432-2200; Fax: (907) 432-2201; e-mail: bbcc@starband.net.

Curyung Tribal Council (formerly the Native Village of Dillingham), Chris Itumulria, Tribal Children Service Worker, P.O. Box 216, Dillingham, AK 99576; Phone: (907) 842-4508; Fax: (907) 842-4510; e-mail: chris@curyungtribe.com; and Children's Services Program Manager, Bristol Bay Native Association, P.O. Box 310, 1500 Kanakanak Road, Dillingham, AK 99576; Phone: (907) 842-4139; Fax: (907) 842-4106; e-mail: cnixon@bbna.com.

D

Deering, Native Village of, Tribal President and ICWA Coordinator, P.O. Box 36089, Deering, AK 99736; Phone: (907) 363-2138; Fax: (907) 363-2195; e-mail: tribeadmin@ipnatchiag.org.

Dillingham (see Curyung)

Diomede (aka Inalik), Native Village of, Suzy Iyapana, ICWA Coordinator, P.O. Box 7079, Diomede, AK 99762; Phone: (907) 686-2202; Fax: (907) 686-2203.

Dot Lake, Village of, Dewila Lyons, ICWA Coordinator, P.O. Box 2279, Dot Lake, AK 99737-2275; Phone: (907) 882-2742; Fax: (907) 882-5558.

Douglas Indian Association, Sue Ann Lindoff, Family Caseworker, 1107 West 8th, Suite 3, Juneau, AK 99801; Phone: (907) 364-2916/2983; Fax: (907) 364-2917; slindoff-dia@gci.net.

E

Eagle, Native Village of, Maralyn Hinckley, Tribal Family & Youth Services, P.O. Box 19, Eagle, AK 99738; Phone: (907) 547-2271; Fax: (907) 547-2318; and Legal Department, Tanana Chiefs Conference, 122 1st Ave., Ste. 600, Fairbanks, AK 99701; Phone: (907) 452-8251 ext. 3177; Fax: (907) 459-3953.

Eek, Native Village of, Carla David, ICWA Worker, P.O. Box 89, Eek, AK 99578; Phone: (907) 536-5572; Fax: (907) 536-5711; and Association of Village Council Presidents, ICWA Counsel, P.O. Box 219, Bethel, AK 99559; Phone: (907) 543-7440; Fax: (907) 543-5759.

Egegik Village, Marcia Abalama, Tribal Children's Service Worker, P.O. Box 29, Egegik, AK 99579; Phone: (907) 233-2207; Fax: (907) 233-2312; and Children's Services Program Manager, Bristol Bay Native Association, P.O. Box 310, 1500 Kanakanak Road, Dillingham, AK 99576; Phone: (907) 842-4139; Fax: (907) 842-4106; e-mail: cnixon@bbna.com.

Eklutna Native Village, Terri Corey, ICWA Coordinator, 26339 Eklutna Village Road, Chugiak, AK 99567; Phone: (907) 688-6020; Fax: (907) 688-6021; e-mail: nve.icwa@eklutna-nsn.gov.

Ekuk, Native Village of, Tribal Administrator, 300 Main St., P.O. Box 530, 300 Main Street, Dillingham, AK 99576; Phone: (907) 842-3842; Fax: (907) 842-3843; and Children's Services Program Manager, Bristol Bay Native Association, P.O. Box 310, 1500 Kanakanak Road, Dillingham, AK 99576; Phone: (907) 842-4139; Fax: (907) 842-4106; e-mail: cnixon@bbna.com.

Ekwok Village, Sandra Stermer, Tribal Children Service Worker, P.O. Box 70, Ekwok, AK 99580; Phone: (907) 464-3349; Fax: (907) 464-3350; e-mail: sstermer@starband.net; and Children's Services Program Manager, Bristol Bay Native Association, P.O. Box 310, 1500 Kanakanak Road, Dillingham, AK 99576; Phone: (907) 842-4139; Fax: (907) 842-4106; e-mail: cnixon@bbna.com.

Elim, Native Village of, Joseph H. Murray, Tribal Family Coordinator; P.O. Box 39070, Elim, AK 99739; Phone: (907) 890-2457; Fax: (907) 890-2458; e-mail: jmurrayjr@kawerak.org.

Emmonak Village, Priscilla S. Kameroff, ICWA Specialist, and Andrew Kelly, Sr., President, P.O. Box 126, Emmonak, AK 99581-0126; Phone: (907) 949-1820/1720; Fax: (907) 949-1384; e-mail: etcadmin@unicom.alaska.com.

English Bay (see Native Village of Nanwalek).

Evansville Village (aka Bettles Field), Rachel Hanft, ICWA/Tribal Family & Youth Services, P.O. Box 26087, Bettles, AK 99726; Phone: (907) 692-5005; Fax: (907) 692-5006; e-mail: Rachel.hanft@tananachiefs.org; and Legal Department, Tanana Chiefs Conference, 122 First Avenue, Suite 600, Fairbanks, AK 99701; Phone: (907) 452-8251 ext. 3177; Fax: (907) 459-3953.

Eyak (Cordova), Native Village of, Erin Kurz, ICWA Worker, P.O. Box 1388, Cordova, AK 99574; Phone: (907) 424-7738; Fax: (907) 424-7809; e-mail: erin@nveyak.org.

F

False Pass, Native Village of, Grace Smith, Family Programs Coordinator, Aleutian/Pribilof Islands Association, 1131 East International Airport Road, Anchorage, AK 99518-1408; Phone: (907) 276-2700 or 222-4236; Fax: (907) 279-4351; e-mail: graces@apiai.org.

Fort Yukon, Native Village of, Arlene Joseph, ICWA Worker, P.O. Box 10, Fort Yukon, AK 99740; Phone: (907) 662-3625; Fax: (907) 662-3118; e-mail: ajoseph@yftribes.org; and Legal Department, Tanana Chiefs Conference, 122 First Avenue, Suite 600, Fairbanks, AK 99701; Phone: (907) 452-8251, ext. 3177; Fax: (907) 459-3953.

Fortuna Ledge (see Native Village of Marshall).

G

Gakona, Native Village of, Charlene Nollner, Tribal Administrator, P.O. Box 102, Gakona, AK 99586; Phone: (907) 822-5777; Fax: (907) 822-5997; e-mail: gakonaadmin@cvinternet.net.

Galena Village (aka Louden Village), March Runner, ICWA Director, P.O. Box 244, Galena, AK 99741; Phone: (907) 656-1711; Fax: (907) 656-1716; and Legal Department, Tanana Chiefs Conference, 122 First Avenue, Suite 600, Fairbanks, AK 99701; Phone: (907) 452-8251 ext. 3177; Fax: (907) 452-3953.

Gambell, Native Village of, Charlene Apangalook, ICWA Coordinator, P.O. Box 90, Gambell, AK 99742; Phone: (907) 985-5346; Fax: (907) 985-5014.

Georgetown, Native Village of, Amber Matthews, Tribal Administrator, 4300 B Street, Suite 207, Anchorage, Alaska 99503; Phone: (907) 274-2195; Fax: (907) 274-2196; e-mail: gtc@gci.net.

Golovin (see Chinik Eskimo Community).

Goodnews Bay, Native Village of, Fannie H. Hunt, ICWA Coordinator, P.O. Box 138, Goodnews Bay, AK 99589; Phone: (907) 967-8929; Fax: (907) 967-8330; e-mail: fanniehunt@ymail.com.

Grayling (aka Holikachuk), Organized Village of, Sue Ann Nicholi, Tribal Family Youth Specialist, P.O. Box 46, Grayling, AK 99590; Phone: (907) 453-5142; Fax: (907) 453-5146; and Legal Department, Tanana Chiefs Conference, 122 First Avenue, Suite 600, Fairbanks, AK 99701; Phone: (907) 452-8251 ext. 3177; Fax: (907) 459-3953.

Gulkana Village, Mr. LaMonica Claw, Tribal Administrator, Charelle Randall, ICWA/Social Services, P.O. Box 254, Gakona, AK 99586-0254; Phone: (907) 822-5363; Fax: (907) 822-5976; e-mail: crandall@gulkanacouncil.org; charelle@cvalaska.net.

Gwichyaa Gwichin (see Fort Yukon).

H

Haines (see Chilkoot Indian Association).

Hamilton, Native Village of, Irene R. K. Williams, Tribal Administrator, P.O. Box 20248, Kotlik, AK 99620-0248; Phone: (907) 899-4252/4255; Fax: (907) 899-4202; e-mail: iwilliams@avcp.org.

Healy Lake Village, Tribal President and Tribal Administrator, P.O. Box 60300, Fairbanks, AK 99706; Phone: (907) 876-5017; Fax: (907) 876-5013; and Legal Department, Tanana Chiefs Conference, 122 First Avenue, Suite 600, Fairbanks, AK 99701; Phone: (907) 452-8251, ext. 3177; Fax: (907) 459-3953.

Holikachuk (See Grayling).

Holy Cross Village, Eugene Paul, First Chief, Tribal Family Youth Specialist TFYS), P.O. Box 191, Holy Cross, AK 99602; Phone: (907) 476-7249; Fax: (907) 476-7259; and Legal Department, Tanana Chiefs Conference, 122 First Avenue, Suite 600, Fairbanks, AK 99701; Phone: (907) 452-8251; Fax: (907) 459-3953.

Hoonah Indian Association, Hattie Dalton, Director of Human Services, P.O. Box 602, Hoonah, AK 99829; Phone: (907) 945-3545; Fax: (907) 945-3703; e-mail: hdalton@hiatribe.org.

Hooper Bay, Native Village of, Mildred B. Metcalf, CFFS, ICWA Representative, P.O. Box 69, Hooper Bay, AK 99604; Phone: (907) 758-4068/4006; Fax: (907) 758-4066/4606; and Association of Village Council Presidents, ICWA Counsel, P.O. Box 219, Bethel, AK 99559; Phone: (907) 543-7440; Fax: (907) 543-5759.

Hughes Village, Janet Bifelt, Tribal Administrator, P.O. Box 45029, Hughes, AK 99745; Phone: (907) 889-2239; Fax: (907) 889-2252; e-mail: janet.bifelt@tananachiefs.org; and Legal Department, Tanana Chiefs Conference, 122 First Avenue, Suite 600, Fairbanks, AK 99701; Phone: (907) 452-8251 ext. 3177; Fax: (907) 459-3953.

Huslia Village, S. Joyce Sam, Tribal Family Youth Specialist/ICWA, P.O. Box 56, Huslia, AK 99746; Phone: (907) 829-2202; Fax: (907) 829-2202; and Legal Department, Tanana Chiefs Conference, 122 First Avenue, Suite 600, Fairbanks, AK 99701; Phone: (907) 452-8251, ext. 3177; Fax: (907) 459-3953.

Hydaburg Cooperative Association, Eileen J. Carle, Human Services Director, P.O. Box 349, Hydaburg, AK 99922; Phone: (907) 285-3662; Fax: (907) 285-3541.

I

Igiugig Village, Tribal Administrator, P.O. Box 4008, Igiugig, AK 99613; Phone: (907) 533-3211; Fax: (907) 533-3217; e-mail: bmhandrew@aol.com; and Children's Services Program Manager, Bristol Bay Native Association, P.O. Box 310, 1500 Kanakanak Road, Dillingham, AK 99576; Phone: (907) 842-4139; Fax: (907) 842-4106; e-mail: cnixon@bbna.com

Iliamna, Village of, Tim Anelon, Tribal Administrator, P.O. Box 286, Iliamna, AK 99606; Phone: (907) 571-1246; Fax: (907) 571-1256; e-mail: ilivc@aol.com; and Children's Services Program Manager, Bristol Bay Native Association, P.O. Box 310, 1500 Kanakanak Road, Dillingham, AK 99576; Phone: (907) 842-4139; Fax: (907) 842-4106; e-mail: cnixon@bbna.com

Inupiat Community of Arctic Slope, Price Leavitt, Sr. Executive Director; P.O. Box 934, Barrow, AK 99723; (907) 852-4227; Fax: (907) 852-4068/4246; e-mail: icas.tribal@barrow.com; icas.executive@barrow.com.

Iqurmuit Traditional Council (formerly the Native Village of Russian Mission), Steven Nick, ICWA Coordinator, P.O. Box 09, Russian Mission, AK 99657-0009; Phone: (907) 584-5594; Fax: (907) 584-5596; e-mail: snick@avcp.org; and Association of Village Council Presidents, ICWA Counsel, P.O. Box 219, Bethel, AK 99559; Phone: (907) 543-7440; Fax: (907) 543-5759.

Ivanoff Bay Village, Edgar Shangin, Tribal President, 7926 Old Seward Hwy., Suite B-5, Anchorage, AK 99518; Phone: (907) 522-2263; Fax: (907) 522-2363; e-mail: ibvc@ivanofbay.com; and Children's Services Program Manager, Bristol Bay Native Association, P.O. Box 310, 1500 Kanakanak Road, Dillingham, AK 99576; Phone: (907) 842-4139; Fax: (907) 842-4106; e-mail: cnixon@bbna.com.

K

Kaguyak Village, Margie Bezona, Community Development Director, Kodiak Area Native Association, 3449 E. Rezanof Drive, Kodiak, AK 99615; Phone: (907) 486-9816; Fax: (907) 486-9886. e-mail: margie.bezona@kanaweb.org.

Kake, Organized Village of, M. Ann Jackson, Social Service Director, P.O. Box 316, Kake, AK 99830; Phone: (907) 785-6471; Fax: (907) 785-4902.

Kaktovik Village (aka Barter Island), Isaac Akootchook, President, P.O. Box 73, Kaktovik, AK 99747; Phone: (907) 640-2042; Fax: (907) 640-2044; and Arctic Slope Native Association, Maude Hopson, ICWA Worker; P.O. Box 1232, Barrow, Alaska 99723; Phone: (907) 852-9374; Fax: (907) 852-2761.

Kalskag, Village of, (aka Upper Kalskag), Lisa Holmberg, ICWA Worker, P.O. Box 50, Upper Kalskag, AK 99607; Phone: (907) 471-2418; Fax: (907) 471-2399; and Association of Village Council Presidents, ICWA Counsel, P.O. Box 219 Bethel, AK 99559; Phone (907) 543-7440; Fax: (907) 543-5759.

Lower Kalskag, Village of, Flora Levi, ICWA, Community Family Service Specialist, P.O. Box 27, Lower Kalskag, AK 99626; Phone: (907) 471-2412; Fax: (907) 471-2412; e-mail: flevi@avcp.org; and Association of Village Council Presidents, ICWA Counsel, P.O. Box 219, Bethel, AK 99559; Phone: (907) 543-7440; Fax: (907) 543-5759.

Kaltag, Village of, Eleanor Maillelle, Tribal Family Youth Specialist, P.O. Box 129, Kaltag, AK 99748; Phone: (907) 534-2243; Fax: (907) 534-2264; and Legal Department, Tanana Chiefs Conference, 122 First Avenue, Suite 600, Fairbanks, AK 99701; Phone: (907) 452-8251 ext. 3177; Fax: (907) 459-3953.

Kanatak, Native Village of, Tony Olivera, Tribal Administrator/ICWA Director, P.O. Box 872231, Wasilla, AK 99687; Phone: (907) 357-5991; Fax: (907) 357-5992; e-mail: kanatak@mtaonline.net; and Children's Services Program Manager, Bristol Bay Native Association, P.O. Box 310, 1500 Kanakanak Road, Dillingham, AK 99576; Phone: (907) 842-4139; Fax: (907) 842-4106; e-mail: cnixon@bbna.com.

Karluk, Native Village of, Joyce Jones, ICWA Worker, P.O. Box 22, Karluk, AK 99608; Phone: (907) 241-2218; Fax: (907) 241-2208.

Kasaan, Organized Village of, Richard J. Peterson, President, P.O. Box 26-KXA, Kasaan, Ketchikan, AK 99950; Phone: (907) 542-2230; Fax: (907) 542-3006; e-mail: richard@kasaan.org.

Kashunamiut Tribe (see Chevak).

Kasigluk Traditional Elders Council (formerly the Native Village of Kasigluk), Olinka Nicholas, ICWA Family Service Specialist, P.O. Box 19, Kasigluk, AK 99609; Phone: (907) 477-6418; Fax: (907) 477-6416; e-mail: kasigluk.admin@gmail.com.

Kenaitze Indian Tribe, Ms. Vide Van Velzor, ICWA Worker, 110 North Willow Ave., Kenai, AK 99611; Phone: (907) 283-6693; Fax: (907) 283-7088; e-mail: vvanvelzor@kenaitze.org.

Ketchikan Indian Corporation, Chuck Wanner, Behavioral health Director, and Terri Burr, Family Specialist; 2960 Tongass Avenue, First Floor, Ketchikan, AK 99901; Phone: (907) 228-4917, ext. 1288; Fax: (907) 228-4920; e-mail: cwagner@kictribe.org; tburr@kictribe.org.

Kiana, Native Village of, Elmer Jackson, ICWA Coordinator, P.O. Box 69, Kiana, AK 99749; Phone: (907) 475-2226 ext. 14; Fax: (907) 475-2266; e-mail: icwa@katyaaq.org.

King Cove (see Agdaagux).

King Island Native Community, Jennifer Alvanna, Tribal Family Coordinator, P.O. Box 682, Nome, AK 99762; Phone: (907) 443-5181; Fax: (907) 443-8049; e-mail: jalvanna2@kawerak.org.

King Salmon Tribe, Ralph Angasan, Jr., Tribal Administrator, P.O. Box 68, King Salmon, AK 99613; Phone: (907) 246-3553/3447; Fax: (907) 246-3449; and Children's Services Program Manager, Bristol Bay Native Association, P.O. Box 310, 1500 Kanakanak Road, Dillingham, AK 99576; Phone: (907) 842-4139; Fax: (907) 842-4106; e-mail: cnixon@bbna.com.

Kipnuk, Native Village of, Nicole A. Slim, ICWA Specialist, P.O. Box 57, Kipnuk, AK 99614; Phone: (907) 896-5430; Fax: (907) 896-5704; e-mail: nslim@avcp.org; and Association of Village Council Presidents, ICWA Counsel, P.O. Box 219, Bethel, AK 99559; Phone: (907) 543-7440; Fax: (907) 543-5759.

Kivalina, Native Village of, Colleen E. Swan, Tribal Administrator and Tribal President, P.O. Box 50051, Kivalina, AK 99750; Phone: (907) 645-2153; Fax: (907) 645-2193/2250; e-mail: colleen.swan@kivaliniq.org, and Jackie Hill, Maniilaq Association, P.O. Box 256, Kotzebue, AK 99752; Phone: (907) 442-7919; Fax: (907) 442-7933.

Klawock Cooperative Association, Henrietta Kato, ICWA Agent, P.O. Box 173, Klawock, AK 99925; Phone: (907) 755-2326; Fax: (907) 755-2647; e-mail: hkato@ccthita.org.

Klukwan (see Chilkat Indian Village).

Kluti-Kaah (Copper Center), Native Village of, Donald Johns, President, P.O. Box 68, Copper Center, AK 99573; Phone: (907) 822-5541; Fax: (907) 822-5130; e-mail: nvkktops@cvinternet.net.

Knik Tribe, Geraldine Nicoli, ICWA Worker, P.O. Box 871565, Wasilla, AK 99687-1565; Phone: (907) 373-7938; Fax: (907) 373-2153; e-mail: gnicoli@kniktribe.org.

Kobuk, Native Village of, Wanda Custer, ICWA Coordinator, P.O. Box 51039, Kobuk, AK 99751-0039; Phone: (907) 948-2255; Fax: (907) 948-2355; e-mail: icwa@laugvik.org.

Kodiak Tribal Council, (see Sun'aq Tribe of Kodiak, formerly Shoonaq Tribe).

Kokhanok Village, Mary Andrew, Tribal Children Service Worker, P.O. Box 1007, Kokhanok, AK 99606; Phone: (907) 282-2224; Fax: (907) 282-2221; and Crystal Nixon, Children's Services Program Manager, Bristol Bay Native Association, P.O. Box 310, 1500 Kanakanak Road, Dillingham, AK 99559; Phone: (907) 842-4139; Fax: (907) 842-4106; e-mail: cnixon@bbna.com.

Koliganek Village (see New Koliganek).

Kongiganak, Native Village of, Janet Otto, ICWA Worker, P.O. Box 5092, Kongiganak, AK 99545; Phone: (907) 557-5311; Fax: (907) 557-5348; e-mail: janet_otto@avcp.org; and Association of Village Council Presidents, ICWA Counsel, P.O. Box 219, Bethel, AK 99559; Phone: (907) 543-7440; Fax: (907) 543-5759.

Kotlik, Village of, Henrietta M. Teeluk, ICWA Worker, P.O. Box 20210, Kotlik, AK 99620; Phone: (907) 899-4459; Fax: (907) 899-4459/4790; and Association of Village Council Presidents, ICWA Counsel, P.O. Box 219, Bethel, AK 99559; Phone: (907) 543-7440; Fax: (907) 543-5759.

Kotzebue, Native Village of, Nicole Cravalho, Family Services Director, P.O. Box 296, Kotzebue, AK 99752-0296; Phone: (907) 442-3467; Fax: (907) 442-2162; e-mail: nicole.cravalho@qira.org.

Koyuk, Native Village of, Leo M. Charles Sr., Tribal Family Coordinator, P.O. Box 53030, Koyuk, AK 99753; Phone: (907) 963-2215; Fax: (907) 963-2300; e-mail: lcharles@kawerak.org.

Koyukuk Native Village, Leo Lolnitz, First Chief, P.O. Box 109, Koyukuk, AK 99754; Phone: (907) 927-2253; Fax: (907) 927-2220; and Legal Department, Tanana Chiefs Conference, 122 First Avenue, Suite 600, Fairbanks, AK 99701; Phone: (907) 452-8251 ext. 3177; Fax: (907) 459-3953.

Kwethluk, Organized Village of, Chariton A. Epchook, Indian Child Welfare Act Coordinator, P.O. Box 130, Kwethluk, AK 99621; Phone: (907) 757-6043; Fax: (907) 757-6321; ovkssicw@unicom-alaska.com.

Kwigillingok, Native Village of, Andrew Beaver, ICWA Worker, P.O. Box 49, Kwigillingok, AK 99622; Phone: (907) 588-8705; Fax: (907) 588-8429.

Kwinhagak, Native Village of, (aka Quinhagak), Fannie Hernandez, Health & Human Service Director/ICWA, P.O. Box 149, Quinhagak, AK 99655; Phone: (907) 556-8167 ext. 410; Fax: (907) 556-8521; e-mail: fhernandez.nvk@gmail.com.

L

Larsen Bay, Native Village of, Geraldine Watson, ICWA Worker, P.O. Box 50, Larsen Bay, AK 99624; Phone: (907) 847-2207; Fax: (907) 847-2307.

Lesnoi Village (aka Woody Island), Maggie Rocheleau, Village Administrator, 3248 Mill Bay Road, Kodiak, AK 99615; Phone: (907) 486-2821; Fax: (907) 486-2738; e-mail: village@alaska.com.

Levelock Village, Lucinda Tallekpalek, Tribal Children Service Worker, P.O. Box 70, Levelock, AK 99625; Phone: (907) 287-3030; Fax: (907) 287-3032; e-mail: levelock@starband.net; and Children's Services Program Manager, Bristol Bay Native Association, P.O. Box 310, 1500 Kanakanak Road, Dillingham, AK 99576; Phone: (907) 842-4139; Fax: (907) 842-4106; e-mail: cnixon@bbna.com.

Lime Village, Ursula Graham, Administrator, P.O. Box LVD, McGrath, AK 99627-8999; Phone: (907) 526-5236; Fax: (907) 526-5235; e-mail: limevillage@gmail.com.

Louden (See Galena).

M

Manley Hot Springs Village, Sabrenia Jervsjo, TFYS/TWDS, P.O. Box 105, Manley Hot Springs, AK 99756; Phone: (907) 672-3180; Fax: (907) 672-3200; e-mail: sabrenia.jervsjo@tananachiefs.org; and Legal Department, Tanana Chiefs Conference, 122 First Avenue, Suite 600, Fairbanks, AK 99701; Phone: (907) 452-8251 ext. 3177; Fax: (907) 459-3953.

Manokotak Village, Allison George, Tribal Children's Service Worker, P.O. Box 169, Manokotak, AK 99628; Phone: (907) 289-20672074; Fax: (907) 289-1235; and Children's Services Program Manager, Bristol Bay Native Association, P.O. Box 310, 1500 Kanakanak Road, Dillingham, AK 99576; Phone: (907) 842-4139; Fax: (907) 842-4106; e-mail: cnixon@bbna.com.

Marshall, Native Village of, (aka Fortuna Ledge), Ruth Fitka, Social Service Director, Box 110, Marshall, AK 99585; Phone: (907) 679-6302/6128; Fax: (907) 679-6187.

Mary's Igloo, Native Village of, Dolly Kugzruk, ICWA Worker/Kawerak, Inc., P.O. Box 546, Teller, AK 99778; Phone: (907) 642-2185; Fax: (907) 642-3000; e-mail: dkugzruk@kawerak.org.

McGrath Native Village, Tribal Family and Youth Specialist, P.O. Box 134, McGrath, AK 99627; Phone: (907) 524-3023; Fax: (907) 524-3899; and Legal Department Julia Webb, Tanana Chiefs Conference, 122 First Avenue, Suite 200, Fairbanks, AK 99701; Phone: (907) 452-8251 ext. 3177; Fax: (907) 459-3953; e-mail: juliewebb@tananachiefs.org.

Mekoryuk, Native Village of, Mona K. David, ICWA Coordinator, P.O. Box 66, Mekoryuk, AK 99630; Phone: (907) 827-8827; Fax: (907) 827-8170.

Mentasta Traditional Council, Ms. Cecil G. Sanford, ICWA Program, P.O. Box 6024, Mentasta, AK 99780; Phone: (907) 291-2319; Fax: (907) 291-2305.

Metlakatla Indian Community, Annette Island Reserve, Karen D. Thompson, Director Social Services/ICWA Representative/Child Mental Health, P.O. Box 8, Metlakatla, AK 99926; Phone: (907) 886-6911; Fax: (907) 886-6913.

Minto, Native Village of, Lori Baker, Program Coordinator, P.O. Box 19, Minto, AK 99758; Phone: (907) 798-7448; Fax: (907) 798-7450; and Legal Department, Tanana Chiefs Conference, 122 First Avenue, Suite 600, Fairbanks, AK 99701; Phone: (907) 452-8251 ext. 3177; Fax: (907) 459-3953.

Mountain Village (see Asa'carsarmiut Tribe).

N

Naknek Native Village, Linda Patterson, ICWA Worker and Tribal Administrator; P.O. Box 106, Naknek, AK 99633; Phone: (907) 246-4210; Fax: (907) 246-3563; e-mail: icwa@bristolbay.com; and Children's Services Program Manager, Bristol Bay Native Association, P.O. Box 310, 1500 Kanakanak Road, Dillingham, AK 99576; Phone: (907) 842-4139; Fax: (907) 842-4106; e-mail: cnixon@bbna.com.

Nanwalek, Native Village of, (aka English Bay), Alma Moonin, IRA Administrator, P. O. Box 8028, Nanwalek, AK 99603-6021; Phone: (907) 281-2274; Fax: (907) 281-2252.

Napaimute, Native Village of, Marcie Sherer, President, P.O. Box 1301, Bethel, AK 99559; Phone: (907) 543-2887; Fax: (907) 543-2892; napaimute@starband.net; and Association of Village Council Presidents, ICWA Counsel, P.O. Box 219, Bethel, AK 99559; Phone: (907) 543-7440; Fax: (907) 543-5759.

Napakiak, Native Village of, Sally K. Billy, ICWA-CFSS, P.O. Box 34114, Napakiak, AK 99634; Phone: (907) 589-2815; Fax: (907) 589-2814; e-mail: sbilly@unicom-alaska.com; and Association of Village Council Presidents, ICWA Counsel, P.O. Box 219, Bethel, AK 99559; Phone: (907) 543-7440; Fax: (907) 543-5759.

Napaskiak, Native Village of, Jacqueline Nicholai, ICWA Advocate, P.O. Box 6009, Napaskiak, AK 99559; Phone: (907) 737-7821; Fax: (907) 737-7845; e-mail: jnicholai@napaskiak.org.

Nelson Lagoon, Native Village of, Justine Gundersen, Administrator, P.O. Box 913, Nelson Lagoon, AK 99571; Phone: (907) 989-2204; Fax: (907) 989-2233; and Grace Smith, Family Programs Coordinator, Aleutian/Pribilof Islands Association, Inc., 1131 East International Airport Road, Anchorage, AK 99518-1408; Phone: (907) 276-2700 or 222-4236; Fax: (907) 279-4351; e-mail: graces@apiai.org.

Nenana Native Association, Nita M. Marks, Youth & Family Services Director, P.O. Box 369, Nenana, AK 99760; Phone: (907) 832-5461 ext. 225; Fax: (907) 832-5447; and Legal Department, Tanana Chiefs Conference, 122 First Avenue, Suite 600, Fairbanks, AK 99701; Phone: (907) 452-8251 ext. 3177; Fax: (907) 459-3953.

New Koliganek Village Council (formerly Koliganek Village), Sally Kayoukluk, Tribal Children Service Worker, P.O. Box 5026, Koliganek AK 99576; Phone: (907) 596-3425; Fax: (907) 596-3462; and Children's Services Program Manager, Bristol Bay Native Association, P.O. Box 310, 1500 Kanakanak Road, Dillingham, AK 99559; Phone: (907) 842-4139; Fax: (907) 842-4106; e-mail: cnixon@bbna.com.

New Stuyahok Village, Wassillie Andrews, Tribal Administrator, P.O. Box 49, New Stuyahok, AK 99637; Phone: (907) 693-3102/3173; Fax: (907) 693-3179; e-mail: nstc@starband.net; and Children's Services Program Manager, Bristol Bay Native Association, P.O. Box 310, 1500 Kanakanak Road, Dillingham, AK 99576; Phone: (907) 842-4139; Fax: (907) 842-4106; e-mail: cnixon@bbna.com.

Newhalen Village, Joanne Wassillie, Tribal Administrator and Maxine Wassillie, ICWA Worker; P.O. Box 207, Newhalen, AK 99606-0207; Phone: (907) 571-1410; Fax: (907) 571-1537; and Children's Services Program Manager, Bristol Bay Native Association, P.O. Box 310, 1500 Kanakanak Road, Dillingham, AK 99576; Phone: (907) 842-4139; Fax: (907) 842-4106; e-mail: cnixon@bbna.com.

Newtok Village, Tom John, Tribal Court, P.O. Box 5545, Newtok, AK 99559-5545; Phone: (907) 237-2314; Fax: (907) 237-2428.

Native Village of Nightmute, Noah Lawrence, Administrator, Box 90021, Nightmute, AK 99690; Phone: (907) 647-6215; Fax: (907) 647-6112; and Association of Village Council Presidents, ICWA Counsel, P.O. Box 219, Bethel, AK 99559; Phone: (907) 543-7440; Fax: (907) 543-5759.

Nikolai Village, Peter A. Tony, Tribal Family Youth Specialist, P.O. Box 9105, Nikolai, AK 99691; Phone: (907) 293-2311; Fax: (907) 293-2481; and Legal Department, Tanana Chiefs Conference, 122 First Avenue, Suite 600, Fairbanks, AK 99701; Phone: (907) 452-8251 ext. 3177; Fax: (907) 459-3953.

Nikolski, Native Village of, Grace Smith, Family Programs Coordinator, Aleutian/Pribilof Islands Association, 1131 East International Airport Road, Anchorage, AK 99518-1408; Phone: (907) 276-2700; Fax: (907) 279-4351; e-mail: graces@apiai.org.

Ninilchik Village, Michelle Partridge, Social Services Specialist, P.O. Box 39444, Ninilchik, AK 99669; Phone: (907) 567-3313 Ext. 1010; Fax: (907) 567-3354; e-mail: mpartridge@ninilchiktribe-nsn.gov.

Noatak, Native Village of, Alvin Ashby, Administrator, or Sarah Penn, ICWA Worker, P.O. Box 89, Noatak, AK 99761-0089; Phone: (907) 485-2173, ext 12; Fax: (907) 485-2137; e-mail: saumik.penn@gmail.com.

Nome Eskimo Community, Moriah Sallaffie, ICWA Case Manager, P.O. Box 1090, Nome, AK 99762-1090; Phone: (907) 443-9109; Fax: (907) 443-9140; e-mail: m.sallaffie@gci.net.

Nondalton Village, Betty Wilson-Evanoff, Social Services/ICWA Worker, P.O. Box 49, Nondalton, AK 99640-0049; Phone: (907) 294-2206; Fax: (907) 294-2262; e-mail: ntcadmin@gci.net, and Children's Services Program Manager, Bristol Bay Native Association, P.O. Box 310, 1500 Kanakanak Road, Dillingham, AK 99559; Phone: (907) 842-4139; Fax: (907) 842-4106; e-mail: cnixon@bbna.com.

Noorvik Native Community, Nellie Ballot, ICWA Coordinator, P.O. Box 209, Noorvik, AK 99763; Phone: (907) 636-2258; Fax: (907) 636-2268; e-mail: icwa@nuurvik.org; and Jackie Hill, Maniilaq Association, P.O. Box 256, Kotzebue, AK, 99572, Phone: (907) 442-7657; Fax: (907) 442-7933.

Northway Village, Donna Northway, ICWA Worker and Daisy Northway, Tribal Administrator, P.O. Box 516, Northway, AK 99764; Phone: (907) 778-2311; Fax: (907) 778-2220.

Nuiqsut, Native Village of, (aka Nooiksut), Sheila K. Baker, Tribal Administrator, P.O. Box 89169, Nuiqsut, AK, 99789; Phone: (907) 480-3010; Fax: (907) 480-3009; e-mail: tanvn@astacalaska.net; and Arctic Slope Native Association, Maude Hopson, ICWA Worker; P.O. Box 1232, Barrow, Alaska 99723 Phone: (907) 852-9374; Fax: (907) 852-2761.

Nulato Village, Kathleen M. Sam, Director of Human Services, P.O. Box 49, Nulato, AK 99765; Phone: (907) 898-2329 Fax: (907) 898-2207; e-mail: nulatotribe@nulatotribe.org; and Legal Department, Tanana Chiefs Conference, 122 First Avenue, Suite 600, Fairbanks, AK 99701; Phone: (907) 452-8251 ext. 3177; Fax: (907) 459-3953.

Nunakauyarmiut Tribe (formerly the Native Village of Toksook Bay), Marcella White, ICWA Coordinator; and Simeon John, Council President, P.O. Box 37048; Toksook Bay, AK 99637; Phone: (907) 427-7914/7114; Fax: (907) 427-7206/7714.

Nunam Iqua, (formerly known as Sheldon's Point), Edward J. Adams, Sr. Tribal President, P.O. Box 27, Nunam Iqua, AK 99666; Phone: (907) 498-44911; Fax (907) 498-4185; and Association of Village Council Presidents, ICWA Counsel, P.O. Box 219, Bethel, AK 99559; Phone: (907) 543-7440; Fax: (907) 543-5759.

Nunapitchuk, Native Village of, Alexandria Tobeluk, Community Family Service Specialist/ICWA, P.O. Box 104, Nunapitchuk, AK 99641-0130; Phone: (907) 527-5731; Fax: (907) 527-5732; e-mail: icwa@yupik.org.

O

Ohogamiut, Village of, Nick P. Andrew, Jr., Tribal Administrator, P.O. Box 49, Marshall, AK 99585; Phone: (907) 679-6517/6598; Fax: (907) 679-6516; e-mail: nandrew@gci.net.

Old Harbor, Village of, Conrad Peterson, President, P.O. Box 62, Old Harbor, AK 99643-0062; Phone: (907) 286-2215; Fax: (907) 286-2277; conradpeterson@oldharbortribal.com.

Orutsararmuit Native Village, (aka Bethel), Vicki Koehler, Social Services Director, P.O. Box 327, Bethel AK 99559; Phone: (907) 543-2608; Fax: (907) 543-0520; e-mail: vkoehler@nativecouncil.org.

Oscarville Traditional Village, Andrew J. Larson, Jr., ICWA/CFSS Worker, P.O. Box 6129, Napaskiak, AK 99559; Phone: (907) 737-7100; Fax: (907) 737-7428/7101; e-mail: alarson@avcp.org; and Association of Village Council Presidents, ICWA Counsel, P.O. Box 219, Bethel, AK 99559; Phone: (907) 543-7440; Fax: (907) 543-5759.

Ouzinkie, Native Village of, Michelle M. Johnson, ICWA Director, P.O. Box 130, Ouzinkie, AK 99644-0130; Phone: (907) 680-2359; Fax: (907) 680-2214; e-mail: icwa@ouzinkie.org.

P

Paimiut, Native Village of, Agatha Napoleon, Clerk/Environmental Programs, P.O. Box 230, Hooper Bay, AK 99604; Phone: (907) 758-4002; Fax: (907) 758-4024; e-mail: paimiuttraditional@gci.net.

Pauloff Harbor Village, Attn: Grace Smith, ICWA Coordinator, P.O. Box 97, Sand Point, AK 99661; Phone: (907) 383-6075; Fax: (907) 383-6094; e-mail: pauloff@arctic.net; Grace Smith, Family Programs Coordinator, Aleutian/Pribilof Islands Association, 1131 East International Airport Road, Anchorage, AK 99518-1408; Phone: (907) 276-2700 or 222-4236; Fax: (907) 279-4351; e-mail: graces@apiai.org.

Pedro Bay Village, Kevin Jensen, Operations Coordinator, P.O. Box 47020, Pedro Bay, AK 99647-7020; Phone: (907) 850-2225; Fax: (907) 850-2221; e-mail: kevinjensen@pedrobay.com; and Children's Services Program Manager, Bristol Bay Native Association, P.O. Box 310, 1500 Kanakanak Road, Dillingham, AK 99576; Phone: (907) 842-4139; Fax: (907) 842-4106; e-mail: cnixon@bbna.com.

Perryville, Native Village of, Bernice O'Domin, Tribal Children's Service Worker, P.O. Box 97, Perryville, AK 99648-0089; Phone: (907) 853-2242; Fax: (907) 853-2229; and Children's Services Program Manager, Bristol Bay Native Association, P.O. Box 310,1500 Kanakanak Road, Dillingham, AK 99576; Phone: (907) 842-4139; Fax: (907) 842-4106; e-mail: cnixon@bbna.com.

Petersburg Indian Association, Brandy Christensen, Tribal Social Worker, P.O. Box 1418, Petersburg, AK 99833; Phone: (907) 772-3636; Fax: (907) 772-3637; e-mail: icwa@piatribal.org.

Pilot Point, Native Village of, Lori Ann Abyo, Tribal Administrator, P.O. Box 449, Pilot Point, AK 99649; Phone: (907) 797-2208; Fax: (907) 797-2258, and Children's Services Program Manager, Bristol Bay Native Association, P.O. Box 310, 1500 Kanakanak Road, Dillingham, AK 99559; Phone: (907) 842-4139; Fax: (907) 842-4106; e-mail: cnixon@bbna.com.

Pilot Station Traditional Village, Wassillie E. Myers, Tribal Council President, P.O. Box 5119, Pilot Station, AK 99650-5119; Phone: (907) 549-3373; Fax (907) 549-3301; e-mail: wmyers@loweryukon.org; and Association of Village Council Presidents, ICWA Counsel, P.O. Box 219, Bethel, AK 99559; Phone: (907) 543-7440; Fax: (907) 543-5759.

Pitka's Point, Native Village of, Ruth Riley, President, P.O. Box 127, St. Mary's, AK 99658; Phone: (907) 438-2833; Fax: (907) 438-2569; e-mail: pitkaspoint@msn.com.

Platinum Traditional Village, Tribal President and ICWA Worker, P.O. Box 8, Platinum, AK 99651; Phone: (907) 979-8610; Fax: (907) 979-8178.

Point Hope, Native Village of, Daisy A. Sage, Family Caseworker, P.O. Box 109, Point Hope, AK 99766; Phone: (907) 368-3122; Fax: (907) 368-5401; e-mail: daisy.sage@tikigaq.org.

Point Lay, Native Village of, Tribal President, Box 59031, Pt. Lay, AK 99757; Phone: (907) 833-2575; and Price Leavitt, Sr., Executive Director; Inupiat Community of the Arctic Slope, P.O. Box 934, 6986 Ahmaogak St., Barrow, Alaska 99723; Phone: (907) 852-4227; Fax: (907) 852-4068; e-mail: icas.executive@barrow.com.

Port Graham, Native Village of, Mary Malchoff, ICWA Worker, or Patrick Norman, Chief, P.O. Box 5510, Port Graham, AK 99603; Phone: (907) 284-2227; Fax: (907) 284-2222.

Port Heiden, Native Village of, Tribal Administrator and Larissa Orloff, Tribal Children Service Worker; P.O. Box 49007, Port Heiden, AK 99549; Phone: (907) 837-2225/2296; Fax: (907) 837-2297; e-mail: lorloff@starband.net; and Children's Services Program Manager, Bristol Bay Native Association, P.O. Box 310, 1500 Kanakanak Road, Dillingham, AK 99576; Phone: (907) 842-4139; Fax: (907) 842-4106; e-mail: cnixon@bbna.com.

Port Lions, Native Village of, Jessica Ursin, Tribal Family Service Coordinator, P.O. Box 69, Port Lions, AK 99550-0069; Phone: (907) 454-2234; Fax: (907) 454-2434; e-mail: jessica@portlions.net.

Portage Creek Village (aka Ohgensakale), Mary Ann Johnson, Tribal Administrator, 1327 E. 72nd Ave., Unit B, Anchorage, AK 99508; Phone: (907) 277-1105; Fax: (907) 277-1104; and Children's Services Program Manager, Bristol Bay Native Association, P.O. Box 310, 1500 Kanakanak Road, Dillingham, AK 99576; Phone: (907) 842-4139; Fax: (907) 842-4106; e-mail: cnixon@bbna.com.

Q

Qagan Tayagungin Tribe of Sand Point Village, Anne M. Morris, Administrator/Tribal Clerk, Box 447, Sand Point, AK 99661; Phone: (907) 383-5616; Fax: (907) 383-5814; e-mail: qttadmin@arctic.net; and Grace Smith, Family Programs Coordinator, Aleutian/Pribilof Islands Association, 1131 East International Airport Road, Anchorage, AK 99518-1408; Phone: (907) 276-27000 or 222-4236; Fax: (907) 279-4351; e-mail: graces@apiai.org.

Qawalangin Tribe of Unalaska, Kathy M. Dirks, Family Programs Services, P.O. Box 1130, Unalaska, AK 99685; Phone: (907) 581-6574; Fax: (907) 581-2040; e-mail: kathyd@apiai.org; and Grace Smith, Tribal Representative, Aleutian/Pribilof Islands Association, 1131 East International Airport Road, Anchorage, AK 99518-1408; Phone: (907) 276-2700 or 222-4236; Fax: (907) 279-4351; e-mail: graces@apiai.org.

Quinhagak (see Kwinhagak).

Qissunamiut Tribe (see Chevak).

R

Rampart Village, Corina Collins, Tribal Administrator, P.O. Box 76029, Rampart, Alaska 99767; Ph: (907) 358-3312; Fax: (907) 358-3115; and Legal Department, Tanana Chiefs Conference, 122 First Avenue, Suite 600, Fairbanks, AK 99701; Phone: (907) 452-8251 ext. 3177; Fax: (907) 459-3953.

Red Devil, Village of, Tribal Administrator, P.O. Box 27, Red Devil, AK 99656; Phone: (907) 447-3223; Fax: (907) 447-3224; and Association of Village Council Presidents, ICWA Counsel, P.O. Box 219, Bethel, AK 99559; Phone: (907) 543-7440; Fax: (907) 543-5759.

Ruby, Native Village of, Patrick Sweetsir, Tribal Administrator, P.O. Box 210, Ruby, AK 99768; Phone: (907) 468-4479; Fax: (907) 468-4474; and Legal Department, Tanana Chiefs Conference, 122 First Avenue, Suite 600, Fairbanks, AK 99701; Phone: (907) 452-8251 ext. 3177; Fax: (907) 459-3953.

Russian Mission (see Iqurmuit Traditional Council)

S

Saint George Island, Grace Smith, Family Programs Coordinator, Aleutian/Pribilof Islands Association, 1131 East International Airport Road, Anchorage, AK 99518-1408; Phone: (907) 276-2700 or 222-4236; Fax: (907) 279-4351; e-mail: graces@apiai.org.

Saint Michael, Native Village of, Shirley Martin, IRA President, P.O. Box 59050, St. Michael, AK 99659; Phone: (907) 923-2304/2405; Fax: (907) 923-2406; e-mail: smkpres07@gci.net.

Saint Paul Island, Maxim Buterin, Jr., ICWA Children Service Worker, P.O. Box 31, St. Paul Island, Alaska 99660; Phone: (907) 546-3224; and Grace Smith, Family Programs Coordinator, Aleutian/Pribilof Islands Association, 1131 East International Airport Road, Anchorage, AK 99518-1408; Phone: (907) 276-2700 or 222-4236; Fax: (907) 279-4351; e-mail: graces@apiai.org.

Salamatoff, Village of, Penny Carty, President, P.O. Box 2682, Kenai, AK 99611; Phone: (907) 283-7864; Fax: (907) 283-6470; e-mail: snainc@alaska.com.

Sand Point (see Qagan Tayagungin Tribe of Sand Point Village).

Savoonga, Native Village of, Tribal President, and Ronnie Toolie, Council Member, P.O. Box 120, Savoonga, AK 99769; Phone: (907) 984-6211; Fax: (907) 984-6156.

Saxman, Organized Village of, Barbara A. Laman, Family Caseworker, Route 2, Box 2, Ketchikan, AK 99901; Phone: (907) 225-2518; Fax: (907) 247-2504; e-mail: blaman@ccthita.org; and Francine E. Jones, Tribal Family & Youth Services Manager; e-mail: fjones@ccthita.org.

Scammon Bay, Native Village of, Regina Black, ICWA Community Family Service Specialist, or Brandon Aguckak, Executive Director, P.O. Box 110, Scammon Bay, AK 99662; Phone: (907) 558-5078/5127; Fax: (907) 558-5134; e-mail: rblack@avcp.org; aguchakb@mararamiut.com; and Association of Village Council Presidents, ICWA Counsel, P.O. Box 219, Bethel, AK 99559; Phone: (907) 543-7440; Fax: (907) 543-5759.

Selawik, Native Village of, Lenora Foxglove, Executive Director, P.O. Box 59, Selawik, AK 99770-0059; Phone: (907) 484-2165 ext. 14; Fax: (907) 484-2226.

Seldovia Village Tribe, Paula Elvsaas, ICWA Worker, Drawer L, Seldovia, AK 99663; Phone: (907) 234-7898, ext. 255; Fax: (907) 234-7875; e-mail: pelvsaas@svt.org.

Shageluk Native Village, Kelly S. Workman, TFYS, P.O. Box 109, Shageluk, AK 99665; Phone: (907) 473-8239/8229; Fax: (907) 473-8295/8275; and Legal Department, Tanana Chiefs Conference, 122 First Avenue, Suite 600, Fairbanks, AK 99701; Phone: (907) 452-8251 ext. 3177; Fax: (907) 459-3953.

Shaktoolik, Native Village of, Tribal President and Tribal Administrator, P.O. Box 100, Shaktoolik, AK 99771; Phone: (907) 955-2444; Fax: (907) 955-2443.

Sheldon's Point (See Nunam Iqua).

Shishmaref, Native Village of, Karla Nayokpuk, Tribal Family Coordinator, P.O. Box 72110, Shishmaref, AK 99772; Phone: (907) 649-3078/3821; Fax: (907) 649-2278; e-mail: knayokpuk@kawerak.org.

Shungnak, Native Village of, Lizzie L. Cleveland, ICWA, P.O. Box 64, Shungnak, AK 99773; Phone: (907) 437-2163; Fax: (907) 437-2183; e-mail: icwa@issingnak.org.

Sitka Tribe of Alaska, Terri McGraw, ICWA Caseworker, 456 Katlian St., Sitka, AK 99835; Phone: (907) 747-7359; Fax: (907) 747-7643; e-mail: trncgraw@sitkatribe.org.

Skagway Village, Delia Commander, Tribal President/Administrator, P.O. Box 1157, Skagway, AK 99840; Phone: (907) 983-4068; Fax: (907) 983-3068; e-mail: dcommander@skagwaytraditional.org; and Indian Child Welfare Coordinator, Central Council Tlingit and Haida Indian Tribes of Alaska, 320 W. Willoughby, Suite 300, Juneau, AK 99801; Phone: (907) 463-7148; Fax: (907) 463-7343; e-mail: mdoyle@ccthita.org.

Sleetmute, Village of, Gladys Fredericks, ICWA Worker, P.O. Box 109, Sleetmute, AK 99668; Phone: (907) 449-4225; Fax: (907) 449-4203.

Solomon, Village of, Tribal President and Tribal Administrator, P.O. Box 2053, Nome, AK 99762; Phone: (907) 443-4985; Fax: (907) 443-5189.

South Naknek Village, Lorianne Rawson, Tribal Administrator, P.O. Box 70029, South Naknek, AK 99670; Phone: (907) 246-8614; Fax: (907) 246-8613; e-mail: snvc@starband.net; and Children's Services Program Manager, Bristol Bay Native Association, P.O. Box 310, 1500 Kanakanak Road, Dillingham, AK 99576; Phone: (907) 842-4139; Fax: (907) 842-4106; e-mail: cnixon@bbna.com.

St. Mary's (see Algaaciq).

Stebbins Community Association, Becky Odinzoff, Tribal Family Coordinator, P.O. Box 71002, Stebbins, AK 99671; Phone: (907) 934-2334; Fax: (907) 934-2675; e-mail: bodinzoff@kawerak.org.

Stevens, Native Village of, Randy Mayo, 1st Chief/Cheryl Mayo Kriska, Grant Administrator, P.O. Box 71372, Fairbanks, AK 99701; Phone: (907) 452-7162; Fax: (907) 452-5063; e-mail: ari@acsalaska.net; and Legal Department, Tanana Chiefs Conference, 122 First Avenue, Suite 600, Fairbanks, AK 99701; Phone: (907) 452-8251 ext. 3177; Fax: (907) 459-3953.

Stony River, Village of, President; P.O. Box SRV, Birch Road, Stony River, AK 99557; Phone: (907) 537-3253; Fax: (907) 537-3254; and Association of Village Council Presidents, ICWA Counsel, P.O. Box 219, Bethel, AK 99559; Phone: (907) 543-7440; Fax: (907) 543-5759.

Sun'aq Tribe of Kodiak (formerly the Shoonaq' Tribe of Kodiak), Frank Peterson, Social Services Director, 312 W. Marine Way, Kodiak, AK 99615; Phone: (907) 486-4449; Fax: (907) 486-3361; e-mail: social_services@gci.net.

T

Takotna Village, Carole Absher, Tribal Family Youth Services Worker, P.O. Box 7529, Takotna, AK 99675; Phone: (907) 298-2212; Fax: (907) 298-2314; and Legal Department, Tanana Chiefs Conference, 122 First Avenue, Suite 600, Fairbanks, AK 99701; Phone: (907) 452-8251 ext. 3177; Fax: (907) 459-3953.

Tanacross, Native Village of, Roy G. Denny, President, P.O. Box 76009, Tanacross, AK 99776; Phone: (907) 883-5024 Ext. 122; Fax: (907) 883-4497.

Tanana, Native Village of, Thelma Starr, Acting Executive Director, P.O. Box 77130, Tanana, AK 99777; Phone: (907) 366-7222; Fax: (907) 366-7195.

Tatitlek, Native Village of, Lori (Sue) Johnson, President, P.O. Box 171, Tatitlek, AK 99677; Phone: (907) 325-2311; Fax: (907) 325-2298; e-mail: suejohnson1@starband.net.

Tazlina, Native Village of, Marce Simeon, ICWA Coordinator, P.O. Box 87, Glennallen, AK 99588; Phone: (907) 822-4375; Fax: (907) 822-5865; e-mail: marce@cvinternet.net.

Telida Village, Jo Royal, Native Village Council, P.O. Box 32, Telida, Alaska 99627; Phone: (907) 524-3550, Fax: (907) 524-3163 and Legal Department, Tanana Chiefs Conference, 122 First Avenue, Suite 600, Fairbanks, AK 99701; Phone: (907) 452-8251 ext. 3177; Fax: (907) 459-3953.

Teller, Native Village of (Mary's Igloo), Dolly R. Kugzruk, Tribal Family Coordinator, P.O. Box 629, Teller, AK 99778; Phone: (907) 642-2185; Fax: (907) 642-3000; e-mail: dkugzruk@kawerak.org.

Tetlin, Native Village of, Christie Young, Tetlin IRA Council, P.O. Box 797, Tetlin, Alaska 99780, (907) 883-2021, Fax: (907) 883-2021, Box 93, Tok, AK 99780; Phone: (907) 883-2681; Fax: (907) 451-1717; and Legal Department, Tanana Chiefs Conference,122 First Avenue, Suite 600, Fairbanks, AK 99701; Phone: (907) 452-8251 ext. 3177; Fax: (907) 459-3953.

Tlingit & Haida Indian Tribes of Alaska (see Central Council Tlingit and Haida).

Togiak, Traditional Village of, Emma J. Wassillie, Tribal Children Service Worker, P.O. Box 310, Togiak, AK 99678; Phone: (907) 493-5431; Fax: (907) 493-5734; and Children's Services Program Manager, Bristol Bay Native Association, P.O. Box 310, 1500 Kanakanak Road, Dillingham, AK 99576; Phone: (907) 842-4139; Fax: (907) 842-4106; e-mail: cnixon@bbna.com.

Toksook Bay (see Nunakauyarmiut Tribe).

Tuluksak Native Community, Joseph Alexie, President and Margaret Andrew, ICWA Coordinator; P.O. Box 95, Tuluksak, AK 99679; Phone: (907) 695-6902/6420; Fax: (907) 695-6903/6932; and Association of Village Council Presidents, ICWA Counsel, P.O. Box 219, Bethel, AK 99559; Phone: (907) 543-7440; Fax: (907) 543-5759.

Tuntutuliak, Native Village of, Robert Enock, Tribal Administrator, P.O. Box 8086, Tuntutuliak, AK 99680; Phone: (907) 256-2128; Fax: (907) 256-2080; e-mail: renoch@avcp.org; and Association of Village Council Presidents, ICWA Counsel, P.O. Box 219, Bethel, AK 99559; Phone: (907) 543-7440; Fax: (907) 543-5759.

Tununak, Native Village of, Edna Flynn, ICWA Worker, P.O. Box 77, Tununak, AK 99681-0077; Phone: (907) 652-6220; Fax: (907) 652-6011; and Association of Village Council Presidents, ICWA Counsel, P.O. Box 219, Bethel, AK 99559; Phone: (907) 543-7440; Fax: (907) 543-5759.

Twin Hills Village, John W. Sharp, Tribal President, P.O. Box TWA, Twin Hills, AK 99576; Phone: (907) 525-4821; Fax: (907) 525-4822; e-mail: william15@starband.net; and Children's Services Program Manager, Bristol Bay Native Association, P.O. Box 310, 1500 Kanakanak Road, Dillingham, AK 99576; Phone: (907) 842-4139; Fax: (907) 842-4106; e-mail: cnixon@bbna.com.

Tyonek, The Native Village of, Angela Sandstol, Tribal President, P.O. Box 82009, Tyonek, AK 99682; Phone: (907) 583-2111; Fax: (907) 583-2442.

U

Ugashik Village, Betti J. Malagon, Tribal Administrator, 206 E. Fireweed Lane, #204, Anchorage, AK 99503; Phone: (907) 338-7611; Fax: (907) 338-7659; e-mail: ugashikoffice4@alaska.net; Children's Services Program Manager, Bristol Bay Native Association, P.O. Box 310,1500 Kanakanak Road, Dillingham, AK 99576; Phone: (907) 842-4139; Fax: (907) 842-4106; e-mail: cnixon@bbna.com.

Umkumiute Native Village, Jay A. Dull, Sr., President, P.O. Box 96062, Nightmute, AK 99690; Phone: (907) 647-6145; Fax: (907) 647-6146.

Unalakleet, Native Village of, Veronica Ivanoff, Tribal Family Coordinator, P.O. Box 270, Unalakleet, AK 99684; Phone: 907-624-3526; Fax: (907) 624-5104; e-mail: vivanoff@kawerak.org.

Unalaska (see Qawalangin Tribe of Unalaska).

Unga, Native Village of, Grace Smith, Family Programs Coordinator, Aleutian/Pribilof Islands Association, Social Services, 1131 East International Airport Road, Anchorage, AK 99518-1408; Phone: (907) 276-2700 or 222-4236; Fax: (907) 279-4351; e-mail: graces@apiai.org.

Upper Kalskag, Native Village of (see Kalskag).

V

Venetie, Village of (see Native Village of Venetie Tribal Government).

Venetie Tribal Government, Native Village of, Ernest D. Erick, 1st Chief of Venetie Village Council, P.O. Box 81119, Venetie, AK 99781; Phone: (907) 849-8212; Fax: (907) 849-8149; and Legal Department, Tanana Chiefs Conference, 122 First Avenue, Suite 600, Fairbanks, AK 99701; Phone: (907) 452-8251 ext. 3177; Fax: (907) 459-3953.

W

Wainwright, Village of, June Childress, President, P.O. Box 143, Wainwright, AK 99782; Phone: (907) 763-2535; Fax: (907) 763-2536; e-mail: junechildress@arcticslope.org; and Arctic Slope Native Association, Maude Hopson, ICWA Worker; P.O. Box 1232, Barrow, Alaska 99723 Phone: (907) 852-9374; Fax: (907) 852-2761.

Wales, Native Village of, Kelly Anungazuk, President, P.O. Box 549, Wales, AK 99783; Phone: (907) 664-2185; Fax: (907) 664-2200.

White Mountain, Native Village of, Katherine E. Bergamaschi, Tribal Family Coordinator/ICWA, P.O. Box 85, White Mountain, AK 99784; Phone: (907) 638-2008; Fax: (907) 638-2009; e-mail: kbergamaschi@kawerak.org.

Woody Island (see Leisnoi Village).

Wrangell Cooperative Association, Elizabeth Newman, Family Caseworker II, P.O. Box 1198, Wrangell, AK 99929; Phone: (907) 874-3482; Fax: (907) 874-2982; e-mail: bnewman@ccthita.org.

Y

Yakutat Tlingit Tribe, Cindy Brenner, ICWA Coordinator, P.O. Box 418, Yakutat, AK 99689; Phone: (907) 784-3124; Fax: (907) 784-3664.

2. Eastern Oklahoma Region

Jeanette Hanna, Regional Director, P.O. Box 8002, Muskogee, OK 74401; Telephone: (918) 781-4600; Fax (918) 781-4604.

Michelle Deason, M.S.W., Regional Social Worker, P.O. Box 8002, 3100 West Peak Boulevard, Muskogee, OK 74401; Phone: (918) 781-4613; Fax: (918) 781-4649.

A

Alabama—Quassarte Tribal Town, Tarpie Yargee, Chief, P.O. Box 187, Wetumka, OK 74883; Telephone: (405) 452-3987.

C

Cherokee Nation of Oklahoma, Chadwick Smith, Principal Chief, P.O. Box 948, Tahlequah, OK 74465; Telephone: (918) 456-0671.

The Chickasaw Nation, Bill Anoatubby, Governor, P.O. Box 1548, Ada, OK 74821; Telephone: (580) 436-2603.

Choctaw Nation of Oklahoma, Gregory E. Pyle, Chief, P.O. Drawer 1210, Durant, OK 74702-1210; Telephone: (580) 924-8280.

E

Eastern Shawnee Tribe of Oklahoma, Charles D. Enyart, Chief, P.O. Box 350, Seneca, MO 64865; Telephone: (918) 666-2435.

K

Kialegee Tribal Town, Gary Bucktrot, Town King, P.O. Box 332, Wetumka, OK 74883; Telephone: (918) 452-3262.

M

Miami Tribe of Oklahoma, Chief, P.O. Box 1326, Miami, OK 74355; Telephone: (918) 542-1445.

Modoc Tribe of Oklahoma, Bill Gene Follis, Chief, 515 G Southeast, Miami, OK 74354; Telephone: (918) 542-1190.

The Muscogee (Creek) Nation, A.D. Ellis, Principal Chief, P.O. Box 580, Okmulgee, OK 74447; Telephone: (918) 756-8700; Fax: (918) 758-1434.

O

Osage Tribe, Jim Roan Gray, Principal Chief, P.O. Box 779, Pawhuska, OK 74056; Telephone: (918) 287-5432.

Ottawa Tribe of Oklahoma, Charles Todd, Chief, P.O. Box 110, Miami, OK 74355; Telephone: (918) 540-1536.

P

Peoria Tribe of Indians of Oklahoma, John P. Froman, Chief, P.O. Box 1527, Miami, OK 74355; Telephone: (918) 540-2535.

Q

Quapaw Tribe of Oklahoma, John Berrey, Chairperson, P.O. Box 765, Quapaw, OK 74363; Telephone: (918) 542-1853.

S

Seminole Nation of Oklahoma, Enoch Kelly Haney, Principal Chief, P.O. Box 1498, Wewoka, OK 74884; Telephone: (405) 257-6287.

Seneca-Cayuga Tribe of Oklahoma, Paul Spicer, Principal Chief, P.O. Box 1283, Miami, OK 74355; Telephone: (918) 542-6609.

T

Thlopthlocco Tribal Town, George Scott, Town King, P.O. Box 188, Okemah, OK 74859; Telephone: (918) 623-2620.

U

United Keetoowah Band of Cherokee Indians, George Wickliffe, Chief, P.O. Box 746, Tahlequah, OK 74465; Telephone: (918) 431-1818.

W

Wyandotte Tribe of Oklahoma, Leaford Bearskin, Chief, P.O. Box 250, Wyandotte, OK 74370; Telephone: (918) 678-2297 or (918) 678-2298.

3. Eastern Region

Franklin Keel, Regional Director, 545 Marriott Drive, Suite 700, Nashville, TN 37214; Telephone: (615) 564-6700; Fax: (615) 564-6701.

Gloria York, Regional Social Worker, 545 Marriott Drive, Suite 700, Nashville, TN 37214; Telephone: (615) 564-6740; Fax: (615) 564-6547.

A

Aroostook Band of Micmac Indians, Ms. Sarah Dewitt, Social Services Director, 7 Northern Road, Presque Isle, Maine 04769; Telephone: (207) 764-1972; Fax: (207) 764-7667.

C

Catawba Indian Nation of South Carolina, Aliceson, McCormick, Director, Social Services, P.O. Box 188, Catawba, South Carolina 29704; Telephone: (803) 366-4792 x 225; Fax: (803) 327-4853.

Cayuga Nation of New York, Anita Thompson, Child Welfare Worker, P.O. Box 11, Versailles, New York 14168; Telephone: (716) 337-4270; Fax: (716) 337-0268.

Chitimacha Tribe of Louisiana, Karen Matthews, Human Services Director, P.O. Box 520, Charenton, Louisiana 70523; Telephone: (337) 923-7000; Fax: (337) 923-2475.

Coushatta Tribe of Louisiana, Tyler Greymountain, Child Care Specialist, P.O. Box 967, Elton, Louisiana 70532; Telephone: (337) 584-1433; Fax: (337) 584-1474.

E

Eastern Band of Cherokee Indians, Barbara Jones, Director, Family Support Services, 508 Goose Creek Road, P.O. Box 507, Cherokee, North Carolina 28719; Telephone: (828) 497-6092; Fax: (828) 497-3322.

H

Houlton Band of Maliseet Indians, Betsy Tannian, Director, ICWA Program, 13-2 Clover Court, Houlton, Maine 04730; Telephone: (207) 532-7260; Fax: (207) 532-7287.

J

Jena Band of Choctaw Indians, Mona Maxwell, Director, Social Services, P.O. Box 14, Jena, Louisiana 71342; Telephone: (318) 992-0136; Fax: (318) 992-2388.

M

Mashantucket Pequot Tribal Nation, Valerie Burgess, Child Protective Services, P.O. Box 3313, Mashantucket, Connecticut 06338; Telephone: (860) 396-2007; Fax: (860) 396-2144.

Miccosukee Tribe of Indians of Florida, J. Degaglia, Social Service Program, P.O. Box 440021, Miami, Florida 33144; Telephone: (305) 223-8380 Ext. 2267; Fax: (305) 223-1011.

Mississippi Band of Choctaw Indians, Maurice Calistro, Director, P.O. Box 6010, Choctaw, Mississippi 39350; Telephone: (601) 650-1741; Fax: (601) 650-1659.

Mohegan Indian Tribe, Irene Miller, APRN, Director, Family Services, 5 Crow Hill Road, Uncasville, Connecticut 06382; Telephone: (860) 862-6236; Fax: (860) 862-6324.

N

Narragansett Indian Tribe, Wenonah Harris, Director, Child Advocate, Tribal Child and Family Services, 4375-B. South County Trail, Charlestown, Rhode Island 02813; Telephone: (401) 491-9008; Fax: (401) 491-9044.

O

Oneida Indian Nation, Member Benefits, 577 Main Street, Oneida, New York 13421; Telephone: (315) 829-8335; Fax: (315) 829-8392.

Onondaga Nation of New York, Council of Chiefs, P.O. Box 85, Nedrow, New York 13120; Telephone: (315) 469-1875; Fax: (315) 492-4822.

P

Passamaquoddy Tribe of Maine—Indian Township Reservation, Anne Bergin, Child Welfare Coordinator, P.O. Box 97, Princeton, Maine 04668; Telephone: (207) 796-2311; Fax: (207) 796-9938.

Passamaquoddy Tribe of Maine—Pleasant Point Reservation, Molly Newell, Child Welfare Director, P.O. Box 343, Perry, Maine 04667; Telephone: (207) 853-2600; Fax: (207) 853-2405.

Penobscot Indian Nation of Maine, Janet Lola, Protective Services Specialist, Department of Human Services, 9 Sarah's Spring Road, Indian Island, Maine 04468; Telephone: (207) 817-7492 Ext. 7492; Fax: (207) 827-2937.

Poarch Band of Creek Indians, Carolyn M. White, Executive Director, and Martha Gookin, Family Services Coordinator, Department of Family Services, 5811 Jack Springs Road, Atmore, Alabama 36502; Telephone: (251) 368-9136 Ext. 2600; Fax: (251) 368-0828.

S

Saint Regis Band of Mohawk Indians, Rhonda Mitchell, ICWA Program Coordinator, 412 State, Route 37, Akwesasne, New York 13655; Telephone: (518) 358-4516; Fax: (518) 358-9258.

Seminole Tribe of Florida, Kristi Hill, Family Preservation Administrator, 3006 Josie Billie Avenue, Hollywood, Florida 33024; Telephone: (954) 965-1314 x 10371; Fax: (954) 965-1304.

Seneca Nation of Indians, Tracy Pacini, Program Coordinator, Child and Family Services, P.O. Box 500, Salamanca, New York 14779; Telephone: (716) 945-5894 Ext. 3233; Fax: (716) 945-7881.

T

Tonawanda Band of Senecas, Council of Chiefs, 7027 Meadville Road, Basom, New York 14013; Telephone: (716) 542-4244; Fax: (716) 542-4008.

Tunica-Biloxi Indian Tribe of Louisiana, Jean Allen-Wilson, LCSW, Assistant Social Service Director, P.O. Box 1589, Marksville, Louisiana 71351; Telephone: (318) 253-5100; Fax: (318) 253-9791.

Tuscarora Nation of New York, Supervisor, Community Health Worker, 2015 Mount Hope Road, Lewistown, New York 14092; Telephone: (716) 297-0598; Fax: (716) 297-7046.

W

Wampanoag Tribe of Gay Head (Aquinnah), Bonnie Chalifoux, Director, Department of Human Services, 20 Black Brook Road, Aquinnah, Massachusetts 02535; Telephone: (508) 645-9265 Ext. 159; Fax: (508) 645-2755.

4. Great Plains Region

Mike Black, Regional Director, 115 4th Avenue, SE., Aberdeen, SD 57401; Telephone: (605) 226-7351; Fax: (605) 226-7643.

Julian Shields, MSW, Regional Social Worker, 115 4th Avenue, SE., Aberdeen, SD 57401; Telephone: (605) 226-7351; Fax: (605) 226-7643.

C

Cheyenne River Sioux Tribe, Diane Garreaux, ICWA Director, Cheyenne River Sioux Tribe, P.O. Box 747, Eagle Butte, SD 57625; Telephone: (605) 964-6460; Fax: (605) 964-6463.

Crow Creek Sioux Tribe, Dave Valandra, ICWA Specialist, Crow Creek Sioux Tribe, P.O. Box 139, Fort Thompson, SD 57339; Telephone: (605) 245-2322; Fax: (605) 245-2844.

F

Flandreau Santee Sioux Tribe, Celeste Honomichl, Family Services Specialist, Flandreau Santee Sioux Tribal Social Services, 104 West Ross Avenue, Flandreau, SD 57028; Telephone: (605) 997-5055; Fax: (605) 997-5426.

L

Lower Brule Sioux Tribe, Rose McCauley, ICWA Director, Lower Brule Sioux Tribe, P.O. Box 122, Lower Brule, SD 57548; Telephone: (605) 473-5528; Fax: (605) 473-9268.

O

Oglala Sioux Tribe, Juanita Sherick, ICWA Administrator, Oglala Sioux Tribe-ONTRAC, P.O. Box 2080, Pine Ridge, SD 57770; Telephone: (605) 867-5805; Fax: (605) 867-1893.

Omaha Tribe of Nebraska, Lois Harlan, ICWA Director, Omaha Tribe of Nebraska, P.O. Box 369, Macy, NE 68039; Telephone: (402) 837-5261; Fax: (402) 837-5262.

P

Ponca Tribe of Nebraska, Attn: Director, Social Services, Ponca Tribe of Nebraska, 1800 Syracuse Avenue, Norfolk, NE 68701; Telephone: (402) 371-8834; Fax: (402) 371-7564.

R

Rosebud Sioux Tribe, Shirley Big Eagle, ICWA Specialist, RST ICWA Program, P.O. Box 609, Mission, SD 57555; Telephone: (605) 856-5270; Fax: (605) 856-5168.

S

Santee Sioux Nation, Jerry Denney, ICWA Specialist, Santee Sioux Nation, Dakota Tiwahe Service Unit, Route 2, Box 5191, Niobrara, NE 68760; Telephone: (402) 857-2342; Fax: (402) 857-2361.

Sisseton-Wahpeton Sioux Tribe, Evelyn Pilcher, ICWA Director, Sisseton-Wahpeton Sioux Tribe, P.O. Box 509, Agency Village, SD 57262; Telephone: (605) 698-3993; Fax: (605) 698-3999.

Spirit Lake Sioux Tribe, Jean Robertson, LSW, ICWA Director, Spirit Lake Sioux Tribe, P.O. Box 356, Fort Totten, ND 58335; Telephone: (701) 766-4855; Fax: (701) 766-4273.

Standing Rock Sioux Tribe, Beverly Iron Shield, ICWA Director, Standing Rock Sioux Tribe, P.O. Box 526, Fort Yates, ND 58538; Telephone: (701) 854-3095 or 3096; Fax: (701) 854-5575.

T

Three Affiliated Tribes, Katherine Felix, ICWA Representative, Three Affiliated Tribes, 404 Frontage Road, New Town, ND 58763; Telephone: (701) 627-4781; Fax: (701) 627-5550.

Turtle Mountain Band of Chippewa Indians, Marilyn Poitra, ICWA Coordinator, Turtle Mountain Band of Chippewa Indians, Child Welfare and Family Services, P.O. Box 900, Belcourt, ND 58316; Telephone: (701) 477-5688; Fax: (701) 477-5797.

W

Winnebago Tribe of Nebraska, Rita Snow, ICWA Specialist, Winnebago Tribe of Nebraska, ICWA Program, P.O. Box 771, Winnebago, NE 68071; Telephone: (402) 878-2447; Fax: (402) 878-2981.

Y

Yankton Sioux Tribe, Raymond Cournoyer, ICWA Director, Yankton Agency, P.O. Box 248, Marty, SD 57361; Telephone: (605) 384-3641; Fax: (605) 384-5014.

5. Midwest Region

Terry Virden, Regional Director, One Federal Drive, Room 550, Fort Snelling, MN 55111-4007; Telephone: (612) 725-4502; Fax: (612) 713-4401.

Regional Social Worker, One Federal Drive, Room 550, Fort Snelling, MN 55111-4007; Telephone: (612) 725-4571; Fax: (612) 713-4439.

B

Bad River Band of Lake Superior Chippewa Indians of Wisconsin, Catherine Blanchard, ICWA Coordinator, P.O. Box 55, Odanah, WI 54861; Telephone: (715) 682-7136.

Bay Mills Indian Community of Michigan, Cheryl Baragwanath, ICWA Worker, 12124 W. Lakeshore Drive, Brimley, MI 49715; Telephone: (906) 248-3204.

Boise Fort Reservation Tribal Government, Gary Adams, Human Service Director, 13090 Westley Drive, Suite B, Nett Lake, MN 55772; Telephone: (218) 757-0111; Fax: (218) 757-0109.

F

Fond du Lac Reservation Business Committee, Lisa Polack, ICWA Coordinator, 1720 Big Lake Road, Cloquet, MN 55720; Telephone: (218) 879-1227.

Forest County Potawatomi Community of Wisconsin, Karen Ackley, ICWA Coordinator, P.O. Box 340, Crandon, WI 54520; Telephone: (715) 478-7329.

G

Grand Portage Reservation Grand Portage Human Services, P.O. Box 428, Grand Portage, MN 55604; Telephone: (218) 475-2453.

Grand Traverse Band of Ottawa and Chippewa Indians of Michigan, Ms. Sonya Zotigh, Tribal Manager, 2605 N. West Bayshore Drive, Peshawbestown, MI 49682; Telephone: (231) 534-7136; Fax: (231) 534-7112.

H

Hannahville Indian Community of Michigan, ICWA Worker, N14911 Hannahville B1 Road, Wilson, MI 49896-9728; Telephone: (906) 466-9320.

Ho-Chunk Nation, ICWA Coordinator, P.O. Box 40, Black River Falls, WI 54615; Telephone: (715) 284-2622; Fax: (715) 284-9486.

Huron Potawatomi, Inc., Nancy Smit, ICWA Worker (MSW-Social Worker), 4415 Byron Center Avenue, SW., Wyoming, MI 49509; Telephone: (616) 249-0159; Fax: (616) 249-8688.

K

Keweenaw Bay Indian (Chippewa) Community of the L'Anse Reservation of Michigan, Judy Heath, Tribal Social Service Director/ICWA Worker, 107 Beartown Road, Baraga, MI 49908; Telephone: (906) 353-6623 Ext. 4201; Fax: (906) 353-8171.

L

Lac Courte Oreilles Band of Lake Superior Chippewa Indians of Wisconsin, LuAnn Kolumbus, Tribal Social Services Director, 13394 W. Trepania Road, Building 1, Hayward, WI 54843; Telephone: (715) 634-8934.

Lac du Flambeau Band of Lake Superior Chippewa Indians of Wisconsin, Laura Kuehn, ICWA Coordinator, P.O. Box 189, Lac du Flambeau, WI 54538; Telephone: (715) 588-1511; Fax: (715) 588-3903.

Lac Vieux Desert Band of Lake Superior Chippewa Indians of Michigan, Melissa J. McGeshick, ICWA Coordinator, P.O. Box 249, Watersmeet, MI 49969; Telephone: (906) 358-4940.

Leech Lake Band of Ojibwe, Rose Robinson, ICWA Coordinator, 115 Sixth Street, NW., Suite E, Cass Lake, MN 56633; Telephone: (218) 335-8270; Fax: (218) 335-8352.

Little River Band of Ottawa Indians, Inc., First Contact: Gene Zeller, Prosecutor, Prosecutors Office, 375 River Street, Manistee, MI 49660; Telephone: (213) 398-2242; Fax: (231) 398-3387. Second Contact: Bill Memberto, Director, Family Services Department; Telephone: (231) 398-6728; Fax: (231) 398-9680.

Little Traverse Bay Band of Odawa Indians, Angeline Woodin, Human Services Director, 7500 Odawa Circle, Harbor Springs, MI 49740; Telephone: (231) 242-1400.

Lower Sioux Indian Community of Minnesota, Ronald P. Leith, Director, TSS, 39527 Res Highway 1, P.O. Box 308, Morton, MN 56270-0308; Telephone: (507) 697-9108.

M

Match-E-Be-Nash-She-Wish Band of Potawatomi Indians of Michigan, Leslie Pigeon, ICWA Coordinator, P.O. Box 306, 1743 142nd Avenue, Suite 8, Dorr, MI 49323; Telephone: (616) 681-0360.

Menominee Indian Tribe of Wisconsin, Mary Husby, Social Services Director, P.O. Box 910, Keshena, WI 54135-0910; Telephone: (715) 799-5161; Fax: (715) 799-6061.

Mille Lacs Reservation Business Committee, ICWA Coordinator, 43408 Oodana Drive, Onamia, MN 56359; Telephone: (320) 532-4139.

Minnesota Chippewa Tribe of Minnesota, Adrienne Adkins, Human Services Director, P.O. Box 217, Cass Lake, MN 56633; Telephone: (218) 335-8585.

O

Oneida Tribe of Indians of Wisconsin, ICWA Program, P.O. Box 365, Oneida, WI 54155; Telephone: (920) 490-3700.

P

Pokagon Band of Potawatomi Indians of Michigan, Kathleen McKee, TSS Director, 58620 Sink Road, Dowagiac, MI 49047; Telephone: (269) 782-4300.

Prairie Island Indian Community Mdewakanton Dakota Sioux of Minnesota, ICWA Coordinator, 5636 Sturgeon Lake Road, Welch, MN 55089; Telephone: (651) 385-4185 or 1-800-554-5473; Fax: (651) 385-4183.

R

Red Cliff Band of Lake Superior Chippewa Indians of Wisconsin, Beth Meyers, ICWA Director, 88385 Pike Road, Highway 13, Bayfield, WI 54814; Telephone: (715) 779-3747 Ext. 18.

Red Lake Band of Chippewa Indians, Dr. Sandra Parsons, Family and Children Services, Box 427, Red Lake, MN 56671; Telephone: (218) 679-2122.

S

Sac & Fox Tribe of the Mississippi in Iowa, ICWA Coordinator, P.O. Box 245, Tama, IA 52339; Telephone: (641) 484-4444 or Toll Free: (877) 484-4444: Fax: (641) 484-2103.

Saginaw Chippewa Indians of MI, Sylvia Evans, TSS Director, 7070 East Broadway Road, Mt. Pleasant, MI 48858; Telephone: (989) 775-4000.

Sault Ste. Marie Tribe of Chippewa Indians of Michigan, Juanita Bye, Child Placement Director, 2864 Ashmun Street, 3rd Floor, Sault Ste. Marie, MI 49783; Telephone: (906) 632-5250 Ext. 23180; Fax: (906) 632-5266.

Shakopee Mdewakanton Sioux Community of Minnesota, Kim Goetzinger, TSS Director, 2330 Sioux Trail NW, Prior Lake, MN 55372; Telephone: (952) 445-6165.

Sokaogon Chippewa (Mole Lake) Community of Wisconsin, Angela Charbarneau, ICWA Worker, 3051 Sand Lake Road, Crandon, WI 54520; Telephone: (715) 478-2520; Fax: (715) 478-7674.

St. Croix Chippewa Indians of Wisconsin, Kathryn LaPointe, ICWA Director, 24663 Angeline Avenue, Webster, WI 54893; Telephone: (715) 349-2195; Fax: (715) 349-8665.

Stockbridge-Munsee Community of Wisconsin, Natalie Young, ICWA Coordinator, N8476 Mo He Con Nuck Road, Bowler, WI 54416; Telephone: (715) 793-4580.

U

Upper Sioux Community of Minnesota, Susan Campion, Manager, P.O. Box 147, Granite Falls, MN 56241-0147; Telephone: (320) 564-2360; Fax: (320) 564-3264.

W

White Earth Reservation Business Committee, Jeri Jasken, ICWA Coordinator, P.O. Box 70, ICW, Naytahwaush, MN 56566; Telephone: (218) 935-5554.

6. Navajo Region

Elouise Chicharello, Regional Director, Navajo Regional Office, P.O. Box 1060, Gallup, NM 87305; Telephone: (505) 863-8314; Fax: (505) 863-8324.

Vivian Yazza, M.S.W., L.I.S.W., Regional Social Worker, P.O. Box 1060, 301 West Hill Street, Gallup, New Mexico 87305-1060; Telephone: (505) 863-8215, Fax: (505) 863-8292.

Rita Wilson, M.S.W., Acting Director, Navajo Children and Family Services (ICWA), P.O. Box 1930, Window Rock, Arizona 86515; Telephone: (928) 871-6832 or 6806; Fax: (928) 871-7667.

7. Northwest Region

Stanley Speaks, Regional Director, 911 NE 11th Avenue, Portland, OR 97232; Telephone: (503) 231-6702; Fax: (503) 231-2201.

Stella Charles, Regional Social Worker, 911 NE 11th Avenue, Portland, OR 97232; Telephone: (503) 231-6785; Fax: (503) 231-2182.

B

Burns Paiute Tribe, Bonnie Phelps, ICWA Contact, H.C. 71, 100 Pasigo Street, Burns, OR 97720; Telephone: (541) 573-2793; Fax: (541) 573-3854.

C

Chehalis Business Council, Tracy Bray, ICWA Contact, P.O. Box 536, Oakville, WA 98568-9616; Telephone: (360) 273-5911; Fax: (360) 273-5914.

Colville Business Council, Lou Stone, ICWA, P.O. Box 150, Nespelem, WA 99155-011; Telephone: (509) 634-2774; Fax: (509) 634-2663.

Coeur d'Alene Tribal Council, Leona Flowers, ICWA, 850 A St., Box 408, Plummer, ID 83851-0408; Telephone: (208) 686-8106; Fax: (208) 686-4410.

Confederated Salish & Kootenai Tribes, Lena Young Running Crane, ICWA Specialist, Box 278, Pablo, MT 59855; Telephone: (406) 675-2700 X 1234; Fax: (406) 275-2883.

Confederated Tribes of Coos, Lower Umpqua & Siuslaw Indians, Dottie Garcia, ICWA Specialist, P.O. Box 3279, Coos Bay, OR 97420; Telephone: (541) 888-3012; Fax: (541) 888-1027.

Confederated Tribes of Grand Ronde Community of Oregon, Dana Ainam, ICWA Contact, 9615 Grand Ronde Road, Grand Ronde, OR 97347-0038; Telephone: (503) 879-2034; Fax: (503) 879-2142.

Confederated Tribes of the Umatilla Indian Reservation, M. Brent Leonhard, Department of Justice, ICWA, P.O. Box 638, Pendleton, OR 97801; Telephone: (541) 966-2030; Fax: (541) 278-7462.

Coquille Indian Tribe, Bridgett Wheeler, ICWA Contact, P.O. Box 3190, Coos Bay, OR 97420; Telephone: (541) 888-9494; Fax: (541) 888-0673.

Cow Creek Band of Umpqua Tribe of Indians, Rhonda Malone, ICWA Contact, 2371 NE Stephens, Suite 100, Roseburg, OR 97470-1338; Telephone: (541) 672-9405; Fax: (541) 677-5574.

Cowlitz Indian Tribe, Carolee Morris, ICWA Director, P.O. Box 2547, Longview, WA 98632-8594; Telephone: (360) 577-8140; Fax: (360) 577-7432.

H

Hoh Tribal Business Committee, Margo Gilmore, ICWA Contact, 2464 Lower Hoh Road, Forks, WA 98331; Telephone: (360) 374-6582; Fax: (360) 374-6549.

J

Jamestown Skallam Tribal Council, Liz Mueller, ICWA Specialist, 1033 Old Blyn Hwy, Sequim, WA 98382; Telephone: (360) 681-4639; Fax: (360) 681-3402.

K

Kalispel Tribe of Indians, Gloria Robinette, ICWA Coordinator, P.O. Box 327, USK, WA 99180; Telephone: (509) 789-7630; Fax: (509) 789-7659.

Klamath Tribe, Misty Smith, ICWA Specialist, P.O. Box 436, Chiloquin, OR 97624; Telephone: (541) 783-2219; Fax: (541) 783-3685.

Kootenai Tribal Council, Velma Bahe, ICWA Contact, P.O. Box 1269, Bonners Ferry, ID 83805-1269; Telephone: (208) 267-8451; Fax: (208) 267-2960.

L

Lower Elwha Tribal Community Council, Patricia Elofson, ICWA Contact, 2851 Lower Elwha Road, Port Angeles, WA 98363-9518; Telephone: (360) 452-8471; Fax: (360) 457-8429.

Lummi Tribe of the Lummi Reservation, Leslye Revey, ICWA Contact, 1790 Bayon Road, Bellingham, WA 98225; Telephone: (360) 384-1489; Fax: (360) 380-1850.

M

Makah Indian Tribal Council, Kristena Sawyer, ICWA Lead Caseworker, Makah Family Services, P.O. Box 115, Neah Bay, WA 98357-0115, mtcicwa@centurytel.net; Telephone: (360) 645-3257; Fax: (360) 645-2806.

Metlakatla Indian Community, Karen Thompson, ICWA Contact, P.O. Box 8, Metlakatla, AK 99926-0008; Telephone: (907) 886-6911; Fax: (907) 886-6913.

Muckleshoot Indian Tribe, Sharon Hamilton, ICWA Specialist, 39015 172nd Avenue, SE, Auburn, WA 98092; Telephone: (253) 876-3155; Fax: (253) 876-3187.

N

Nez Perce Tribe, Janet Bennett, ICWA Caseworker, P.O. Box 365, Lapwai, ID 83540; Telephone: (208) 843-7302; Fax: (208) 843-9401.

Nisqually Indian Community, Raymond Howell, ICWA Contact, 4820 She-Nah-Num Drive, SE, Olympia, WA 98513; Telephone: (360) 456-5221; Fax: (360) 407-0017.

Nooksack Indian Tribe of Washington, Nooksack Indian Tribe Legal Department, P.O. Box 1575048, Mount Baker Highway, Deming, WA 98244; Telephone: (360) 592-5176; Fax: (360) 592-2125.

Northwestern Band of Shoshoni Nation, Lawrence Honena, ICWA Contact, 427 North Main, Suite 101, Pocatello, ID 83204; Telephone: (208) 478-5712; Fax: (208) 478-5713.

P

Port Gamble Indian Community, David Delmendo, ICWA Contact, 31912 Little Boston Road, NE, Kingston, WA 98346; Telephone: (360) 297-9672; Fax: (360) 297-9666.

Puyallup Tribe, Sandra Cooper, ICWA Liason, 3009 E. Portland Ave., Tacoma, WA 98404; Telephone: (253) 405-7544; Fax: (253) 680-5998.

Q

Quileute Tribal Council, Michele Pullen, ICWA Contact, P.O. Box 279, LaPush, WA 98350-0279; Telephone: (360) 374-4325; Fax: (360) 374-6311.

Quinault Indian Nation Business Committee, Melissa Capoeman, ICWA Contact, P.O. Box 189, Taholah, WA 98587-0189; Telephone: (360) 276-8211 Ext. 482; Fax: (360) 267-4152.

S

Samish Indian Tribe of Washington, Robert Ludgate, ICWA Specialist, P.O. Box 217, Anacortes, WA 98221; Telephone: (360) 293-6404; Fax: (360) 299-0790.

Sauk-Suiattle Indian Tribe of Washington, Joan Daves, ICWA Director, 5318 Chief Brown Lane, Darrington, WA 98241; Telephone: (360) 436-1400; Fax: (360) 436-0242.

Shoalwater Bay Tribal Council, Katherine Horne, ICWA Contact, P.O. Box 130, Tokeland, WA 98590; Telephone: (360) 267-6766 Ext. 3100; Fax: (360) 267-0247.

Shoshone Bannock Tribes, ICWA, Ft. Hall Business Council, C/O Tribal Attorney, P.O. Box 306, Ft. Hall, ID 83203; Telephone: (208) 478-3923; Fax: (208) 237-9736.

Siletz Tribal Council, Nancy McCrary, ICWA Manager, P.O. Box 549, Siletz, OR 97380-0549; Telephone: (541) 444-2532; Fax: (541) 444-2307.

Skokomish Tribal Council, Renee Guy or Kim Thomas, ICWA Contact, N. 80 Tribal Center Road, Shelton, WA 98584-9748; Telephone: (360) 426-7788; Fax: (360) 462-0082.

Snoqualmie Tribe, Marie Ramirez, MSW, ICWA Contact, P.O. Box 280, Carnation, WA 98014; Telephone: (425) 333-5425; Fax: (425) 333-5428.

Spokane Tribe of Indians, Kirsten Weigend, ICWA Contact, P.O. Box 540, Wellpinit, WA 99040; Telephone: (509) 258-7502 Ext. 29; Fax: (509) 258-7029.

Squaxin Island Tribal Council, Dennis Bear Don't Walk Charette, ICWA Contact, SE 70 Squaxin Lane, Shelton, WA 98584-9200; Telephone: (360) 427-9006; Fax: (360) 427-1957.

Stillaguamish Tribe of Washington, Gloria Green, ICWA Contact, P.O. Box 277, Arlington, WA 98223-0277; Telephone: (360) 657-0751 Ext. 13; Fax: (360) 657-0758.

Suquamish Indian Tribe of the Port Madison Reservation, Dennis Deaton, ICWA Contact, P.O. Box 498, Suquamish, WA 98392; Telephone: (360) 394-8478; Fax: (360) 697-6774.

Swinomish Indians, Tracy Parker, ICWA Contact, P.O. Box 388, LaConner, WA 98257; Telephone: (360) 466-7222; Fax: (360) 466-5309.

T

Tulalip Tribe, Elishia Stewart, ICWA Contact, 6700 Totem Beach Road, Marysville, WA 98271; Telephone: (360) 651-3284; Fax: (360) 651-4742.

U

Upper Skagit Indian Tribe of Washington, Michelle Anderson-Kamato, ICWA Contact, 2284 Community Plaza Way, Sedro Woolley, WA 98284; Telephone: (360) 854-7000; Fax: (360) 856-3537.

W

Warm Springs Tribal Court, Confederated Tribes of Warm Springs Reservation, Chief Judge Lola Sohappy, ICWA Contact, P.O. Box 850, Warm Springs, OR 97761; Telephone: (541) 553-3454; Fax: (541) 553-3281.

Y

Yakama Nation Program, Nak Nu We Sha ICWA, Attention: Ray E. Olney, Program Director or Delores Armour, Social Work Specialist, P.O. Box 151, Toppenish, WA 98948-0151; Telephone: (509) 865-5121; Fax: (509) 865-2598.

8. Pacific Region

Dale Morris, Regional Director, BIA, Federal Building, 2800 Cottage Way, Sacramento, CA 95825; Telephone: (916) 978-6000; Fax: (916) 978-6055.

Kevin Sanders, Regional Social Worker, BIA-Federal Building, 2800 Cottage Way, Sacramento, CA 95825; Telephone: (916) 978-6048; Fax: (916) 978-6055.

A

Agua Caliente Band of Cahuilla Indians, Chantel Schuering, Tribal Family Services Director, 901 E. Tahquitz Canyon Way, Suite C—204, Palm Springs, CA 92262; Telephone: (760) 864-1756; Fax: (760) 864-1761; E-mail: cschuering@aguacaliente.net.

Alturas Rancheria, Chairman, P.O. Box 340, Alturas, CA 96101; Telephone: (530) 233-5571.

Auburn Rancheria, Chairperson, United Auburn Indian Community, 10720 Indian Hill Road, Auburn, CA 95603; Telephone: (916) 663-3720; Fax: (530) 823-8709.

Augustine Band of Mission Indians, Chairperson, P.O. Box 846, Coachella, CA 92236; Telephone: (760) 398-4722.

B

Barona Band of Mission Indians, Program Director, Kumeyaay Family Services, Southern Indian Health Council, Inc., 4058 Willow Rd., Alpine, CA 91903; Telephone: (619) 445-1188; Fax: (619) 445-0765.

Bear River Band of Rohnerville Rancheria, Chairperson, 32 Bear River Drive, Loleta, CA 95551; Telephone: (707) 773-1900; Fax: (707) 733-1972.

Berry Creek Rancheria, ICWA Director, 5 Tyme Way, Oroville, CA 95966; Telephone: (530) 534-3859, Fax: (530) 534-1151.

Big Lagoon Rancheria, Barbara Orr, Director, Two Feathers Native American Family Services, 2355 Central Avenue Suite C, McKinleyville, CA 95519; Telephone: (707) 839-1933; Fax: (707) 839-1726.

Big Pine Paiute Tribe, Chairperson, P.O. Box 700, Big Pine, CA 93513; Telephone: (760) 938-2003; Fax: (760) 938-2942.

Big Sandy Rancheria, ICWA Worker, P.O. Box 337, Auberry, CA 93602; Telephone: (559) 855-4003; Fax: (559) 855-4129.

Big Valley Band of Pomo Indians, Cynthia Jefferson, ICWA Coordinator, 2726 Mission Rancheria Road, Lakeport, CA 95453; Telephone: (707) 263-3924; Fax: (707) 262-5672.

Bishop Reservation, Attention: Michelle Cozad, 52 Tu Su Lane, Bishop, CA 93514; Telephone: (760) 873-3584; Fax: (760) 873-4143.

Blue Lake Rancheria, Chairperson, P.O. Box 428, Blue Lake, CA 95525; Telephone: (707) 668-5101.

Bridgeport Indian Colony, Chairperson, P.O. Box 37, Bridgeport, CA 93517; Telephone: (760) 932-7083; Fax: (760) 932-7846.

Buena Vista Rancheria, Penny Arciniaga, P.O. Box 162283, Sacramento, CA 95816; Telephone: (916) 491-0011; Fax: (916) 491-0012.

C

Cabazon Band of Mission Indians, Chairman, 84-245 Indio Springs Drive, Indio, CA 92201; Telephone: (760) 342-2593; Fax: (760) 347-7880.

California Valley Miwok Tribe, Rashel Reznor, ICWA Director, 10601 Escondido Place, Stockton, CA 95212; Telephone: (209) 931-4567, Fax: (209) 931-4333.

Cahuilla Band of Mission Indians, Executive Director, Indian Child & Family Services, P.O. Box 2269, Temecula, CA 92590; Telephone: (951) 676-8832; Fax: (951) 676-3950.

Campo Band of Mission Indians, Southern Indian Health Council. Program Director, Kumeyaay Family Services, 4058 Willow Road. Alpine, CA 91903. Telephone: (619) 445-1188. Fax: (619) 445-0138.

Cedarville Rancheria, Chairperson, ICWA Director, 200 S. Howard Street, Alturas, CA 96101; Telephone: (530) 233-3969; Fax: (530) 233-4776.

Chicken Ranch Rancheria, Chairperson, P.O. Box 1159, Jamestown, CA 95327; Telephone: (209) 984-4806; Fax: (209) 984-5606.

Cloverdale Rancheria, Marcellena Becerra, ICWA Coordinator, 555 S. Cloverdale Blvd., Suite A, Cloverdale, CA 95425; Telephone: (707) 894-5775; Fax: (707) 894-5727.

Cold Springs Rancheria, ICWA Coordinator, P.O. Box 209, Tollhouse, CA 93667; Telephone: (559) 855-5043; Fax: (559) 855-4445.

Colusa Rancheria, Community Services Dept., 3740 Highway 45, Colusa, CA 95932; Telephone: (530) 458-8231.

Cortina Rancheria, Chairperson, Elaine Patterson, P.O. Box 1630, Williams, CA 95987; Telephone: (530) 473-3274, Fax: (530) 473-3301.

Coyote Valley Reservation, Lorraine Laiwa, ICWA Coordinator, Indian Child & Family Preservation Program, 684 S. Orchard Avenue, Ukiah, CA 95482; Telephone: (707) 463-2644; Fax: (707) 463-8956.

Cuyapaipe Band of Mission Indians (see Ewiiaapaayp) CEO, Ewiiaapaayp Tribal Government, 4050 Willow Road, Alpine, CA 91903; Telephone: (619) 445-6315; Fax: (619) 445-9126.

D

Dry Creek Rancheria, Support Services Dept., Percy Tejada, P.O. Box 607, Geyserville, CA 95441; Telephone: (707) 473-2144; Fax: (707) 473-2171.

E

Elem Indian Colony, ICWA advocate, P.O. Box 757, Clearlake Oaks, CA 95423; Telephone: (707) 998-3003; Fax: (707) 998-2998.

Elk Valley Rancheria, Chairperson, 2332 Howland Hill Rd., Crescent City, CA 95531; Telephone: (707) 464-4680.

Enterprise Rancheria, Chairperson, 3690 Olive Highway, Oroville, CA 95966; Telephone: (530) 532-9214; Fax: (530) 532-1768, e-mail info@enterpriserancheria.org.

Ewiiaapaayp Band of Kumeyaay Indians, CEO, Ewiiaapaayp Tribal Government, 4050 Willow Road, Alpine, CA 91903; Telephone: (619) 445-6315; Fax: (619) 445-9126.

F

Fort Bidwell Reservation, Chairperson, P.O. Box 129, Fort Bidwell, CA 96112; Telephone: (530) 279-6310; Fax: (530) 279-2233.

Fort Independence Reservation, Secretary-Treasurer, P.O. Box 67, Independence, CA 93526; Telephone: (760) 878-2150; Fax: (760) 878-2311.

G

Graton Rancheria, Michele Porter, ICWA Coordinator, 6400 Redwood Drive, Suite 300, Rohnert Park, CA 94928; Telephone: (707) 566-2288 Ext. 115; Fax: (707) 566-2291.

Greenville Rancheria, ICWA Coordinator, Greenville Health Clinic, P.O. Box 279, Greenville, CA 95947; Telephone: (530) 284-7990; Fax: (530) 284-6612.

Grindstone Rancheria, ICWA Coordinator, P.O. Box 63, Elk Creek, CA 95939; Telephone: (530) 968-5365; Fax: (530) 968-5366.

Guidiville Rancheria, Chairperson, P.O. Box 339, Talmage, CA 95481; Telephone: (707) 462-3682; Fax: (707) 462-9183.

H

Habematolel Pomo of Upper Lake Rancheria, Angelina Arroyo, ICWA Advocate, P.O. Box 516, Upper Lake, CA 95485; Telephone: (707) 275-0737; Fax: (707) 275-0757.

Hoopa Valley Tribe, Director, Social Services, ICWA Program, P.O. Box 1267, Hoopa, CA 95546; Telephone: (530) 625-4236.

Hopland Reservation, Attn: Tribal Chair, 3000 Shanel Rd., Hopland, CA 95449; Telephone: (707) 744-1647 x 1105; Fax: (707) 472-2110.

I

Inaja & Cosmit Band of Mission Indians, Tribal Family Services, Manager Indian Health Council, Inc., P.O. Box 406, Pauma Valley, CA 92061; Telephone: (760) 749-1410; Fax: (760) 749-5518.

Ione Band of Miwok Indians, Tribal Administrator, P.O. Box 1190, Ione, CA 95640; Telephone: (209) 274-6753; Fax: (209) 274-6636.

J

Jackson Rancheria, ICWA Manager, P.O. Box 1090, Jackson, CA 95642; Telephone: (209) 223-1935; Fax: (209) 223-5366.

Jamul Indian Village, Program Director, Kumeyaay Family Services, Southern Indian Health Council, 4058 Willows Rd., Alpine, CA 91903; Telephone: (619) 445-1188; Fax: (619) 445-0765.

K

Karuk Tribe of California, Director, Social Services, ICWA Social Worker, 1519 S. Oregon Street, Yreka, CA 96097; Telephone: (530) 493-1600 or (530) 842-9228.

L

La Jolla Band of Luiseno Indians, Tribal Family Services, Manager, Indian Health Council, Inc., P.O. Box 406, Pauma Valley, CA 92061; Telephone: (760) 749-1410; Fax: (760) 749-5518.

La Posta Band of Mission Indians, Program Director, Kumeyaay Family Services, Southern Indian Health Council, 4058 Willows Rd., Alpine, CA 91903-2128; Telephone: (619) 445-1188; Fax: (619) 445-0765.

Laytonville Rancheria, ICWA Director, P.O. Box 1239, Laytonville, CA 95454; Telephone: (707) 984-6197; Fax: (707) 984-6201.

Lone Pine Reservation, Chairperson, P.O. Box 747, Lone Pine, CA 93545; Telephone: (760) 876-1034; Fax: (760) 876-8302.

Lower Lake Rancheria, Chairperson, P.O. Box 3162, Santa Rosa, CA 95402; Telephone: (707) 575-5586; Fax: (707) 575-5586.

Los Coyotes Band of Mission Indians, Tribal Family Services, Manager, Indian Health Council, Inc., P.O. Box 406, Pauma Valley, CA 92061; Telephone: (760) 749-1410; Fax: (760) 749-5518.

Lytton Rancheria, Margie Mejia, Chairwoman, 1300 N. Dutton Avenue, Suite A, Santa Rosa, CA 95401-3515; Telephone: (707) 575-5917; Fax: (707) 575-6974.

M

Manchester-Point Arena Rancheria, Christine Dukatz and Lisa Bechtol, P.O. Box 623, Point Arena, CA 95468; Telephone: (707) 882-2788; Fax: (707) 882-3417.

Manzanita Band of Mission Indians, Chairperson, P.O. Box 1302, Boulevard, CA 91905; Telephone: (619) 766-4930; Fax: (619) 766-4957.

Mechoopda Indian Tribe of the Chico Rancheria, Chairperson, 125 Mission Ranch Boulevard, Chico, CA 95926; Telephone: (530) 899-8922; Fax: (530) 899-8517.

Mesa Grande Band of Mission Indians, Tribal Family Services, Manager, Indian Health Council, Inc., P.O. Box 460, Pauma Valley, CA 92061; Telephone: (760) 749-1410; Fax: (760) 749-5518.

Middletown Rancheria, ICWA Director, P.O. Box 1829, Middletown, CA 95461; Telephone: (707) 987-8288; Fax: (707) 987-8205.

Mooretown Rancheria, Francine Mckinley, ICWA Coordinator, 1 Alverda Drive, Oroville, CA 95966; Telephone: (530) 533-3625; Fax: (530) 533-0664.

Morongo Band of Mission Indians, Maurice Lyons, Chairman, 11581 Potrero Road, Banning, CA 92220; Telephone: (951) 849-4697; Fax: (951) 922-0338.

N

North Fork Rancheria, Tribal Chair, Elaine Fink, ICWA Dept., P.O. Box 929, North Fork, CA 93643; Telephone: (559) 877-2461; Fax: (559) 877-2467.

P

Pala Band of Mission Indians, Maria Garcia, ICWA Manager, Department of Social Services. 35008 Pala-Temecula Road, PMB 50. Pala, CA 92059. Telephone: (760) 891-3542; Fax: (760) 742-1293.

Paskenta Band of Nomlaki Indians, Ines Crosby, ICWA Coordinator, P.O. Box 398, Orland, CA 95963; Telephone: (530) 865-2010; Fax: (530) 865-1870.

Pauma & Yuima Band of Mission Indians, Tribal Family Services, Manager, Indian Health Council, Inc., P.O. Box 406, Pauma Valley, CA 92061; Telephone: (760) 749-1410; Fax: (760) 749-5518.

Pechanga Band of Mission Indians, Mark Macarro, Spokesman, P.O. Box 1477, Temecula, CA 92593; Telephone: (951) 676-2768; Fax: (951) 695-1778.

Picayune Rancheria of Chukchansi Indians, ICWA Director, 46575 Road 417, Coarsegold, CA 93614; Telephone: (559) 683-6633; Fax: (559) 683-0599.

Pinoleville Reservation, Chairperson, 500B Pinoleville Drive, Ukiah, CA 95482; Telephone: (707) 463-1454; Fax: (707) 463-6601.

Pit River Reservation, ICWA Director, 37718 Main Street, Burney, CA 96013; Telephone: (530) 335-5421 or 866-335-5530; Fax: (530) 335-3966.

Potter Valley Rancheria, Lorraine Laiwa, ICWA Coordinator, Indian Child & Family Preservation Program, 684 S. Orchard Avenue, Ukiah, CA 95482; Telephone: (707) 463-2644; Fax: (707) 463-8956.

Q

Quartz Valley Indian Reservation, ICWA Director, 13601 Quartz Valley Rd., Fort Jones, CA 96032; Telephone: (530) 468-5729 or 5937; Fax: (530) 468-5908.

R

Ramona Band or Village of Cahuilla Mission Indians, ICWA Coordinator, P.O. Box 391372, Anza, CA 92539; Telephone: (951) 676-8832; Fax: (951) 763-4325.

Redding Rancheria, Director, Social Services, 2000 Rancheria Road, Redding, CA 96001-5528; Telephone: (530) 225-8979.

Redwood Valley Rancheria, Mary Nevarez, ICWA Coordinator, 3250 Road I, Redwood Valley, CA 95470; Telephone: (707) 485-0361; Fax: (707) 485-5726; E-mail: redwoodres@pacific.net.

Resighini Rancheria, Chairperson, P.O. Box 529, Klamath, CA 95548; Telephone: (707) 482-2431; Fax: (707) 482-3425.

Rincon Band of Mission Indians, Tribal Family Services, Manager, Indian Health Council, P.O. Box 406, Pauma Valley, CA 92061; Telephone: (760) 749-1410; Fax: (760) 749-8901.

Robinson Rancheria, Marsha Lee, ICWA Coordinator, P.O. Box 563, Nice, CA 95464; Telephone: (707) 275-9363; E-mail: MLEE@robinsonrancheria.org.

Round Valley Reservation, Valerie Britton, ICWA Coordinator, P.O. Box 448, Covelo, CA 95428; Telephone: (707) 983-8008; Fax: (707) 983-6128.

Rumsey Rancheria, Chairperson, P.O. Box 18, Brooks, CA 95606; Telephone: (530) 796-3400.

S

San Manuel Band of Mission Indians, Tribal Secretary, P.O. Box 266, Patton, CA 92369; Telephone: (909) 864-8933; Fax: (909) 864-3370.

San Pasqual Band of Diegueno Indians, Tribal Family Services, Manager, Indian Health Council, Inc., P.O. Box 406, Pauma Valley, CA 92061; Telephone: (760) 749-1410; Fax: (760) 749-5518.

Santa Rosa Band of Mission Indians, ICWA Representative, P.O. Box 609, Hemet, CA 92546; Telephone: (951) 658-5311; Fax: (951) 685-6733.

Santa Rosa Rancheria, Chairperson, P.O. Box 8, Lemoore, CA 93245-0008; Telephone: (559) 924-1278x 4019; Fax: (559) 925-2947.

Santa Ynez Band of Mission Indians, Caren Romero, ICWA Representative. Jess Montoya, Executive Director. P.O. Box 539, Santa Ynez, CA 93460. Telephone: (805) 688-7070. Fax: (805) 686-5194.

Santa Ysabel Band of Mission Indians, Linda Ruis, Director, Santa Ysabel Social Services Dept., P.O. Box 701, Santa Ysabel, CA 92070; Telephone: (760) 765-1106. Fax: (760) 765-0312.

Scotts Valley Rancheria, Sharon Warner, ICWA Coordinator, 301 Industrial Ave., Lakeport, CA 95453; Telephone: (707) 263-4220; Fax: (707) 263-4345.

Sherwood Valley Rancheria, Lorraine Laiwa, ICWA Coordinator, Indian Child & Family Preservation Program, 684 S. Orchard Ave., Ukiah, CA 95482; Telephone: (707) 463-2644; Fax: (707) 463-8956.

Shingle Springs Rancheria, ICWA Coordinator, P.O. Box 1340, Shingle Springs, CA 95682; Telephone: (530) 698-1400; Fax: (530) 676-8033.

Smith River Rancheria, Elvira Rodriquez, ICWA Director, 140 Rowdy Creek Road, Smith River, CA 95567-9446; Telephone: (707) 487-9255; Fax: (707) 487-0930.

Soboba Band of Luiseno Indians, Tribal Social Worker, Soboba Social Services Department. P.O. Box 487, San Jacinto, CA 92581; Telephone: (951) 487-0283. Fax: (951) 487-1738.

Stewarts Point Rancheria, Lorraine Laiwa, Indian Child & Family Preservation Program, 684 S. Orchard Avenue, Ukiah, CA 95482; Telephone: (707) 463-2644; Fax: (707) 463-8956.

Susanville Indian Rancheria, Chairperson, ICWA Director, 745 Joaquin St., Susanville, CA 96130; Telephone: (530) 251-5205.

Sycuan Band of Mission Indians, Program Director, Kumeyaay Family Services, Southern Indian Health Council, 4058 Willow Rd., Alpine, CA 91903-2128; Telephone: (619) 445-1188; Fax: (619) 445-0765.

T

Table Mountain Rancheria, Chairperson, P.O. Box 410, Friant, CA 93626-0410; Telephone: (559) 822-2587; Fax: (559) 822-2693.

Timbi-sha Shoshone Tribe, ICWA Representative, 785 North Main Street, Suite Q, Bishop, CA 93514; Telephone (760) 873-9003; Fax: (760) 873-9004.

Torres-Martinez Desert Cahuilla Indians, Annette Chihuahua, ICWA Representative, P.O. Box 1160, Thermal, CA 92274; Telephone: (760) 397-0300; Fax: (760) 397-0455.

Trinidad Rancheria, Chairperson, P.O. Box 630, Trinidad, CA 95570; Telephone: (707) 677-0211; Fax: (707) 677-3921.

Tule River Reservation, ICWA Director, P.O. Box 589, Porterville, CA 93258; Telephone: (559) 781-4271; Fax: (559) 791-2122.

Tuolumne Rancheria, ICWA Coordinator, P.O. Box 615, Tuolumne, CA 95379; Telephone: (209) 928-3475; Fax: (209) 928-1552.

Twenty-Nine Palms Band of Mission Indians, Executive Director, Indian Child & Family Services, P.O. Box 2269, Temecula, CA 92590; Telephone: (951) 676-8832; Fax: (951) 676-3950.

U

Utu Utu Gwaitu Paiute Tribe of the Benton Paiute Reservation, Tribal Administrator, 567 Yellow Jacket Road, Benton, CA 93512; Telephone: (760) 933-2321; Fax: (760) 933-2412; E-mail: bentonpaiutetribe@earthlink.net.

V

Viejas (Baron Long) Band of Mission Indians, Program Director, Kumeyaay Family Services, Southern Indian Health Council, 4058 Willow Rd., Alpine, CA 91903-2128; Telephone: (619) 445-1188; Fax: (619) 445-0765.

W

Wiyot Tribe, Michelle Vassel, Director, Social Services, 1000 Wiyot Drive, Loleta, CA 95551; Telephone: (707) 733-5055; Fax: (707) 733-5601.

Y

Yurok Tribe, Director, Social Services, ICWA Coordinator, P.O. Box 1027, Klamath, CA 95548; Telephone: (707) 482-1350.

9. Rocky Mountain Region

Edward Parisian, Regional Director, 316 North 26th Street, Billings, Montana 59101; Telephone: (406) 247-7943; Fax: (406) 247-7976.

Jo Ann Birdshead, Regional Social Worker, 316 North 26th Street, Billings, Montana 59101; Telephone: (406) 247-7988; Fax: (406) 247-7566.

A

Assiniboine and Sioux Tribes of the Fort Peck Reservation of Montana, Chairman, P.O. Box, 1027, Poplar, Montana 59255; Telephone: (406) 768-5155; Fax: (406) 768-5478.

B

Blackfeet Tribe of Montana, Indian Child Welfare Act (ICWA) Coordinator, P.O. Box 588, Browning, Montana 59417; Telephone: (406) 338-7806; Fax: (406) 338-7726.

C

Chippewa Cree Tribe of the Rocky Boys Reservation of Montana, Tribal Chairman, Rural Route 1, P.O. Box 544, Box Elder, Montana 59521; Telephone: (406) 395-5705; Fax: (406) 395-5702.

Crow Tribe of the Crow Reservation of Montana, Director of Tribal Social Services, P.O. Box 159, Crow Agency, Montana 59022; Telephone: (406) 638-3925; Fax: (406) 638-4042.

E

Eastern Shoshone Tribe of the Wind River Reservation, Chairman, P.O. Box 217, Fort Washakie, Wyoming 82514; Telephone: (307) 332-3040; Fax: (307) 332-4557.

G

Gros Ventre and Assiniboine Tribe of Fort Belknap Community Council, Director of Tribal Social Services, Rural Route 1, Box 66, Harlem, Montana 59526; Telephone: (406) 353-2205; Fax: (406) 353-4634.

N

Northern Arapaho Tribe of the Wind River Reservation, Chairman, P.O. Box 217, Fort Washakie, Wyoming 82514; Telephone: (406) 332-6120; Fax: (307) 332-3055.

Northern Cheyenne Tribe of the Northern Cheyenne Reservation, Director, Tribal Social Services, P.O. Box 128, Lame Deer, Montana 59043; Telephone: (406) 477-8321; Fax: (406) 477-8333.

10. Southern Plains Region

Dan Deerinwater, Regional Director, 1½ mile North Highway 281, P.O. Box 368, Anadarko, OK 73005; Telephone: (405) 247-6673 Ext. 314; Fax: (405) 247-5611.

Ofelia De La Rosa, Regional Social Worker, P.O. Box 368, Anadarko, Oklahoma 73005; Telephone: (405) 247-1580 Fax: (405) 247-2895.

A

Absentee-Shawnee Tribe of Oklahoma Indians, Governor, 2025 S. Gordon Cooper Drive, Shawnee, Oklahoma 74801; Telephone: (405) 275-4030.

Alabama-Coushatta Tribe of Texas, Chairperson, 571 State Park Road, 56, Livingston, Texas, 77351; Telephone: (936) 563-4391.

Apache Tribe of Oklahoma, Chairperson, P.O. Box 1220, Anadarko, Oklahoma 73005; Telephone: (405) 247-9493.

C

Caddo Indian Tribe of Oklahoma, Chairperson, P.O. Box 487, Binger, Oklahoma 73009; Telephone: (405) 656-2344.

Cheyenne-Arapaho Tribes of Oklahoma, Governor, P.O. Box 38, Concho, Oklahoma 73022; Telephone: (405) 262-0345.

Citizen Potawatomi Nation, Chairperson, 1601 S. Gordon Cooper Drive, Shawnee, Oklahoma 74801; Telephone: (405) 275-3121.

Comanche Nation, Chairperson, HC 32, Box 1720, Lawton, Oklahoma 73502; Telephone: (580) 492-4988.

D

Delaware Nation, President, P.O. Box 825, Anadarko, Oklahoma 73005; Telephone: (405) 247-2448: Fax (405) 247-9393.

F

Fort Sill Apache Tribe of Oklahoma, Chairperson, Route 2, Box 121, Apache, Oklahoma 73006; Telephone: (580) 588-2298.

I

Iowa Tribe of Kansas, Chairperson, 3345 B. Thrasher Rd., White Cloud, Kansas 66094; Telephone: (785) 595-3258.

Iowa Tribe of Oklahoma, Chairperson, Route 1, Box 721, Perkins, Oklahoma 74059; Telephone: (405) 547-2402.

K

Kaw Nation, Chairperson, Drawer 50, Kaw City, Oklahoma 74641;

Telephone: (580) 269-2552.

Kickapoo Traditional Tribe of Texas, Chairperson, HC 1, Box 9700, Eagle Pass, Texas 78852; Telephone: (830) 773-2105.

Kickapoo Tribe of Indians of The Kickapoo Reservation in Kansas, Chairperson, P.O. Box 271, Horton, Kansas 66439; Telephone: (785) 486-2131.

Kickapoo Tribe of Oklahoma, Chairperson, P.O. Box 70, McLoud, Oklahoma 74851; Telephone: (405) 964-2075.

Kiowa Tribe of Oklahoma, Chairperson, P.O. Box 369, Carnegie, Oklahoma 73015; Telephone: (580) 654-2300.

O

Otoe-Missouria Indian Tribe of Oklahoma, Chairperson, 8151 Highway 177, Red Rock, Oklahoma 74651; Telephone: (580) 723-4466.

P

Pawnee Tribe of Oklahoma, President, P.O. Box 470, Pawnee, Oklahoma 74058; Telephone: (918) 762-3621.

Ponca Tribe of Oklahoma, Chairperson, 20 White Eagle Drive, Ponca City, Oklahoma 74601; Telephone: (580) 762-8104.

Prairie Band of Potawatomi Nation, Chairperson, 16281 Q. Road, Mayetta, Kansas 66509; Telephone: (785) 966-2255.

S

Sac and Fox of Missouri in Kansas, Chairperson, 305 N. Main St., Reserve, Kansas 66434; Telephone: (785) 742-7471.

Sac and Fox Nation, Principal Chief, Route 2, Box 246, Stroud, Oklahoma 74079; Telephone: (918) 968-3526.

T

Tonkawa Tribe of Oklahoma, President, P.O. Box 70, Tonkawa, Oklahoma 74653; Telephone: (580) 628-2561.

W

Wichita and Affiliated Tribes of Oklahoma, Indian Child Welfare, Coordinator, P.O. Box 729, Anadarko, Oklahoma 73005; Telephone: (405) 247-2425.

11. Southwest Region

William Tandy Walker, Acting Regional Director, P.O. Box 26567 (87125), 1001 Indian School Road, NW, Albuquerque, NM 87104; Phone: (505) 563-3100; Fax: (505) 563-3101.

Sandra McCook, Regional Social Worker, P.O. Box 26567 (87125), 1001 Indian School Road, NW, Albuquerque, NM 87104; Phone: (505) 563-3522; Fax: (505) 563-3058.

A

*Acoma, Pueblo of, Jennifer Valdo, Acting ICWA Social Worker, P.O. Box 309, Acoma, NM 87034; Phone: (505) 552-5163; (505) 552-7522.

C

*Cochiti, Pueblo of, Cynthia Herrera, Director, P.O. Box 70, Cochiti, NM 87072; Phone: (505) 465-2244; Fax: (505) 465-1135.

I

*Pueblo of Isleta, Caroline Dailey, Acting ICWA Director, P.O. Box 1270, Isleta, NM 87022; Phone: (505) 869-2772; Fax (505) 869-5923.

J

*Jemez, Pueblo of, Henrietta Gachupin, Social Services Program, P.O. Box 340, NM 87024; Phone: (575) 834-7117; Fax: (575) 834-7103.

Jicarilla Apache Nation, Monica Carrasco, Director of Mental Health & Social Services, P.O. Box 546, Dulce, NM 87528; Phone: (575) 759-3162; Fax: (575) 759-3588.

L

Laguna, Pueblo of, Ramona Carrillo, Social Services Director P.O. Box 194, Laguna, NM 87026; Phone: (505) 552-9712; Fax: (505) 552-6484

M

Mescalero Apache Tribe, Christina Layton, Executive Director for Tribal Human Services, P.O. Box 228, Mescalero, NM 88340; Phone (505) 464-4432, Fax: (505) 464-4331.

N

Pueblo of Nambe, Venus Montoya-Felter, ICWA Coordinator P.O. Box 177-BB, Santa Fe, NM 87506; Phone (505) 455-2036 ext. 112; Fax (505) 455-2038.

P

Picuris, Pueblo of, Jeanette Knowles, ICWA Coordinator, P.O. Box 127, Penasco, NM 87553; Phone (575) 587-2792; Fax (575) 587-1071.

Pojoaque, Pueblo of, Shirley Catanach, Director of Social Services, 58 Cities of Gold Rd. Suite 4, Santa Fe, NM 87506; Phone: (505) 455-0238; Fax: (505) 455-2363.

R

Ramah Navajo School Board, Inc., Loretta Martinez, Director of Social Services, P.O. Box 250, Pine Hill, NM 87357; Phone (505) 775-3221; Fax: (505) 775-3520.

S

San Felipe, Pueblo of, Darlene Valencia, Family Services Program Director, Pueblo of San Felipe, P.O. Box 4350, San Felipe Pueblo, NM 87004; Phone (505) 771-9900; Fax: (505) 867-6166.

San Ildelfonso, Pueblo of, William S. Christian, Contracts Administrator, Route 5, P.O. Box 315-A, Santa Fe, NM 87506; Phone (505) 455-2273, ext. 107; Fax: (505) 455-7351.

*San Juan, Pueblo of, Chenoa Seaboy, ICWA Coordinator, P.O. Box 1187, San Juan Pueblo, NM 87566; Phone (505) 852-4400; Fax: (505) 852-4820 or (505) 852-1873.

Sandia, Pueblo of, Robert Comer, Behavioral Health Manager, 403 Sandia Day School Road, Bernalillo, NM 87004; Phone: (505) 771-5174; Fax: (505) 867-4997.

Santa Ana, Pueblo of, Jane Jacksonbear, Director of Social Services, Pueblo of Santa Ana, 2 Dove Road, Bernalillo, NM 87004; Phone: (505) 771-6737; Fax: (505) 771-7056.

Santa Clara, Joe Naranjo, Tribal Administrator, P.O. Box 580, Espanola, NM 87532; Phone: (505) 753-7326; Fax: (505) 753-8819.

Santo Domingo, Pueblo of, Arthur Lucero, ICWA worker, P.O. Box 129, Santo Domingo Pueblo, NM 87052; Phone: (505) 465-0630; Fax (505) 465-2554.

Southern Ute Indian Tribe, Jerri Sindelar, ICWA worker, P.O. Box 737, Ignacio, CO 81137; Phone (970) 563-4738; Fax (970) 563-0334.

T

Taos, Pueblo of, Maxine Nakai, Division Director Pueblo of Taos, P.O. Box 1846, Taos, NM 87571; Phone: (575) 758-7824; Fax: (575) 758-3346; Fax: (575) 751-3345, respectively.

Tesuque, Pueblo of, Debbie Salazar, Health and Human Services Director, Route 42, Box 360-T, Santa Fe, NM 87506; Phone: (505) 955-7739; Fax: (505) 982-2331.

U

Ute Mountain Ute Tribe (Colorado & Utah), Carla Knight-Cantsee, Social Services Director, P.O. Box 309, Towaoc, CO 81334; Phone: (970) 564-5307/5310; Fax: (970) 564-5300.

Y

Ysleta del Sur Pueblo, Elizabeth Acosta, ICWA Family Case Worker, 119 South Old Pueblo Rd., Ysleta Station, El Paso, TX 79907; Phone: (915) 859-7913 ext. 151; Fax: (915) 859-5526.

Z

Zia, Pueblo of, Pueblo of Zia, Governor's Office,135 Capital Square Drive, Zia Pueblo, NM 87053; Phone: (505) 867-3304 ext. 241; Fax: (505) 867-3308.

Zuni, Pueblo of, April Seciwa, Social Worker, P.O. Box 339, Zuni, NM 87327; Phone: (505) 782-7166; Fax: (505) 782-7221.

12. Western Region

Allen Anspach, Regional Director, 400 North 5th Street (85004), Telephone: (602) 379-6600.

Evelyn S. Roanhorse, Regional Social Worker, 400 North 5th Street (85004), Telephone: (602) 379-6785; Fax: (602) 379-3010.

A

Ak Chin Indian Community, Enrollment Specialist, 42507 West Peters & Nall Road, Maricopa, Arizona 85239; Telephone: (520) 568-1023); Fax (520) 568-4566.

B

Battle Mountain Band Council, ICWA Coordinator, 37 Mountain View Drive, Battle Mountain, Nevada 89820; Telephone: (775) 635-9189 Ext. 109.

C

Chemehuevi Indian Tribe, Tribal Administrator, P.O. Box 1976, Havasu Lake, California 92363; Telephone: (760) 858-4219; Fax: (760) 858-5400.

Cocopah Indian Tribe, Mr. Kermit A. Palmer, Tribal Administrator, County 15 and Ave. G, Somerton, Arizona 85350; Telephone: (928) 627-2102; Fax # (928) 627-3173.

Colorado River Indian Tribes, Daniel Eddy, Jr., Chairman, Route 1, Box 23-B, Parker, Arizona 85344; Telephone: (928) 669-9211; Fax (928) 669-1216.

D

Duckwater Shoshone Tribal Council, Health Department Manager, P.O. Box 140068, Duckwater, Nevada 89314; Telephone: (775) 863-0227.

E

Elko Band Council, Lillian Garcia, ICWA Coordinator; Darby Adams, Social Service Director, 1745 Silver Eagle Dr., Elko, Nevada 89801; Telephone: (775) 738-8889.

Ely Shoshone Tribal Council, Social Services Director, 400-B Newe View, Ely, Nevada 89301; Telephone: (775) 289-3013; Fax: (775) 289-3237.

F

Fallon Paiute Shoshone Business Council, Youth & Family Services, 565 Rio Vista Drive, Fallon, Nevada 89406; Telephone: (775) 423-1215.

Fort McDermitt Paiute-Shoshone Tribe, Ms. Karen M. Crutcher, Chairperson, P.O. Box 457, McDermitt, Nevada 89421; Telephone: (775) 532-8259; Fax: (775) 532-8487.

Fort McDowell Yavapai Tribe, Attention: CPS/ICWA Coordinator, Family and Community Services, P.O. Box 17779, Fountain Hills, Arizona 85269; Telephone: (480) 837-5076.

Fort Mojave Indian Tribe, Attention: Social Services Director, 500 Merriman Avenue, Needles, California 92363; Telephone: (760) 629-3745.

G

Gila River Pima-Maricopa Indian Community, Attention: Tribal Social Service Director, P.O. Box 97, Sacaton, Arizona 85247; Telephone: (520) 562-3711 Ext. 233.

Goshute Business Council (Nevada and Utah), Melissa Oppenhein, ICWA, Confederated Tribes of the Goshute Reservation, P.O. Box 6104, Ibapah, Utah 84034; Telephone: (435) 234-1178.

H

Havasupai Tribe, Attention: Phyllis Jones, ICWA Coordinator, P.O. Box 10, Supai, Arizona 86435; Telephone: (928) 448-2731; Fax: (928) 448-2143.

Hopi Tribe of Arizona, Tribal Human Service Director, Hopi Guidance Center Social Services, P.O. Box 68, Second Mesa, Arizona 86043; Telephone: (928) 737-2685.

Hualapai Tribe, Carrie Imus, Director, Hualapai Human Services, P.O. Box 480, Peach Springs, Arizona 86434; Telephone: (928) 769-2383 or 2269; Fax: (928) 769-2659.

K

Kaibab Band of Paiute Indians, Director, Social Services Program, HC 65 Box 2, Pipe Spring, Arizona 86022; Telephone: (928) 643-6010.

L

Las Vegas Paiute Tribe, ICWA Director, One Paiute Drive, Las Vegas, Nevada 89106; Telephone: (702) 382-0784.

Lovelock Paiute Tribal Council, Attention: Indian Child Welfare Coordinator, P.O. Box 878, Lovelock, Nevada 89419; Telephone: (775) 273-7861.

M

Moapa Band of Paiutes, Chairman, P.O. Box 340, Moapa, Nevada 89025; Telephone: (702) 865-2787; Fax: (702) 865-2875.

P

Paiute Indian Tribe of Utah, Attention: ICWA Caseworker, 440 North Paiute Drive, Cedar City, Utah 84720; Telephone: (435) 586-1112.

Pascua Yaqui Tribe, Office of the Attorney General, Tamara Walters, Assistant Attorney General, 4725 West Calle Tetakusim, Bldg. B, Tucson, Arizona 85757; Telephone: (520) 883-5108; Fax: (520) 883-5084.

Pyramid Lake Paiute Tribe, Chairperson, P.O. Box 256, Nixon, Nevada 89424; Telephone: (775) 574-1000.

Q

Quechan Tribal Council, President, P.O. Box 1899, Yuma, Arizona 85366-1899; Telephone: (760) 572-0213; Fax: (760) 572-2102.

R

Reno-Sparks Indian Colony, Attention: Director of Social Services, 98 Colony Road, Reno, Nevada 89502; Telephone: (775) 329-5071.

S

Salt River Pima-Maricopa Indian Community, Office of the General Counsel or Social Services Division, Child Protective Services, 10,005 East Osborn Road, Scottsdale, Arizona 85256; Telephone: (480) 850-4130.

San Carlos Apache Tribe, Terry Ross, Director of Tribal Human Services, P.O. Box 0, San Carlos, Arizona 85550; Telephone: (928) 475-2313 or 2314; Fax: (928) 475-2342.

San Juan Southern Paiute Tribe, Tribal Enrollment Officer, Health and Human Services, P.O. Box 1169, Tuba City, Arizona 86045; Telephone: (928) 283-4587 or 4589; Fax: (928) 283-5531 or 5761.

Shoshone-Paiute Tribes of the Duck Valley Reservation (Nevada), Chairman, P.O. Box 219, Owyhee, Nevada 89832; Telephone: (208) 759-3100.

Skull Valley Band of Goshute Indians, Attention: ICWA Program Office, Metropolitan Plaza, Suite 110, 2480 S. Main Street, South Salt Lake City, Utah 84115; Telephone: (801) 474-0535.

South Fork Band Council, Karen McDade, Director, Social Services Program, 21 Lee, B13, Spring Creek, Nevada 89815; Telephone: (775) 744-2412.

Summit Lake Paiute Tribe, Attention: Tribal Chairperson, 653 Anderson Street, Winnemucca, Nevada 89445; Telephone: (775) 623-5151.

T

Te-Moak Tribe of Western Shoshone Indians, Chairman, 525 Sunset Street, Elko, Nevada 89801.

Tohono O'odham Nation, Office of Attorney General, P.O. Box 830, Sells, Arizona 85634; Telephone: (520) 383-3410.

Tonto Apache Tribe, Social Services Director, Tonto Apache Reservation 30, Payson, Arizona 85541; Telephone: (928) 474-5000, Fax: (928) 474-9125.

U

Ute Indian Tribe, Floyd Wyasket, Social Service Director, Box 190, Fort Duchesne, Utah 84026; Telephone: (435) 725-4026 or (435) 823-0141.

W

Walker River Paiute Tribe, ICWA Specialist, P.O. Box 146, Schurz, Nevada 89427; Telephone: (775) 773-2058 or 2541; Fax: (775) 773-2096.

Washoe Tribe of Nevada and California, Social Services Director, 919 Hwy, 395 South, Gardnerville, Nevada 89410; Telephone: (775) 883-1446.

Wells Indian Colony Band Council, Chairman, P.O. Box 809, Wells, Nevada 89835; Telephone: (775) 752-3045.

White Mountain Apache Tribe, Department of Social Services, Attention: Cynthia Burnett, Child Welfare Administrator, P.O. Box 1870, Whiteriver, Arizona 85941;

Telephone: (928) 338-4164, Fax: (928) 338-1469.

Winnemucca Tribe, Chairman, P.O. Box 1370, Winnemucca, Nevada 89446.

Y

Yavapai-Apache Nation, Frieda A. Eswonia, Director, ICWA Program Indian Child Welfare Act, 2400 Datsi Street, Camp Verde, Arizona 86322-8412; Telephone: (928) 567-9439 Ext. 21; Fax: (928) 567-6485; E-mail: feswonia@yan-tribe.org.

Yavapai-Prescott Indian Tribe, Attention: ICWA Director, 530 East Merritt Avenue, Prescott, Arizona 86301; Telephone: (928) 777-0532; Fax: (928) 541-7945.

Yerington Paiute Tribe, Chairman, 171 Campbell Lane, Yerington, Nevada 89447; Telephone: (775) 463-3301.

Yomba Shoshone Tribe, Chairman, HC 61 Box 6275, Austin, Nevada 89310-9301; Telephone: (775) 964-2463.

B. List of Designated Tribal Agents by Tribal Affiliation

1. Tribes Other Than Alaska Native Tribes and Villages

Please note: There is a separate row for each designated Tribal agent. In some cases, a Tribe may have multiple designated Tribal agents. In those cases, a superscript number appears beside the name of the Tribe to indicate that there is an additional row for that Tribe with a different designated Tribal agent.

APACHE | Jicarilla Apache Nation, Monica Carrasco, Director of Mental Health & Social Services, P.O. Box 546, Dulce, New Mexico 87528, phone: (505) 759-3162, Southwest Region.
APACHE | Mescalero Apache Tribe, Christina Layton, Executive Director for Tribal Human Services, P.O. Box 228, Mescalero, New Mexico 88340, phone: (505) 464-4432, Southwest Region.
APACHE | San Carlos Apache Tribe, Terry Ross, Director of Tribal Human Services, P.O. Box 0, San Carlos, Arizona 85550, phone: (928) 475-2313, Western Region.
APACHE | Tonto Apache Tribe of Arizona, Social Services Division, Tonto Apache Reservation 30, Payson, Arizona 85541, phone: (928) 474-5000, Western Region.
APACHE | White Mountain Apache Tribe of the Fort Apache Reservation, Department of Social Services, Attention: Cynthia Burnett, Child Welfare Administrator, P.O. Box 1870, Whiteriver, Arizona 85941, phone: (928) 338-4164, Western Region.
APACHE (SEE YAVAPAI) | Yavapai-Apache Nation of the Camp Verde Indian Reservation, Frieda A. Eswonia, Director, ICWA Program, 2400 Datsi Street, Camp Verde, Arizona 86322-8412, Western Region.
ARAPAHOE | Northern Arapahoe Tribe of the Wind River Reservation, Chairman, P.O. Box 217, Fort Washakie, Wyoming 82514, phone: (406) 332-6120, Rocky Mountain Region.
ARAPAHO (SEE CHEYENNE) | Cheyenne-Arapaho Tribes of Oklahoma, Governor, P.O. Box 38, Concho, Oklahoma 73022, phone: (405) 262-0345, Southern Plains Region.
ARIKARA (SEE THREE AFFILIATED TRIBES/HIDATSA/MANDAN) | Three Affiliated Tribes, Katherine Felix, ICWA Representative, Three Affiliated Tribes, 404 Frontage Road, New Town, North Dakota 58763, phone: (701) 627-4781, Great Plains Region.
ASSINIBOINE (SEE GROS VENTRE) | Gros Ventre and Assiniboine Tribe of Fort Belknap Community Council, Director of Tribal Social Services, Rural Route 1, Box 66, Harlem, Montana 59526, phone: (406) 353-2205, Rocky Mountain Region.
ASSINIBOINE (SEE SIOUX) | Assiniboine and Sioux Tribes, Chairman, Fort Peck Indian Reservation, P.O. Box 1027, Popular, Montana 59255, phone: (406) 768-5155, Rocky Mountain Region.
BLACKFEET | Blackfeet Tribe of Montana, Indian Child Welfare Act (ICWA) Coordinator, P.O. Box 588, Browning, Montana 59417, phone: (406) 338-7806, Rocky Mountain Region.
CADDO | Caddo Indian Tribe of Oklahoma, Chairperson, P.O. Box 487, Binger, Oklahoma 73009, phone: (405) 656-2344, Southern Plains Region.
CAHUILLA | Aqua Caliente Band of Cahuilla Indians, Chantel Schuering, Tribal Family Services Director, 901 E. Tahquitz Canyon Way, Suite C-204, Palm Springs, California 92262, phone: (760) 864-1756, Pacific Region.
CAHUILLA (SEE MISSION) | Augustine Band of Cahuilla Indians, Chairperson, P.O. Box 846, Coachella, California 92236, phone: (760) 398-4722, Pacific Region.
CAHUILLA (SEE MISSION) | Cabazon Band of Mission Indians, Chairman, 84-245 Indio Springs Drive, Indio, California 92201, phone: (760) 342-2593, Pacific Region.
CAHUILLA (SEE MISSION) | Cahuilla Band of Mission Indians, Executive Director, Indian Child & Family Services, P.O. Box 2269, Temecula, California 92590, phone: (951) 676-8832, Pacific Region.
CAHUILLA (SEE MISSION/CUPENO) | Los Coyotes Band of Cahuilla & Cupeno Indians, Tribal Family Services, Manager, Indian Health Council, Inc., P.O. Box 406, Pauma Valley, California 92061, phone: (760) 749-1410, Pacific Region.
CAHUILLA (SEE MISSION) | Morongo Band of Cahuilla Mission Indians, Maurice Lyons, Chairman, 11581 Potrero Road, Banning, California 92220, phone: (951) 849-4697, Pacific Region.
CAHUILLA (SEE MISSION) | Ramona Band or Village of Cahuilla Mission Indians, ICWA Coordinator, P.O. Box 391372, Anza, California 92539, Pacific Region.
CAHUILLA (SEE MISSION) | Santa Rosa Band of Cahuilla Mission Indians, ICWA Representative, P.O. Box 609, Hemet, California 92546, phone: (951) 658-5311, Pacific Region.
CAHUILLA (SEE MISSION) | Soboba Band of Luiseno Indians, Tribal Social Worker, Sobboba Social Services Department, P.O. Box 487, San Jacinot, California 92581, phone: (707) 463-2644, Pacific Region.
CAHUILLA | Torres Martinez Desert Cahuilla Indians, Annette Chihuahua, ICWA Representative, P.O. Box 1160, Thermal, California 92274, phone: (760) 397-0300, Pacific Region.
CATAWBA | Catawba Indian Nation of South Carolina, Aliceson McCormick, Director, Social Services, P.O. Box 188, Catawba, South Carolina 29701, phone: (803) 366-4792 Ext. 225, Eastern Region.
CAYUGA (SEE IROQUOIS/SENECA) | Cayuga Nation of New York, Anita Thompson, Child Welfare Worker, P.O. Box 11, Versailles, New York 14168, phone: (716) 337-4270, Eastern Region.
CAYUGA (SEE SENECA) | Seneca-Cayuga Nation of Oklahoma, Paul Spicer, Principal Chief, P.O. Box 1283, Miami, Oklahoma 74355, phone: (918) 542-6609, Eastern Oklahoma Region.
CHEHALIS | Confederated Tribes of the Chehalis, Chehalis Business Council, Nancy Dufraine, ICWA Contact, P.O. Box 536, Oakville, Washington 98568-9616, phone: (360) 273-5911, Northwest Region.
CHEMEHUEVI | Chemehuevi Indian Tribe, Tribal Administrator, P.O. Box 1976, Havasu Lake, California 92363, phone: (760) 858-4219, Western Region.
CHEMEHUEVI (SEE COLORADO RIVER/HOPI/MOJAVE/NAVAJO) | Colorado River Indian Tribes, Daniel Eddy, Jr., Chairman, Route 1, Box 23-B, Parker, Arizona 85344, phone: (928) 669-9211, Western Region.
CHEMEHUEVI (SEE LUISENO/MISSION) | Twenty-Nine Palms Band of Mission Indians, Executive Director, Indian Child & Family Services, P.O. Box 2269, Temecula, California 92590, phone: (951) 676-8832, Pacific Region.
CHEROKEE | Cherokee Nation of Oklahoma, Chadwick Smith, Principal Chief, P.O. Box 948, Tahlequah, Oklahoma 74465, phone: (918) 456-0671, Eastern Oklahoma Region.
CHEROKEE | Eastern Band of Cherokee Indians, Barbara Jones, Director, Family Support Services, 508 Goose Creek Road, P.O. Box 507, Cherokee, North Carolina 28719, phone: (828) 497-6092, Eastern Region.
CHEROKEE | United Keetoowah Band of Cherokee Indians, George Wickliffe, Chief, P.O. Box 746, Tahlequah, Oklahoma 74465, phone: (918) 431-1818, Eastern Oklahoma Region.
CHEYENNE | Northern Cheyenne Tribe of the Northern Cheyenne Reservation, Director, Tribal Social Services, P.O. Box 128, Lame Deer, Montana 59043, phone: (406) 477-8321, Rocky Mountain Region.
CHEYENNE (SEE ARAPAHO) | Cheyenne-Arapaho Tribes of Oklahoma, Governor, P.O. Box 38, Concho, Oklahoma 73022, phone: (405) 262-0345, Southern Plains Region.
CHICKASAW | The Chickasaw Nation, Bill Anoatubby, Governor, P.O. Box 1548, Ada, Oklahoma 74821, phone: (580) 436-2603, Eastern Oklahoma Region.
CHIPPEWA (SEE OJIBWE) | Bad River Band of the Lake Superior Tribe of, Chippewa Indians, Catherine Blanchard, ICWA Coordinator, P.O. Box 55, Odanah, Wisconsin 54861, phone: (715) 682-7135, Midwest Region.
CHIPPEWA | Bay Mills Indian Community, Cheryl Baragwanath, ICWA Worker, 12124 W. Lakeshore Drive, Brimley, Michigan 49715, phone: (906) 248-3204, Midwest Region.
CHIPPEWA | Boise Fort Reservation Tribal Government, Gary Adams, Human Service Director, 13090 Westley Drive, Suite B, Nett Lake, Minnesota 55772, phone: (218) 757-0111, Midwest Region.
CHIPPEWA (SEE CREE) | Chippewa Cree Indians of the, Rocky Boy's Reservation, Tribal Chairman, Rural Route 1, P.O. Box 544, Box Elder, Montana 59521, phone: (406) 395-5705, Rocky Mountain Region.
CHIPPEWA | Fond du Lac Reservation Business Committee, Lisa Polack, ICWA Coordinator, 1720 Big Lake Road, Cloquet, Minnesota 55720, phone: (218) 879-1227, Midwest Region.
CHIPPEWA | Grand Portage Reservation, Human Services, P.O. Box 428, Grand Portage, Minnesota 55604, phone: (218) 475-2453, Midwest Region.
CHIPPEWA (SEE OTTAWA/PESHAWBESTOWN) | Grand Traverse Band of Ottawa and Chippewa Indians, Ms. Sonya Zotigh, Tribal Manager, 2605 N. West bay shore Drive, Peshawbestown, Michigan 49682, phone: (231) 534-7136, Midwest Region.
CHIPPEWA (SEE POTAWATOMI) | Hannahville Indian Community of Michigan, ICWA Worker, N14911 Hannahville B1 Road, Wilson, Michigan 49896-9728, phone: (906) 466-9320, Midwest Region.
CHIPPEWA | Keweenaw Bay Indian Community of the L'Anse Reservation of Michigan, Judy Heath, Tribal Social Service Director/ICWA Worker, 107 Beartown Road, Baraga, Michigan 49908, phone: (906) 353-6623 Ext: 4201, Midwest Region.
CHIPPEWA | Lac Courte Oreilles Band of Lake Superior Chippewa Indian of Wisconsin, LuAnn Kolumbus, Tribal Social Services Director, 13394 W. Trepania Road, Building 1, Hayward, Wisconsin 54843, phone: (715) 634-8934, Midwest Region.
CHIPPEWA | Lac du Flambeau Band of Lake Superior Chippewa Indians, Laura Kuehn, ICWA Coordinator, P.O. Box 189, Lac du Flambeau, Wisconsin 54538, phone: (715) 588-1511, Midwest Region.
CHIPPEWA | Lac Vieux Desert Band of Lake Superior Chippewa Indians of Michigan, Melissa J. McGeshieck, ICWA Coordinator, P.O. Box 249, Watersmeet, Michigan 49969, phone: (906) 358-4940, Midwest Region.
CHIPPEWA (SEE OJIBWE) | Leech Lake Band of Ojibwe, Rose Robinson, ICWA Coordinator, 115 Sixth Street, NW, Suite E, Cass Lake, Minnesota 56633, phone: (218) 335-8270, Midwest Region.
CHIPPEWA (SEE OJIBWE) | Mille Lacs Reservation Business Committee, ICWA Coordinator, 43408 Oodana Drive, Onamia, Minnesota 56359, phone: (320) 532-4139, Midwest Region.
CHIPPEWA | Minnesota Chippewa Tribe of Minnesota, Includes Six Component Reservations:, Bois Forte Band, Fond Du Lac band; Grand Portage Band; Leech Lake Band; Mille Lacs Band; White Earth Band, Adrienne Adkins, Human Services Director, P.O. Box 217, Cass Lake, Minnesota 56633, phone: (218) 335-8585, Midwest Region.
CHIPPEWA | Red Cliff Band of Lake Superior Chippewa Indians of Wisconsin, Beth Meyers, ICWA Director, 88385 Pike Road, Highway 13, Bayfield, Wisconsin 54814, phone: (715) 779-3747 Ext. 18, Midwest Region.
CHIPPEWA | Red Lake Band of Chippewa Indians, Dr. Sandra Parsons, Family and Children Services, Box 427, Red Lake, Minnesota 56671, phone: (218) 679-2122, Midwest Region.
CHIPPEWA, (SEE OJIBWE) | St. Croix Chippewa Indians of Wisconsin, Kathryn LaPointe, ICWA Director, 24663 Angeline Avenue, Webster, Wisconsin 54893, phone: (715) 349-2195, Midwest Region.
CHIPPEWA | Sault Ste. Marie Tribe of Chippewa Indians of Michigan, Juanita Bye, Child Placement Director, 2864 Ashmun Street, 3rd Floor, Sault Ste Marie, Michigan 49783, phone: (906) 632-5250 Ext. 23180, Midwest Region.
CHIPPEWA | Sokaogon Chippewa Community (Mole Lake), Angela Charbarneau, ICWA Worker, 3051 Sand Lake Road, Crandon, Wisconsin 54520, phone: (715) 478-2520, Midwest Region.
CHIPPEWA | Turtle Mountain Band of Chippewa Indians, Marilyn Poitra, ICWA coordinator, Child Welfare and Family Services, P.O. Box 900, Belcourt, North Dakota 58316, phone: (701) 477-5688, Great Plains Region.
CHIPPEWA | White Earth Reservation Business Committee, Jeri Jasken, ICWA Coordinator, P.O. Box 70, ICWA, Naytahwaush, Minnesota 56566, phone: (218) 935-5554, Midwest Region.
CHIRICAHUA (SEE APACHE) | Fort Sill Apache Tribe of Oklahoma, Chairperson, Route 2, Box 121, Apache, Oklahoma 73006, phone: (580) 588-2298, Southern Plains Region.
CHOCTAW | Choctaw Nation of Oklahoma, Gregory E. Pyle, Chief, P.O. Drawer 1210, Durant, Oklahoma 74702-1210, phone: (580) 924-8280, Eastern Oklahoma Region.
CHOCTAW | Jena Band of Choctaw Indians, Mona Maxwell, Director, Social Services, P.O. Box 14, Jena, Louisiana 71342, phone: (318) 992-0136, Eastern Region.
CHOCTAW | Mississippi Band of Choctaw Indians, Maurice Calistro, Director, P.O. Box 6010, Choctaw, Mississippi 39350, phone: (601) 650-1741, Eastern Region.
CHUKCHANSI | Picayune Rancheria of Chukchansi Indians, ICWA Director, 46575 Road 417, Coarsegold, California 93614, phone: (559) 683-6633, Pacific Region.
CHIMASH (SEE MISSION) | Santa Ynez Band of Mission Indians, Caren Romero, Jess Montoya, ICWA Representative, Executive Director, Santa Ynez, California 93460, phone: (805) 688-7070, Pacific Region.
COCOPAH | Cocopah Tribal Council, Mr. Kermit A. Palmer, Tribal Administrator, County 15 and Ave. G, Somerton, Arizona 85350, phone: (928) 627-2102, Western Region.
COEUR D'ALENE | Coeur D'Alene Tribal Council, ICWA, 850 A. Street, Box 408, Plummer, Idaho 83851-0408, phone: (208) 686-1800, Northwest Region.
COLORADO RIVER, (SEE CHEMEHUEVI/HOPI/MOJAVE/NAVAJO) | Colorado River Indian Tribes, Daniel Eddy, Jr., Chairman, Route 1, Box 23-B, Parker, Arizona 85344, phone: (928) 669-9211, Western Region.
COLVILLE | Colville Business Council, ICWA, P.O. Box 150, Nespelem, Washington 99155-011, phone: (509) 634-2200, Northwest Region.
COMANCHE | Comanche Nation, Chairperson, HC 32, Box 1720, Lawton, Oklahoma 73502, phone: (580) 492-4988, Southern Plains Region.
COQUILLE | Coquille Indian Tribe, Wayne Grant, ICWA Contact, P.O. Box 3190, Coos Bay, Oregon 97420, phone: (541) 888-9494, Northwest Region.
COUSHATTA | Coushatta Tribe of Louisiana, Tyler Greymountain, Child Care Specialist, P.O. Box 967, Elton, Louisiana 70532, phone: (337) 584-1433, Eastern Region.
COWLITZ | Cowlitz Indian Tribe, Carolee Morris, ICWA Director, P.O. Box 2547, Longview, Washington 98632-8594, phone: (360) 577-8140, Northwest Region.
CREE (SEE CHIPPEWA) | Chippewa Cree Indians of the Rocky Boy's Reservation, Tribal Chairman, Rural Route 1, P.O. Box 544, Box Elder, Montana 59521, phone: (406) 395-5705, Rocky Mountain Region.
CREEK (SEE ALABAMA-QUASSARTE) | Alabama Quassarte Tribal Town, Tarpie Yargee, Chief, P.O. Box 187, Wetumka, Oklahoma 74883, phone: (405) 452-3987, Eastern Oklahoma Region.
CREEK | Kialegee Tribal Town, Gary Bucktrot, Town King, P.O. Box 332, Wetumka, Oklahoma 74883, phone: (918) 452-3262, Eastern Oklahoma Region.
CREEK | The Muscogee (Creek) Nation, A.D. Ellis, Principal Chief, P.O. Box 580, Okmulgee, Oklahoma 74447, phone: (918) 756-8700, Eastern Oklahoma Region.
CREEK | Poarch Band of Creek Indians, Carolyn M. White, Executive Director, Martha Gookin, Family Services Coordinator, Department of Family Services, 5811 Jack Springs Road, Atmore, Alabama 36502, phone: (251) 368-9136 Ext. 2600, Eastern Region.
CREEK | Thlopthlocco Tribal Town, George Scott, Town King P.O. 188, Okemah, Oklahoma 74859, phone: (918) 623-2620, Eastern Oklahoma Region.
CROW | Crow Tribe, Director of Tribal Social Services, P.O. Box 159, Crow Agency, Montana 59022, phone: (406) 638-3925, Rocky Mountain Region.
DELWARE (SEE LENAPI/MUNSEE) | Delaware Nation, President, P.O. Box 825, Anadarko, Oklahoma 73005, phone: (405) 247-2448, Southern Plains Region.
DIEGUENO (SEE MISSION) | Barona Band of Mission Indians, Program Director, Kumeyaay Family Services, Southern Indian Health Council, Inc., 4058 Willow Road, Alpine California 91903, phone: (619) 445-1188, Pacific Region.
DIEGUENO (SEE MISSION) | Campo Band of Mission Indians, Program Director, Kumeyaay Family Services, Southern Indian Health Council, Inc., 4058 Willow Road, Alpine California 91903, phone: (619) 445-1188, Pacific Region.
DIEGUENO (SEE KUMEYAAY) | Ewiiaapaayp (Cuyapaipe) Band of Kumeyaay Indians, CEO, Ewiiaapaayp Tribal Government, 4050 Willow Road, Alpine, California 91903, phone: (619) 445-6315, Pacific Region.
DIEGUENO (SEE MISSION) | Inaja & Cosmit Band of Mission Indians, Tribal Family Services, Manager, Indian Health Services, Inc., P.O. Box 406, Pauma Valley, California 92061, phone: (706) 749-1410, Pacific Region.
DIEGUENO (SEE KUMEYAAY) | Jamul Indian Village, Program Director, Kumeyaay Family Services, Southern Indian Health Council, Inc., 4058 Willow Road, Alpine California 91903, phone: (619) 445-1188, Pacific Region.
DIEGUENO (SEE MISSION) | La Posta Band of Mission Indians, Program Director, Kumeyaay Family Services, Southern Indian Health Council, Inc., 4058 Willow Road, Alpine California 91903, phone: (619) 445-1188, Pacific Region.
DIEGUENO (SEE MISSION) | Manzanita Band of Mission Indians, Chairperson, P.O. Box 1302, Boulevard, California 91905, phone: (619) 766-4930, Pacific Region.
DIEGUENO (SEE MISSION) | Mesa Grande Band of Mission Indians, Tribal Family Services, Manager, Indian Health Services, Inc., P.O. Box 406, Pauma Valley, California 92061, phone: (706) 749-1410, Pacific Region.
DIEGUENO, (SEE MISSION) | Rincon Band of Mission Indians, Tribal Family Services, Manager, Indian Health Services, Inc., P.O. Box 406, Pauma Valley, California 92061, phone: (706) 749-1410, Pacific Region.
DIEGUENO | San Pasqual Band of Diegueno Indians, Tribal Family Services, Manager, Indian Health Services, Inc., P.O. Box 406, Pauma Valley, California 92061, phone: (706) 749-1410, Pacific Region.
DIEGUENO (SEE MISSION) | Santa Ysabel Band of Mission Indians, Linda Ruis, Director, Santa Ysabel Social Services Department, P.O. Box 701, Santa Ysabel, California 92070, phone: (760) 765-1106, Pacific Region.
DIEGUENO (SEE MISSION) | Sycuan Band of Mission Indians, Program Director, Kumeyaay Family Services, Southern Indian Health Council, Inc., 4058 Willow Road, Alpine California 91903, phone: (619) 445-1188, Pacific Region.
DIEGUENO (SEE MISSION) | Veijas (Baron Long) Band of Mission Indian, Program Director, Kumeyaay Family Services, Southern Indian Health Council, Inc., 4058 Willow Road, Alpine California 91903, phone: (619) 445-1188, Pacific Region.
FLATHEAD (SEE KOOTENAI/SALISH) | Confederated Salish & Kootenai Tribes, ICWA Contact, Box 278, Pablo, Montana 59855, phone: (406) 675-2700, Pacific Region.
GOSHUTE | Goshute Business Council (Nevada and Utah), Melissa Oppenhein, ICWA, Confederated Tribes of the Goshute Reservation, P.O. Box 6104, Ibapah, Utah 84034, phone: (435) 234-1178, Western Region.
GOSHUTE | Skull Valley Band of Goshute Indians, Attention: ICWA Program Office, Metropolitan Plaza, Suite 110, 2480 S. Main Street, South Salt Lake City, Utah 84115, phone: (801) 474-0535, Western Region.
GRAND RONDE (SEE SHASTA/SILETZ) | Confederated Tribes of the Grande Ronde Community of Oregon, Dana Ainma, ICWA Contact, 9615 Grand Ronde Road, Grand Ronde, Oregon 97347-0038, phone: (503) 879-2034, Northwest Region.
GROS VENTRE (SEE ASSINIBOINE) | Gros Ventre and Assiniboine Tribe of Fort Belknap Community Council, Director of Tribal Social Services, Rural Route 1, Box 66, Harlem, Montana 59526, phone: (406) 353-2205, Rocky Mountain Region.
HAVASUPAI | Havasupai Tribe, Attention: Phyllis Jones, ICWA Coordinator, P.O. Box 10, Supai, Arizona 86435, phone: (928) 448-2731, Western Region.
HIDATSA (SEE ARIKARA/MANDAN/THREE AFFILIATED TRIBES) | Three Affiliated Tribes, Katherine Felix, ICWA Representative, Three Affiliated Tribes, 404 Frontage Road, New Town, North Dakota 58763, phone: (701) 627-4781, Great Plains Region.
HO-CHUNK, (SEE WINNEBAGO) | The Ho-Chunk Nation, ICWA Coordinator, P.O. Box 40, Black River Falls, Wisconsin 54615, phone: (715) 284-2622, Midwest Region.
HOH | HOH Tribal Business Committee, Ruth King, ICWA Contact, 2464 Lower Hoh Road, Forks, Washington 98331, phone: (360) 374-6582, Northwest Region.
HOOPA | Hoopa Valley Tribe, Director, Social Services, ICWA Program, P.O. Box 1267, Hoopa, California 95546, phone: (530) 625-4236, Pacific Region.
HOPI (SEE CHEMEHUEVI/MOHAVE/COLORADO RIVER/NAVAJO) | Colorado River Indian Tribes, Daniel Eddy, Jr., Chairman, Route 1, Box 23-B, Parker, Arizona 85344, phone: (928) 669-9211, Western Region.
HOPI | Hopi Tribe of Arizona, Tribal Human Service Director, Hopi Guidance Center Social Services, P.O. Box 68, Second Mesa, Arizona 86043, phone: (928) 737-2685, Western Region.
HUALAPAI | Hualapai Tribe, Carrie Imus, Director, Hualapai Human Services, P.O. Box 480, Peach Springs, Arizona 86434, phone: (928) 769-2383/2269, Western Region.
HURON (SEE POTAWATOMI) | Huron Potawatomi, Inc., Nancy Smit, ICWA Worker (MSW Social Worker), 4415 Byron Center Avenue, SW, Wyoming, Michigan 49509, phone: (616) 249-0159, Midwest Region.
HURON (SEE WYANDOTTE) | Wyandotte Tribe of Oklahoma, Leaford Bearskin, Chief, P.O. Box 250, Wyandotte, Oklahoma 74370, phone: (918) 678-2297, Eastern Oklahoma Region.
IOWA | Iowa Tribe of Kansas, Chairperson, 3345 B. Thrasher Road, White Cloud, Kansas 66094, phone: (785) 595-3258, Southern Plains Region.
IOWA | Iowa Tribe of Oklahoma, Chairperson, Route 1, Box 721, Perkins, Oklahoma 74059, (405) 547-2402, Southern Plains Region.
IROQUOIS (SEE CAYUGA/SENECA) | Cayuga Nation of New York, Anita Thompson, Child Welfare Worker, P.O. Box 11, Versailles, New York 14168, phone: (716) 337-4270, Eastern Region.
IROQUOIS (SEE ONEIDA) | Oneida Indian Nation, Member Benefits, 577 Main Street, Oneida, New York 13421, phone: (315) 829-8335, Eastern Region.
IROQUOIS (SEE ONONDAGA) | Onondaga Nation, Council of Chiefs, P.O. Box 85, Nedrow, New York 13120, phone: (315) 469-1875, Eastern Region.
IROQUOIS (SEE MOHAWK) | Saint Regis Band of Mohawk Indians, Rhonda Mitchell, ICWA Program Coordinator, 412 State, Route 37, Akwesasne, New York 13655, phone: (518) 358-4516, Eastern Region.
IROQUOIS (SEE SENECA) | Seneca Nation of Indians, Tracy Pacini, Program Coordinator, Child and Family Services, P.O. Box 500, Salamanca, New York 14799, phone: (716) 945-5894 Ext: 3233, Eastern Region.
IROQUOIS (SEE SENECA/TONAWANDA) | Tonawanda Band of Seneca, Council of Chiefs, 7027 Meadville Road, Basom, New York 14013, phone: (716) 542-4244, Eastern Region.
IROQUOIS (SEE TUSCARORA) | Tuscarora Nation of New York, Supervisor, Community Health Worker, 2015 Mount Hope Road, Lewistown, New York 14092, phone: (716) 297-0598, Eastern Region.
KALISPEL | Kalispel Tribe of Indians, Sandra Kubu, ICWA Coordinator, P.O. Box 327, USK, Washington 99180, phone: (509) 445-1762/(509) 445-1682, Northwest Region.
KARUK (SEE TOLOWA/YUROK) | Elk Valley Rancheria, Chairperson, 2332 Howland Hill Road, Crescent City, California 95531, phone: (707) 464-4680, Pacific Region.
KARUK | Karuk Tribe of California, Director, Social Services, ICWA Social Worker, 1519 S. Oregon Street, Yreka, California 96097, phone: (530) 493-1600, Pacific Region.
KARUK (SEE SHASTA) | Quartz Valley Indian Reservation, ICWA Director, 13601 Quartz Valley Road, Fort Jones, California 96032, phone: (530) 468-5729, Pacific Region.
KARUK | Karuk Tribe of California, Director, Social Services, ICWA Social Worker, 1519 S. Oregon Street, Yreka, California 96097, phone: (530) 493-1600, Pacific Region.
KASHIA (SEE POMO) | Stewards Point Rancheria, Lorraine Laiwa, Indian Child & Family Preservation Program, 684 S. Orchard Avenue, Ukiah, California 95482, phone: (707) 463-2644, Pacific Region.
KAW | Kaw Nation, Chairperson, Drawer 50, Kaw City, Oklahoma 74641, phone: (580) 269-2552, Southern Plains Region.
KASHIA (SEE POMO) | Stewards Point Rancheria, Lorraine Laiwa, Indian Child & Family Preservation Program, 684 S. Orchard Avenue, Ukiah, California 95482, phone: (707) 463-2644, Pacific Region.
KAW | Kaw Nation, Chairperson, Drawer 50, Kaw City, Oklahoma 74641, phone: (580) 269-2552, Southern Plains Region.
KEWEENAW (SEE CHIPPEWA) | Keweenaw Bay Indian Community of the L'Anse Reservation of Michigan, Judy Heath, Tribal Social Service Director/ICWA Worker, 107 Beartown Road, Baraga, Michigan 49908, phone: (906) 353-6623 Ext: 4201, Midwest Region.
KICKAPOO | Kickapoo Tribe of Indians of Kansas, Chairperson, P.O. Box 271, Horton, Kansas 66439, phone: (785) 486-2131, Southern Plains Region.
KICKAPOO | Kickapoo Tribe of Oklahoma, Chairperson, P.O. Box 70, McLoud, Oklahoma 74851, phone: (405) 964-2075, Southern Plains Region.
LUISENO | Soboba Band of Luiseno Indians, Tribal Social Worker, Soboba Social Services Department, P.O. Box 487, San Jacinto, California 92581, phone: (707) 463-2644, Pacific Region.
LUISENO (SEE CHEMEHUEVI/MISSION) | Twenty-Nine Palms Band of Mission Indians, Executive Director, Indian Child & Family Services, P.O. Box 2269, Temecula, California 92590, phone: (951) 676-8832, Pacific Region.
LUMMI | Lummi Tribe of the Lummi Reservation, Kim Goes Behind, ICWA Contact, 1790 Bayon Road, Bellingham, Washington 98225, phone: (360) 738-0848, Northwest Region.
MAIDU | Berry Creek Rancheria, ICWA Director, 5 Tyme Way, Oroville, California 95966, phone: (530) 534-3859, Pacific Region.
MAIDU (SEE MIWOK) | Enterprise Rancheria, Chairperson, 3690 Olive Highway, Oroville, California 95966, phone: (530) 532-9214, Pacific Region.
MAIDU | Greenville Rancheria, ICWA Coordinator, Greenville Health Clinic, P.O. Box 279, Greenville, California 95947, phone: (530) 284-7990, Pacific Region.
MAIDU (SEE MECHOOPDA) | Mechoopda Indian Tribe of the Chico Reservation, Chairperson, 125 Mission Ranch Boulevard, Chico, California 95926, phone: (530) 899-8922, Pacific Region.
MAIDU | Mooretown Rancheria, Francine McKinley, ICWA Coordinator, 1 Alverda Drive, Oroville, California 95966, phone: (530) 533-3625, Pacific Region.
MAIDU (SEE PAIUTE/PIT RIVER) | Susanville Indian Rancheria, Chairperson, ICWA Director, 745 Joquin Street, Susanville, California 96130, phone: (530) 251-5205, Pacific Region.
MAIDU (SEE MIWOK) | Auburn Rancheria, Chairperson, United Auburn Indian Community, 10720 Indian Hill Road, Auburn, California 95603, phone: (916) 663-3720, Pacific Region.
MAKAH | Makah Indian Tribal Council, Vickie Carlson, ICWA Caseworker, Makah Family Services, P.O. Box 115, Neah Bay, Washington 98357-0115, phone: (360) 645-3257, Northwest Region.
MALISEET | Houlton Band of Maliseet Indians, Betsy Tannian, Director, ICWA Program, 13-2 Clover Court, Hourton, Maine 04730, phone: (207) 532-7260, Eastern Region.
MANDAN (SEE ARIKARA/THREE AFFILIATED) TRIBES/HIDATSA | Three Affiliated Tribes, Katherine Felix, ICWA Representative, Three Affiliated Tribes, 404 Frontage Road, New Town, North Dakota 58763, phone: (701) 627-4781, Great Plains Region.
MARICOPA (SEE PIMA) | Gila River Pima-Maricopa Indian Community, Attention: Tribal Social Service Director, P.O. Box 97, Sacaton, Arizona 85247, phone: (520) 562-3711 Ext: 233, Western Region.
MARICOPA (SEE PIMA) | Salt River Pima-Maricopa Indian Community, Office of the General Counsel/Social Services Division, Child Protective Services, 10,005 East Osborn Road, Scottsdale, Arizona 85256, phone: (480) 850-4130, Western Region.
MECHOOPDA (SEE MAIDU) | Mechoopda Indian Tribe of the Chico Reservation, Chairperson, 125 Mission Ranch Boulevard, Chico, California 95926, phone: (530) 899-8922, Pacific Region.
MENOMINEE | Menominee Indian Tribe of Wisconsin, Mary Husby, Social Services Director, P.O. Box 910, Keshena, Wisconsin 54135, phone: (715) 799-5100, Midwest Region.
ME-WUK (SEE MIWOK) | Auburn Rancheria, Chairperson, United Auburn Indian Community, 10720 Indian Hill Road, Auburn, California 95603, phone: (916) 663-3720, Pacific Region.
ME-WUK (SEE MIWOK/POMO) | Buena Vista Rancheria of Me-Wuik Indians, Penny Arciniaga, P.O. Box 162283, Sacramento, California 95816, phone: (916) 491-0011, Pacific Region.
ME-WUK (SEE MIWOK) | California Valley Miwok Tribe, Rashel Reznor, ICWA Director, 10601 Escondido Place, Stockton, California 95212, phone: (209) 931-4567, Pacific Region.
ME-WUK (SEE MIWOK) | Chicken Ranch Rancheria, Chairperson, P.O. Box 1159, Jamestown, California 95327, phone: (209) 984-4806, Pacific Region.
ME-WUK (SEE MIWOK) | Enterprise Rancheria, Chairperson, 3690 Olive Highway, Oroville, California 95966, phone: (530) 532-9214, Pacific Region.
ME-WUK (SEE MIWOK/POMO) | Graton Rancheria, Michele Proter, ICWA Coordinator, 6400 Redwood Drive, Suite 300, Rohnert Park, California 94928, phone: (707) 566-2288 Ext: 115, Pacific Region.
ME-WUK (SEE MIWOK) | Ione Band of Miwok Indians, Tribal Administrator, P.O. Box 1190, Ione, California 95640, phone: (209) 274-6753, Pacific Region.
ME-WUK (SEE MIWOK) | Jackson Rancheria, ICWA Manager, P.O. Box 1090, Jackson, California 95642, phone: (209) 223-1935, Pacific Region.
ME-WUK (SEE MIWOK) | Shingle Springs Rancheria, ICWA Coordinator, P.O. Box 1340, Shingle Springs, California 95682, phone: (530) 698-1400, Pacific Region.
ME-WUK (SEE MIWOK) | Trinidad Rancheria, Chairperson, P.O. Box 630, Trinidad, California 95570, phone: (707) 677-0211, Pacific Region.
ME-WUK (SEE MIWOK) | Tuolumne Rancheria, ICWA Coordinator, P.O. Box 615, Tuolumne, California 95379, phone: (209) 928-3475, Pacific Region.
MIAMI | Miami Tribe of Oklahoma, Chief, P.O. Box 1326, Miami, Oklahoma 74355, phone: (918) 542-1445, Eastern Oklahoma Region.
MICCOSUKEE | Miccosukee Tribe of Indians of Florida, J. Degaglia, Social Service Program, P.O. Box 440021, Miami, Florida 33144, phone: (305) 223-8380 Ext: 2267, Eastern Region.
MICMAC | Aroostook Band of Micmac Indians, Ms. Sarah Dewitt, Social Services Director, 7 Northern Road, Presque Isle, Maine 04769, phone: (207) 764-1972, Eastern Region.
MISSION (SEE CAHUILLA) | Augustine Band of Cahuilla Indians, Chairperson, P.O. Box 846, Coachella, California 92236, phone: (760) 398-4722, Pacific Region.
MISSION (SEE DIEGUENO) | Barona Band of Mission Indians, Program Director, Kumeyaay Family Services, Southern Indian Health Council, Inc., 4058 Willow Road, Alpine California 91903, phone: (619) 445-1188, Pacific Region.
MISSION (SEE CAHUILLA) | Cabazon Band of Mission Indians, Chairman, 84-245 Indio Springs Drive, Indio, California 92201, phone: (760) 342-2593, Pacific Region.
MISSION (SEE CAHUILLA) | Cahuilla Band of Mission Indians, Executive Director, Indian Child & Family Services, P.O. Box 2269, Temecula, California 92590, phone: (951) 676-8832, Pacific Region.
MISSION (SEE DIEGUENO) | Campo Band of Mission Indians, Program Director, Kumeyaay Family Services, Southern Indian Health Council, Inc., 4058 Willow Road, Alpine California 91903, phone: (619) 445-1188, Pacific Region.
MISSION (SEE DIEGUENO) | Inaja & Cosmit Band of Mission Indians, Tribal Family Services, Manager, Indian Health Services, Inc., P.O. Box 406, Pauma Valley, California 92061, phone: (706) 749-1410, Pacific Region.
MISSION (SEE DIEGUENO) | La Posta Band of Mission Indians, Program Director, Kumeyaay Family Services, Southern Indian Health Council, Inc., 4058 Willow Road, Alpine California 91903, phone: (619) 445-1188, Pacific Region.
MISSION, (SEE CAHUILLA/CUPENO) | Los Coyotes Band of Cahuilla &, Cupeno Indians, Tribal Family Services, Manager, Indian Health Council, Inc., P.O. Box 406, Pauma Valley, California 92061, phone: (760) 749-1410, Pacific Region.
MISSION (SEE DIEGUENO) | Manzanita Band of Mission Indians, Chairperson, P.O. Box 1302, Boulevard, California 91905, phone: (619) 766-4930, Pacific Region.
MISSION (SEE DIEGUENO) | Mesa Grande Band of Mission Indians, Tribal Family Services, Manager, Indian Health Services, Inc., P.O. Box 406, Pauma Valley, California 92061, phone: (706) 749-1410, Pacific Region.
MISSION (SEE CAHUILLA) | Morongo Band of Cahuilla Mission Indians, Maurice Lyons, Chairman, 11581 Potrero Road, Banning, California 92220, phone: (951) 849-4697, Pacific Region.
MISSION (SEE LUISENO) | Pala Band of Mission Indians, Maria Garcia, ICWA Manager, Department of Social Services, 35008 Pala-Temecula Road, PMB 50, Pala, California 92059, phone: (760) 891-3542, Pacific Region.
MISSION (SEE LUISENO) | Pauma & Yuima Band of Mission Indians, Tribal Family Services, Manager, Indian Health Council, Inc., P.O. Box 406, Pauma Valley, California 92061, phone: (760) 749-1410, Pacific Region.
MISSION (SEE LUISENO) | Pechanga Band of Mission Indians, Mark Macarro, Spokesman, P.O. Box 1477, Temecula, California 92593, phone: (951) 676-2768, Pacific Region.
MISSION (SEE CAHUILLA) | Ramona Band or Village of Cahuilla Mission Indians, ICWA Coordinator, P.O. Box 391372, Anza, California 92539, Pacific Region.
MISSION (SEE DIEGUENO) | Rincon Band of Mission Indians, Tribal Family Services, Manager, Indian Health Services, Inc., P.O. Box 406, Pauma Valley, California 92061, phone: (706) 749-1410, Pacific Region.
MISSION (SEE CAHUILLA) | Santa Rosa Band of Cahuilla Mission Indians, ICWA Representative, P.O. Box 609, Hemet, California 92546, phone: (951) 658-5311, Pacific Region.
MISSION (SEE CHIMASH) | Santa Ynez Band of Mission Indians, Caren Romero, Jess Montoya, ICWA Representative, Executive Director, P.O. Box 539, Santa Ynez, California 93460, phone: (805) 688-7070, Pacific Region.
MISSION (SEE DIEGUENO) | Santa Ysabel Band of Mission Indians, Linda Ruis, Director, Santa Ysabel Social Services Department, P.O. Box 701, Santa Ysabel, California 92070, phone: (760) 765-1106, Pacific Region.
MISSION (SEE DIEGUENO) | Sycuan Band of Mission Indians, Program Director, Kumeyaay Family Services, Southern Indian Health Council, Inc., 4058 Willow Road, Alpine California 91903, phone: (619) 445-1188, Pacific Region.
MISSION (SEE CHEMEHUEVI/LUISENO) | Twenty-Nine Palms Band of Mission Indians, Executive Director, Indian Child & Family Services, P.O. Box 2269, Temecula, California 92590, phone: (951) 676-8832, Pacific Region.
MISSION (SEE DIEGUENO) | Veijas (Baron Long) Band of Mission Indian, Program Director, Kumeyaay Family Services, Southern Indian Health Council, Inc., 4058 Willow Road, Alpine California 91903, phone: (619) 445-1188, Pacific Region.
MIWOK (SEE ME-WOK) | Auburn Rancheria, Chairperson, United Auburn Indian Community, 10720 Indian Hill Road, Auburn, California 95603, phone: (916) 663-3720, Pacific Region.
MIWOK (SEE ME-WOK) | Buena Vista Rancheria of Me-Wuik Indians, Penny Arciniaga, P.O. Box 162283, Sacramento, California 95816, phone: (916) 491-0011, Pacific Region.
MIWOK (SEE ME-WOK) | California Valley Miwok Tribe, Rashel Reznor, ICWA Director, 10601 Escondido Place, Stockton, California 95212, phone: (209) 931-4567, Pacific Region.
MIWOK (SEE ME-WOK) | Chicken Ranch Rancheria, Chairperson, P.O. Box 1159, Jamestown, California 95327, phone: (209) 984-4806, Pacific Region.
MIWOK (SEE ME-WOK) | Enterprise Rancheria, Chairperson, 3690 Olive Highway, Oroville, California 95966, phone: (530) 532-9214, Pacific Region.
MIWOK (SEE ME-WOK) | Graton Rancheria, Michele Proter, ICWA Coordinator, 6400 Redwood Drive, Suite 300, Rohnert Park, California 94928, phone: (707) 566-2288 Ext: 115, Pacific Region.
MIWOK (SEE ME-WOK) | Ione Band of Miwok Indians, Tribal Administrator, P.O. Box 1190, Ione, California 95640, phone: (209) 274-6753, Pacific Region.
MIWOK (SEE ME-WOK) | Jackson Rancheria, ICWA Manager, P.O. Box 1090, Jackson, California 95642, phone: (209) 223-1935, Pacific Region.
MIWOK (SEE ME-WOK) | Shingle Springs Rancheria, ICWA Coordinator, P.O. Box 1340, Shingle Springs, California 95682, phone: (530) 698-1400, Pacific Region.
MIWOK (SEE ME-WOK/TOLOWA/YUROK) | Trinidad Rancheria, Chairperson, P.O. Box 630, Trinidad, California 95570, phone: (707) 677-0211, Pacific Region.
MIWOK (SEE ME-WOK) | Tuolumne Rancheria, ICWA Coordinator, P.O. Box 615, Tuolumne, California 95379, phone: (209) 928-3475, Pacific Region.
MODOC (SEE KLAMATH/YAHOOSKIN) | Klamath Tribe, Morris Blakey, ICWA Specialist, P.O. Box 436, Chiloquin, Oregon 97624, phone: (541) 783-2219, Northwest Region.
MODOC (SEE KLAMATH) | Modoc Tribe of Oklahoma, Bill Gene Follis, Chief, 515 G Southeast, Miami, Oklahoma 74354, phone: (918) 542-1190, Eastern Oklahoma Region.
MOHAWK (SEE IROQUOIS) | Saint Regis Band of Mohawk Indians, Rhonda Mitchell, ICWA Program Coordinator, 412 State, Route 37, Akwesasne, New York 13655, phone: (518) 358-4516, Eastern Region.
MOHEGAN | Mohegan Indian Tribe, Irene Miller, APRN, Director, Family Services, 5 Crow Hill Road, Uncasville, Connecticut 06382, phone: (860) 862-6236, Eastern Region.
MOHICAN (SEE MUNSEE) | Stockbridge-Munsee Community of Wisconsin, Natalie Young, ICWA Coordinator, N8476 M He Con Nuck Road, Bowler, Wisconsin 54416, phone: (715) 793-4580, Midwest Region.
MOJAVE (SEE CHEMEHUEVI/HOPI/COLORADO RIVER/NAVAJO) | Colorado River Indian Tribes, Daniel Eddy, Jr., Chairman, Route 1, Box 23-B, Parker, Arizona 85344, phone: (928) 669-9211, Western Region.
MOJAVE | Fort Mojave Indian Tribe, Attention: Social Services Director, 500 Merriman Avenue, Needles, California 92363, phone: (760) 629-3745, Western Region.
MONO | Big Sandy Rancheria, ICWA Worker, P.O. Box 337, Auberry, California 93602, phone: (559) 855-4003, Pacific Region.
MONO | Cold Spring Rancheria, ICWA Coordinator, P.O. Box 209, Tollhouse, California 93667, phone: (559) 855-5043, Pacific Region.
MONO | North Fork Rancheria, Tribal Chair, Elaine Fink, ICWA Department, P.O. Box 929, North Fork, California 93643, phone: (559) 877-2461, Pacific Region.
MONO (SEE YOKUT) | Tule River Reservation, ICWA Director, P.O. Box 589, Porterville, California 93258, phone: (559) 781-4271, Pacific Region.
MUCKLESHOOT | Muckleshoot Indian Tribe, Sharon Hamilton, ICWA Specialist, 39015 172nd Avenue, SE, Auburn, Washington 98092, phone: (253) 939-3311, Northwest Region.
MUNSEE (SEE MOHICAN) | Stockbridge-Munsee Community of Wisconsin, Natalie Young, ICWA Coordinator, N8476 M He Con Nuck Road, Bowler, Wisconsin 54416, phone: (715) 793-4580, Midwest Region.
NARRAGANSETT | Narragansett Indian Tribe, Wenoah Harris, Director, Child Advocate, Tribal Child and Family Services, 4375-B South County Trail, Charlestown, Rhode Island 02813, phone: (401) 491-9008, Eastern Region.
NAVAJO (SEE CHEMEHUEVI/HOPI/COLORADO RIVER/MOJAVE) | Colorado River Indian Tribes, Daniel Eddy, Jr., Chairman, Route 1, Box 23-B, Parker, Arizona 85344, phone: (928) 669-9211, Western Region.
NAVAJO | Navajo Nation, Rita Wilson, Acting Director, Navajo Children and Family Services (ICWA), P.O. Box 1930, Window Rock, Arizona 86515, phone: (928) 871-6832, Navajo Region.
NEZ PERCE | Nez Perce Tribe, Melissa Groseclose, ICWA Caseworker, P.O. Box 365, Lapwai, Idaho 83540, phone: (208) 843-2463, Northwest Region.
NISQUALLY | Nisqually Indian Community, Jim Phonias, ICWA Contact, 4820 She-Nah-Num Drive, SE, Olympia, Washington 98513, phone: (360) 456-5221, Northwest Region.
NOMLAKI (SEE WINTUN) | Cortina Rancheria, Chairperson, Elaine Patterson, P.O. Box 1630, Williams, California 95987, phone: (530) 473-3274, Pacific Region.
NOMLAKI (SEE WINTUN) | Paskenta Band of Nomlaki Indians, Ines Crosby, ICWA Coordinator, P.O. Box 398, Orland, California 95963, phone: (530) 865-2010, Pacific Region.
NOMLAKI (SEE PIT RIVER/POMO/WINTUN/WAILAKI/YUKI | Round Valley Reservation, Valerie Britton, ICWA Coordinator, P.O. Box 448, Covelo, California 95428, phone: (707) 983-8008, Pacific Region.
NOOKSACK | Nooksack Indian Tribe of Washington, Nooksack Indian Tribe Legal Department, P.O. Box 1575048, Mount Baker Highway, Deming, Washington 98244, phone: (360) 592-5176, Northwest Region.
ODAWA | Little Traverse Band of Odawa Indians, Inc., Gene Zeller ¹, Bill Memberto ², Prosecutor ¹, Director, Family Services ², 375 River Street, Manistee, Michigan 49660, phone: (213) 398-2242 ¹, (231) 398-6728 ², Midwest Region.
OJIBWE (SEE CHIPPEWA) | Bad River Band of the Lake Superior Tribe of Chippewa Indians, Catherine Blanchard, ICWA Coordinator, P.O. Box 55, Odanah, Wisconsin 54861, phone: (715) 682-7135, Midwest Region.
OJIBWE (SEE CHIPPEWA) | Leech Lake Band of Ojibwe, Rose Robinson, ICWA Coordinator, 115 Sixth Street NW, Suite E, Cass Lake, Minnesota 56633, phone: (218) 335-8270, Midwest Region.
OJIBWE (SEE CHIPPEWA) | Mille Lacs Reservation Business Committee, ICWA Coordinator, 43408 Oodana Drive, Onamia, Minnesota 56359, phone: (320) 532-4139, Midwest Region.
OJIBWE (SEE CHIPPEWA) | St. Croix Chippewa Indians of Wisconsin, Kathryn LaPointe, ICWA Director, 24663 Angeline Avenue, Webster, Wisconsin 54893, phone: (715) 349-2195, Midwest Region.
OMAHA | Omaha Tribe of Nebraska, Lois Harlan, ICWA Director, P.O. Box 369, Macy, Nebraska 68039, phone: (402) 837-5261, Great Plains Region.
ONEIDA | Oneida Tribe of Indians of Wisconsin, ICWA Program, P.O. Box 365, Oneida, Wisconsin 54155, phone: (920) 490-3700, Midwest Region.
ONEIDA (SEE IROQUOIS) | Oneida Indian Nation, Member Benefits, 577 Main Street, Oneida, New York 13421, phone: (315) 829-8335, Eastern Region.
ONEIDA (SEE IROQUOIS) | Onondaga Nation, Council of Chiefs, P.O. Box 85, Nedrow, New York 13120, phone: (315) 469-1875, Eastern Region.
OSAGE | Osage Tribe, Jim Roan Gray, Principal Chief, P.O. Box 779, Pawhuska, Oklahoma 74056, phone: (918) 287-5432, Eastern Oklahoma Region.
OTOE | Otoe-Missouria Indian Tribe of Oklahoma, Chairperson, 8151 Highway 177, Red Rock, Oklahoma 74651, phone: (580) 723-4466, Southern Plains Region.
OTTAWA (SEE CHIPPEWA/PESHAWBESTOWN) | Grand Traverse Band of Ottawa and Chippewa Indians, Ms. Sonya Zotigh, Tribal Manager, 2605 N. West Bayshore Drive, Peshawbestown, Michigan 49682, phone: (231) 534-7136, Midwest Region.
OTTAWA | Little River Band of Ottawa Indians, Inc., Gene Zeller/Bill Memberto, Prosecutor/Director, Family Services, 375 River Street, Manistee, Michigan 49660, phone: (213) 398-2242/(231) 398-6728, Midwest Region.
OTTAWA | Ottawa Tribe of Oklahoma, Charles Todd, Chief, P.O. Box 110, Miami, Oklahoma 74355, phone: (918) 540-1536, Eastern Oklahoma Region.
PAIUTE (SEE SHOSHONE) | Big Pine Paiute Tribe, Chairperson, P.O. Box 700, Big Pine, California 93513, phone: (760) 938-2003, Pacific Region.
PAIUTE (SEE SHOSHONE) | Bishop Reservation, Attention: Michelle Cozad, 52 Tu Su Lane, Bishop, California 93514, phone: (760) 873-3584, Pacific Region.
PAIUTE | Bridgeport Indian Colony, Chairperson, P.O. Box 37, Bridgeport, California 93517, phone: (760) 932-7083, Pacific Region.
PAIUTE | Burns Paiute Tribe, Phyllis Harrington, ICWA Contact, H.C. 71—100 Pasigo Street, Burns, Oregon 97720, phone: (541) 573-7312, Northwest Region.
PAIUTE | Cedarville Rancheria, Chairperson, ICWA Director, 200 S. Howard Street, Alturas, California 96101, phone: (530) 223-3969, Pacific Region.
PAIUTE (SEE WARM SPRINGS/WASCO/WASHOE) | Confederated Tribes of Warm Springs Reservation, Warms Springs Tribal Court, Chief Judge Lola Sohappy, ICWA Contact, P.O. Box 850, Warm Springs, Oregon 97761, Northwest Region.
PAIUTE (SEE SHOSHONE) | Fallon Paiute Shoshone Business Council, Youth & Family Services, 565 Rio Vista Drive, Fallon, Nevada 89406, phone: (775) 423-1215, Western Region.
PAIUTE | Fort Bidwell Reservation, Chairperson, P.O. Box 129, Fort Bidwell, California 96112, phone: (530) 279-6310, Pacific Region.
PAIUTE | Fort Independence Reservation, Secretary-Treasurer, P.O. Box 67, Independence, California 93526, phone: (760) 878-2150, Pacific Region.
PAIUTE (SEE SHOSHONE) | Fort McDermitt Paiute-Shoshone Tribe, Ms. Karen M. Crutcher, Chairperson, P.O. Box 457, McDermitt, Nevada 89421, phone: (775) 532-8259, Western Region.
PAIUTE | Kaibab Band of Paiute Indians, Director, Social Services Program, HC 65- Box 2, Pipe Spring, Arizona 86022, phone: (928) 643-6010, Western Region.
PAIUTE | Las Vegas Paiute Tribe, ICWA Director, One Paiute Drive, Las Vegas, Nevada 89106, phone: (702) 382-0784, Western Region.
PAIUTE (SEE SHOSHONE) | Lone Pine Paiute Shoshone Reservation, Chairperson, P.O. Box 747, Lone Pine, California 96545, phone: (760) 876-1034, Pacific Region.
PAIUTE | Lovelock Paiute Tribal Council, Attention: Indian Child Welfare Coordinator, P.O. Box 878, Lovelock, Nevada 89419, phone: (775) 273-7861, Western Region.
PAIUTE | Moapa Band of Paiutes, Chairman, P.O. Box 340, Moapa, Nevada 89025, phone: (702) 865-2787, Western Region.
PAIUTE | Paiute Indian Tribe of Utah, Attendtion: ICWA Caseworker, 440 North Paiute Drive, Cedar City, Utah 84720, phone: (435) 586-1112, Western Region.
PAIUTE | Pyramid Lake Paiute Tribe, Chairperson, P.O. Box 256, Nixon, Nevada 89424, phone: (775) 574-1000, Western Region.
PAIUTE (SEE SHOSHONE/WASHOE) | Reno-Sparks Indian Colony, Attention: Director of Social Services, 98 Colony Road, Reno, Nevada 89502, phone: (775) 329-5071, Western Region.
PAIUTE | San Juan Southern Paiute Tribe, Tribal Enrollment Officer, Health and Human Services, P.O. Box 1169, Tuba City, Arizona 86045, phone: (928) 283-4587, Western Region.
PAIUTE (SEE SHOSHONE) | Shoshone-Paiute Tribes of the Duck Valley Reservation, Chairman, P.O. Box 219, Owyhee, Nevada 89832, phone: (208) 759-3100, Western Region.
PAIUTE | Summit Lake Paiute Tribe, Attention: Tribal Chairperson, 653 Anderson Street, Winnemucca, Nevada 89445, (775) 623-5151, Western Region.
PAIUTE (SEE MAIDU/PIT RIVER) | Susanville Indian Rancheria, Chairperson, ICWA Director, 745 Joquin Street, Susanville, California 96130, phone: (530) 251-5205, Pacific Region.
PAIUTE (SEE SHOSHONE) | Timbi-sha Shoshone Tribe, ICWA Representative, 785 North Main Street, Suite Q, Bishop, California 93514, phone: (760) 873-9003, Pacific Region.
PAIUTE | Utu Utu Gwaitu Paiute Tribe of the Benton Reservation, Tribal Administrator, 567 Yellow Jacket Road, Benton, California 93512, phone: (760) 933-2321, Pacific Region.
PAIUTE | Walker River Paiute Tribe, ICWA Specialist, P.O. Box 146, Schurz, Nevada 89427, phone: (775) 773-2058/2541, Western Region.
PAIUTE (SEE SHOSHONE) | Winnemucca Tribe, Chairman, P.O. Box 1370, Winnemucca, Nevada 89446, Western Region.
PAPAGO | Ak-Chin Indian Community, Enrollment Specialist, 42507 West Peters & Nall Road, Maricopa, Arizona 85239, phone: (520) 568-1023, Western Region.
PAPAGO (SEE TOHONO O'ODHAM) | Tohono O'Odham Nation, Office of Attorney General, P.O. Box 830, Sells, Arizona 85634, phone: (520) 383-3410, Western Region.
PASSAMAQUODDY | Passamaquaddy Tribe of Maine-Indian Township Reservation, Anne Bergin, Child Welfare Coordinator, P.O. Box 97, Princeton, Maine 04668, phone: (207) 796-2311, Eastern Region.
PASSAMAQUODDY | Passamaquaddy Tribe of Maine-Pleasant Point Reservation, Molly Newell, Child Welfare Director, P.O. Box 343, Perry, Maine 04667, phone: (207) 853-2600, Eastern Region.
PAWNEE | Pawnee Tribe of Oklahoma, President, P.O. Box 470, Pawnee, Oklahoma 74058, phone: (918) 762-3621, Southern Plains Region.
PENOBSCOT | Penobscot Indian Nation of Maine, Janet Lola, Protective Services Specialist, Department of Human Services, 9 Sarah's Spring Road, Indian Island, Maine 04468, phone: (207) 817-7492 Ext: 7492, Eastern Region.
PEORIA | Peoria Tribe of Indians of Oklahoma, John Berrey, Chairperson, P.O. Box 765, Quapaw, Oklahoma 74363, phone: (918) 542-1853, Eastern Oklahoma Region.
PEQUOT | Mashantucket Pequot Tribal Nation, Valerie Burgess, Child Protective Services, P.O. Box 3313, Mashantucket, Connecticut 06338, phone: (860) 396-2007, Eastern Region.
PESHAWBESTOWN (SEE CHIPPEWA/OTTAWA) | Grand Traverse Band of Ottawa and Chippewa Indians, Ms. Sonya Zotigh, Tribal Manager, 2605 N. West Bayshore Drive, Peshawbestown, Michigan 49682, phone: (231) 534-7136, Midwest Region.
PIMA (SEE MARICOPA) | Gila River Pima-Maricopa Indian Community, Attention: Tribal Social Service Director, P.O. Box 97, Sacaton, Arizona 85247, phone: (520) 562-3711 Ext: 233, Western Region.
PIMA (SEE MARICOPA) | Salt River Pima-Maricopa Indian Community, Office of the General Counsel or Social Services Division, Child Protective Services, 10,005 East Osborn Road, Scottsdale, Arizona 85256, phone: (480) 850-4130, Western Region.
PIT RIVER | Alturas Rancheria, Chairman, P.O. Box 340, Alturas, California 96101, phone: (530) 233-5571, Pacific Region.
PIT RIVER | Pit River Reservation, ICWA Director, 37718 Main Street, Burney, California 96013, phone: (530) 335-5421/(866) 335-5530, Pacific Region.
PIT RIVER (SEE WINTUN/YANA) | Redding Rancheria, Director, Social Services, 2000 Rancheria Road, Redding, California 96001-5528, phone: (530) 225-8979, Pacific Region.
PIT RIVER (SEE NOMLAKI/POMO/WAILAKI, WINTUN/YUKI) | Round Valley Reservation, Valerie Britton, ICWA Coordinator, P.O. Box 448, Covelo, California 95428, phone: (707) 983-8008, Pacific Region.
PIT RIVER (SEE MAIDU/PAIUTE) | Susanville Indian Rancheria, Chairperson, ICWA Director, 745 Joquin Street, Susanville, California 96130, phone: (530) 251-5205, Pacific Region.
POMO | Big Valley Band of Pomo Indians, Cynthia Jefferson, ICWA Coordinator, 2726 Mission Rancheria Road, Lakeport, California 95453, phone: (707) 263-3924, Pacific Region.
POMO | Cloverdale Rancheria, Marcellena Becerra, ICWA Coordinator, 55 S. Cloverdale Blvd., Suite A, Cloverdale, California 95425, phone: (707) 894-5775, Pacific Region.
POMO | Coyote Valley Band of Pomo Indians, Lorraine Laiwa, ICWA Coordinator, Indian Child & Family Preservation Program, 684 S. Orchard Avenue, Ukiah, California 95482, Pacific Region.
POMO | Dry Creek Rancheria, Support Services Department, Percy Tejada, P.O. Box 607, Geyserville, California 95441, phone: (707) 473-2144, Pacific Region.
POMO | Elem Indian Colony, ICWA Advocate, P.O. Box 757, Clearlake Oaks, California 95423, phone: (707) 998-3003, Pacific Region.
POMO (SEE ME-WUK/MIWOK) | Graton Rancheria, Michele Proter, ICWA Coordinator, 6400 Redwood Drive, Suite 300, Rohnert Park, California 94928, phone: (707) 566-2288 Ext: 115, Pacific Region.
POMO | Guidiville Rancheria, Chairperson, P.O. Box 339, Talmage, California 95481, phone: (707) 462-3682, Pacific Region.
POMO | Habematolel Pomo of Upper Lake Rancheria, Angelina Arroyo, ICWA Advocate, P.O. Box 516, Upper lake, California 95485, phone: (707) 275-0737, Pacific Region.
POMO | Hopland Reservation, Attention: Tribal Chair, 3000 Shanel Road, Hopland, California 95449, phone: (707) 744-1647 Ext: 1105, Pacific Region.
POMO | Laytonville Rancheria, ICWA Director, P.O. Box 1239, Laytonville, California 95454, phone: (707) 984-6197, Pacific Region.
POMO | Lower Lake Rancheria, Chairperson, P.O. Box 3162, Santa Rosa, California 95402, phone: (707) 575-5586, Pacific Region.
POMO | Lytton Rancheria, Margie Mejia, Chairwoman, 1300 N. Dutton Avenue, Suite A, Santa Rosa, California 95401-3515, phone: (707) 575-5917, Pacific Region.
POMO | Machester-Point Arena Rancheria, Christine Dukatz and Lisa Bechtol, P.O. Box 623, Point Arena, California 95468, phone: (707) 882-2788, Pacific Region.
POMO | Middletown Rancheria, ICWA Director, P.O. Box 1829, Middletown, California 65461, phone: (707) 987-8288, Pacific Region.
POMO | Pinoleville Reservation, Chairperson, 500B Pinoleville Drive, Ukiah, California 95482, phone: (707) 463-1454, Pacific Region.
POMO | Potter Valley Rancheria, Lorrain Laiwa, ICWA Coordinator, Indian Child & Family Preservation Program, 684 S. Orchard Avenue, Ukiah, California 95482, phone: (707) 463-2644, Pacific Region.
POMO | Redwood Valley Rancheria, Mary Nevarez, ICWA Coordinator, 3250 Road I, Redwood Valley, California 95470, phone: (707) 485-0361, Pacific Region.
POMO | Robinson Rancheria, Marsha Lee, ICWA Coordinator, P.O. Box 562, Nice, California 95464, phone: (707) 275-9363, Pacific Region.
POMO (SEE NOMLAKI/PIT RIVER/WAILAKI/WINTUN/YUKI) | Round Valley Reservation, Valerie Britton, ICWA Coordinator, P.O. Box 448, Covelo, California 95428, phone: (707) 983-8008, Pacific Region.
POMO (SEE WAILAKI) | Scotts Valley Rancheria, Sharon Warner, ICWA Coordinator, 301 Industrial Avenue, Lakeport, California 95453, phone: (707) 263-4220, Pacific Region.
POMO (SEE WAILAKI) | Sherwood Valley Rancheria, Lorraine Laiwa, ICWA Coordinator, Indian Child & Family Preservation Program, 684 S. Orchard Avenue, Ukiah, California 95482, phone: (707) 463-2644, Pacific Region.
POMO (SEE KASHIA) | Stewards Point Rancheria, Lorraine Laiwa, Indian Child & Family Preservation Program, 684 S. Orchard Avenue, Ukiah, California 95482, phone: (707) 463-2644, Pacific Region.
PONCA | Ponca Tribe of Nebraska, Attention: Director, Social Services, Ponca Tribe of Nebraska, 1800 Syracuse Avenue, Norfolk, Nebraska 68701, phone: (402) 371-8834, Great Plains Region.
PONCA | Ponca Tribe of Oklahoma, Chairperson, 20 White Eagle Drive, Ponca City, Oklahoma 74601, phone: (580) 762-8104, Southern Plains Region.
POTAWATOMI | Citizen Potawatomi Nation, Chairperson, 1601 S. Gordon Copper Drive, Shawnee, Oklahoma 74801, phone: (405) 275-3121, Southern Plains Region.
POTAWATOMI | Forest County Potawatomi Community of Wisconsin, Karen Ackley, ICWA Coordinator, P.O. Box 340, Crandon, Wisconsin 54520, phone: (715) 478-7329, Midwest Region.
POTAWATOMI (SEE CHIPPEWA) | Hannahville Indian Community of Michigan, ICWA Worker, N14911 Hannahville B1 Road, Wilson, Michigan 49896-9728, phone: (906) 466-9320, Midwest Region.
POTAWATOMI (SEE CHIPPEWA) | Huron Potawatomi, Inc., Nancy Smit, ICWA Worker (MSW Social Worker), 4415 Byron Center Avenue, SW, Wyoming, Michigan 49509, phone: (616) 249-0159, Midwest Region.
POTAWATOMI | Match-E-Be-Nash-She-Wish Band of Potawatomi Indians of Michigan, Leslie Pigeon, ICWA Coordinator, P.O. Box 306, 1743 142nd Avenue, Suite 8, Dorr, Michigan 49323, phone: (616) 681-0360, Midwest Region.
POTAWATOMI | Pokagon Band of Potawatomi, Kathleen McKee, TSS Director, 58620 Sink Road, Dowagiac, Michigan 49047, phone: (269) 782-4300, Midwest Region.
POTAWATOMI | Prairie Band of Potawatomi Nation, Chairperson, 16281 Q. Road, Mayetta, Kansas 66509, phone: (785) 966-2255, Southern Plains Region.
PUEBLO | Pueblo of Acoma, Jennifer Valdo, Acting ICWA Social Worker, P.O. Box 309, Acoma, New Mexico, phone: (505) 552-5163, Southwest Region.
PUEBLO | Pueblo of Cochito, Joy Bird, ICWA Director, P.O. Box 70, Isleta, New Mexico 87022, phone: (505) 465-2244, Southwest Region.
PUEBLO (SEE TIGUA) | Pueblo of Isleta, Caroline Dailey, Acting ICWA Director, P.O. Box 1270, Isleta, New Mexico 87022, phone: (505) 869- 2772, Southwest Region.
PUEBLO | Pueblo of Jemez, Hernrietta Gachupin, Social Services Program, P.O. Box 340, Jemez, New Mexico 87024, phone: (505) 834-7117, Southwest Region.
PUEBLO | Pueblo of Laguna, Ramona Carrillo, Social Services Director, P.O. Box 194, Laguna, New Mexico 87026, phone: (505) 552-9712, Southwest Region.
PUEBLO | Pueblo of Nambe, Venus Montoya-Felter, ICWA Coordinator, P.O. Box 177-BB, Santa Fe, New Mexico 87506, phone: (505) 455-2036 Ext 112, Southwest Region.
PUEBLO | Pueblo of Picuris, Terrance Snake, ICWA Coordinator, P.O. Box 127, Penasco, New Mexico 87553, phone: (505) 587-1003/2519, Southwest Region.
PUEBLO | Pueblo of Pojoaque, Carmen Chavez-Lujan, Director of Social Services, 58 Cities of Gold Road, Suite 4, Sante Fe, New Mexico 87506, phone: (505) 455-0238, Southwest Region.
PUEBLO | Pueblo of San Felipe, Darlene Valencia, Family Services Program Director, P.O. Box 4350, San Felipe Pueblo, New Mexico 87004, phone: (505) 867-9740, Southwest Regoin
PUEBLO | Pueblo of San Ildelfonso, William Christian, Contracts Administrator, Route 5, P.O. Box 315-A, Santa Fe, New Mexico 87506, phone: (505) 455-2273 Ext 310, Southwest Region.
PUEBLO | Pueblo of San Juan, Chenoa Seaboy, ICWA Coordinator, P.O. Box 1187, San Juan Pueblo, New Mexico 87566, phone: (505) 852-4400, Southwest Region.
PUEBLO | Pueblo of Sandia, Ms. Lupita Avila, ICWA Program, P.O. Box 6008, Bernalillo, New Mexico 87004, phone: (505) 771-5133, Southwest Region.
PUEBLO | Pueblo of Santa Ana, Jane Jacksonbear, Director of Social Services, 2 Dove Road, Bernalillo, New Mexico 87004, phone: (505) 867-3301, Southwest Region.
PUEBLO | Pueblo of Santa Clara, Joe Naranjo, Tribal Administrator, P.O. Box 580, Espanola, New Mexico 87532, phone: (505) 747-7326, Southwest Region.
PUEBLO | Pueblo of Santa Domingo, Arthur Lucero, ICWA Worker, P.O. Box 129, Santo Domingo Pueblo, New Mexico 87052, phone: (505) 465-0630, Southwest Region.
PUEBLO | Pueblo of Taos, Macine Nakai, Division Director, P.O. Box 1846, Taos, New Mexico 87571, phone: (505) 758-7824, Southwest Region.
PUEBLO | Pueblo of Tesuque, Debbie Salazar, ICWA Coordinator, Route 42, Box 360-T, Santa Fe, New Mexico 87506, phone: (505) 955-7739, Southwest Region.
PUEBLO | Pueblo of Zia, Eileen Gachupin/Mark Medina, ICWA Director/ICWA Coordinator, 135 Capital Square Drive, Zia Pueblo, New Mexico 87053, phone: (505) 867-3304 Ext. 241, Southwest Region.
PUEBLO | Pueblo of Zuni, Denise Sanchez, Family Preservation Worker, P.O. Box 339, Zuni, New Mexico 87327, phone: (505) 782-7166, Southwest Region.
PUEBLO | Ysleta Del Sur Pueblo, Elizabeth Acosta, ICWA Family Case Worker, 119 South Old Pueblo Road, Ysleta Station, El Paso, Texas 79907, phone: (915) 859-7913 Ext 151, Southwest Region.
PUYALLUP | Puyallup Tribe, Sandra Cooper, ICWA Liaison, 1850 Alexander Avenue, Tacoma, Washington 98421, phone: (253) 573-7827, Northwest Region.
QUAPAW | Quapaw Tribe of Oklahoma, John Berrey, Chairperson, P.O. Box 765, Quapaw, Oklahoma 74363, phone: (918) 542-1853, Eastern Oklahoma Region.
QUECHAN | Quechan Tribal Council, President, P.O. Box 1899, Yuma Arizona 85366-1899, phone: (760) 572-0213, Western Region.
QUILEUTE | Quileute Tribal Council, Margret Ward, ICWA Contact, P.O. Box 279, LaPush, Washington 98350-0279, phone: (360) 374-4325, Northwest Region.
QUINAULT | Quinault Indian Nation Business Committee, Clara Hall, ICWA Contact, P.O. Box 189, Taholah, Washington 98587-0189, phone: (360) 276-8211 Ext. 240, Northwest Region.
SAC & FOX | Sac & Fox Tribe of the Mississippi in Iowa, ICWA Coordinator, P.O. Box 245, Tama, Iowa 52339, phone: (641) 484-4444/(877) 484-4444, Eastern Region.
SAC & FOX | Sac & Fox of Missouri in Kansas, Chairperson, 305 N. Main Street, Reserve, Kansas 66434, phone: (785) 742-7471, Southern Plains Region.
SAC & FOX | Sac & Fox Nation of Oklahoma, Principal Chief, Route 2, Box 246, Stroud, Oklahoma 74079, phone: (918) 968-3526, Southern Plains Region.
SALISH (SEE FLATHEAD/KOOTENAI) | Confederated Salish & Kootenai Tribes, Beverly Swaney, ICWA Contact, Box 278, Pablo, Montana 59855, phone: (406) 675-2700, Pacific Region.
SAMISH | Samish Indian Tribe of Washington, Keeley Titus, ICWA Specialist, P.O. Box 217, Anacortes, Washington 98221, phone: (360) 293-6404, Northwest Region.
SAUK-SUIATTLE | Sauk-Suiattle Indian Tribe of Washington, Eldora Poitra, ICWA Director, 5318 Chief Brown Lane, Darrington, Washington 98241, phone: (360) 436-1400, Northwest Region.
SEMINOLE | Seminole Tribe of Florida, Kristi Hill, Family Preservation Administrator, 3006 Josie Billie Avenue, Hollywood, Florida 33024, phone: (954) 965-1314 Ext. 10371, Eastern Region.
SEMINOLE | Seminole Nation of Oklahoma, Enoch Kelly Haney, Principal Chief, P.O. Box 1498, Wewoka, Oklahoma 74884, phone: (405) 257-6287, Eastern Oklahoma Region.
SENECA (SEE CAYUGA/IROQUOIS) | Cayuga Nation of New York, Anita Thompson, Child Welfare Worker, P.O. Box 11, Versailles, New York 14168, phone: (716) 337-4270, Eastern Region.
SENECA (SEE CAYUGA) | Seneca-Cayuga Nation of Oklahoma, Paul Spicer, Principal Chief, P.O. Box 1283, Miami, Oklahoma 74355, phone: (918) 542-6609, Eastern Oklahoma Region.
SENECA (SEE IROQUOIS) | Seneca Nation of Indians, Tracy Pacini, Program Coordinator, Child and Family Services, P.O. Box 500, Salamanca, New York 14799, phone: (716) 945-5894 Ext: 3233, Eastern Region.
SENECA (SEE IROQUOIS/TONAWANDA) | Tonawanda Band of Seneca, Council of Chiefs, 7027 Meadville Road, Basom, New York 14013, phone: (716) 542-4244, Eastern Region.
SENECA (SEE IROQUOIS) | Seneca Nation of Indians, Tracy Pacini, Program Coordinator, Child and Family Services, P.O. Box 500, Salamanca, New York 14799, phone: (716) 945-5894 Ext: 3233, Eastern Region.
SERRANO | San Manuel Band of Mission Indians, Tribal Secretary, P.O. Box 266, Patton, California 92369, phone: (909) 864-8933, Pacific Region.
SHASTA (SEE GRAND RONDE/SILETZ) | Confederated Tribes of the Grande Ronde Community of Oregon, Dana Ainma, ICWA Contact, 9615 Grand Ronde Road, Grand Ronde, Oregon 97347-0038, phone: (503) 879-2034, Northwest Region.
SHASTA (SEE KARUK) | Quartz Valley Indian Reservation, ICWA Director, 13601 Quartz valley Road, Fort Jones, California 96032, phone: (530) 468-5729, Pacific Region.
SHAWNEE | Absentee Shawnee Tribe of Oklahoma Indians, Governor, 2025 S. Gordon Cooper Drive, Shawnee, Oklahoma 74801, phone: (405) 275-4030, Southern Plains Region.
SHAWNEE | Eastern Shawnee Tribe of Oklahoma, Charles D. Enyart, Chief, P.O. Box 350, Seneca, Missouri 64865, phone: (918) 666-2435, Eastern Oklahoma Region.
SHOALWATER | Shoalwater Bay Tribal Council, Katherine Horne, ICWA Contact, P.O. Box 130, Tokeland, Washington 98590, phone: (360) 267-6766, Northwest Region.
SHOSHONE | Battle Mountain Band Council, ICWA Coordinator, 37 Mountain View Drive, Battle Mountain, Nevada 89820, phone: (775) 635-9189 Ext. 109, Western Region.
SHOSHONE (SEE PAIUTE) | Big Pine Paiute Tribe, Chairperson, P.O. Box 700, Big Pine, California 93513, phone: (760) 938-2003, Pacific Region.
SHOSHONE (SEE PAIUTE) | Bishop Reservation, Attention: Michelle Cozad, 52 Tu Su Lane, Bishop, California 93514, phone: (760) 873-3584, Pacific Region.
SHOSHONE | Duckwater Shoshone Tribal Council, Health Department Manager, P.O. Box 140068, Duckwater, Nevada 89314, phone: (775) 863-0227, Western Region.
SHOSHONE | Eastern Shoshone Tribe of the Wind River Reservation, Chairman, P.O. Box 217, Fort Washakie, Wyoming 82514, phone: (307) 332-3040, Rocky Mountain Region.
SHOSHONE | Elko Band Council, Lillian Garcia/Darby Adams, ICWA Coordinator/Social Services Director, 1745 Silver Eagle Drive, Elko, Nevada 89801, phone: (775) 738-8889, Western Region.
SHOSHONE | Ely Shoshone Tribal Council, Social Services Director, 400-B Newe View, Ely, Nevada 89301, (775) 289-3013, Western Region.
SHOSHONE (SEE PAIUTE) | Fallon Paiute Shoshone Business Council, Youth & Family Services, 565 Rio Vista Drive, Fallon, Nevada 89406, phone: (775) 423-1215, Western Region.
SHOSHONE (SEE PAIUTE) | Fort McDermitt Paiute-Shoshone Tribe, Ms. Karen M. Crutcher, Chairperson, P.O. Box 457, McDermitt, Nevada 89421, phone: (775) 532-8259, Western Region.
SHOSHONE (SEE PAIUTE) | Lone Pine Paiute Shoshone Reservation, Chairperson, P.O. Box 747, Lone Pine, California 96545, phone: (760) 876-1034, Pacific Region.
SHOSHONE (SEE PAIUTE) | Northwestern Band of Shoshoni Nation, Lawrence Honena, ICWA Contact, 427 North Main, Suite 101, Pocatello, Idaho 83204, phone: (208) 478-5712, Northwest Region.
SHOSHONE (SEE PAIUTE/WASHOE) | Reno-Sparks Indian Colony, Attention: Director of Social Services, 98 Colony Road, Reno, Nevada 89502, phone: (775) 329-5071, Western Region.
SHOSHONE (SEE SHOSHONE-BANNOCK) | Shoshone Bannock Tribes of the Fort Hall Reservation, Fort Hall Business Council, ICWA C/O Tribal Attorney, P.O. Box 306, Fort Hall, Idaho 83203, phone: (208) 478-3923, Northwest Region.
SHOSHONE (SEE PAIUTE) | Shoshone-Paiute Tribes of the Duck Valley Reservation, Chairman, P.O. Box 219, Owyhee, Nevada 89832, phone: (208) 759-3100, Western Region.
SHOSHONE | South Fork Band Council, Karen McDade, Director, Social Services Program, 21 Lee, B13, Spring Creek, Nevada 89815, phone: (775) 744-2412, Western Region.
SHOSHONE | Te-Moak Tribe of Western Shoshone Indians, Chairman, 525 Sunset Street, Elko, Nevada 89801, Western Region.
SHOSHONE (SEE PAIUTE) | Timbi-sha Shoshone Tribe, ICWA Representative, 785 North Main Street, Suite Q, Bishop, California 93514, phone: (760) 873-9003, Pacific Region.
SHOSHONE | Wells Indian Colony Band Council, Chairman, P.O. Box 809, Wells, Nevada 89835, phone: (775) 752-3045, Western Region.
SHOSHONE (SEE PAIUTE) | Winnemucca Tribe, Chairman, P.O. Box 1370, Winnemucca, Nevada 89446, Western Region.
SHOSHONE (SEE YOMBA) | Yomba Shoshone Tribe, Chairman, HC 61 Box 6275, Austin, Nevada 89310-9301, phone: (775) 964-2463, Western Region.
SHOSHONE-BANNOCK (SEE SHOSHONE) | Shoshone Bannock Tribes of the Fort Hall Reservation, Fort Hall Business Council, ICWA C/O Tribal Attorney, P.O. Box 306, Fort Hall, Idaho 83203, phone: (208) 478-3923, Northwest Region.
SILETZ, (SEE GRAND RONDE/SHASTA) | Confederated Tribes of the Grande Ronde Community of Oregon, Dana Ainma, ICWA Contact, 9615 Grand Ronde Road, Grand Ronde, Oregon 97347-0038, phone: (503) 879-2034, Northwest Region.
SILETZ | Siletz Tribal Council, Nancy McCrary, ICWA Manager, P.O. Box 549, Siletz, Oregon 97380-0549, phone: (541) 444-2532, Northwest Region.
SIOUX (SEE ASSINIBOINE) | Assiniboine and Sioux Tribes, Chairman, Fort Beck Indian Reservation, P.O. Box 1027, Popular, Montana 59255, phone: (406) 768-5155, Rocky Mountain Region.
SIOUX | Cheyenne River Sioux Tribe, Dianne Garreaux, ICWA Director, Cheyenne River Sioux Tribe, P.O. Box 747, Eagle Butte, South Dakota 57625, phone: (605) 964-6460, Great Plains Region.
SIOUX | Crow Creek River Sioux Tribe, Dave Valandra, ICWA Specialist, Crow Creek River Sioux Tribe, P.O. Box 139, Fort Thompson, South Dakota 57339, phone: (605) 245-2322, Great Plains Region.
SIOUX | Flandreau Santee Sioux Tribe, Celeste Honomichl, Family Services Specialist, Flandreau Santee Sioux Tribal Social Services, 104 West Ross Avenue, Flandreau, South Dakota 57028, phone: (605) 997-5055, Great Plains Region.
SIOUX | Lower Brule Sioux Tribe, Rose McCauley, ICWA Director, Lower Brule Sioux Tribe, P.O. Box 122, Lower Brule, South Dakota 57548, phone: (605) 473-5528, Great Plains Region.
SIOUX | Lower Sioux Indian Community of Minnesota, Ronald P. Leith, Director, TSS, 39527 Res Highway 1 (P.O. Box 308), Morton, Minnesota 56270-0308, phone: (507) 697-9108, Midwest Region.
SIOUX | Oglala Sioux Tribe, Juanita Sherick, ICWA Administrator, Oglala Sioux Tribe—ONTRAC, P.O. Box 2080, Pine Ridge, South Dakota 57770, phone: (605) 867-5807, Great Plains Region.
SIOUX | Prairie Island Indian Community Mdewakanton Dakota Sioux of Minnesota, ICWA Coordinator, 5636 Sturgeon Lake Road, Welch, Minnesota 55089, phone: (651) 385-4185, Midwest Region.
SIOUX | Rosebud Sioux Tribe, Shirley Big Eagle, ICWA Specialist, Rosebud Sioux Tribe ICWA Program, P.O. Box 609, Mission, South Dakota 57555, phone: (605) 856-5270, Great Plains Region.
SIOUX | Santee Sioux Nation, Jerry Denney, ICWA Specialist, Santee Sioux Nation, Dakota Tiwahe Service Unit, Route 2, Box 5191, Niobrara, Nebraska 68760, phone: (402) 857-2342, Great Plains Region.
SIOUX | Shakopee Mdewakanton Sioux Community, Kim Goetzinger, TSS Director, 2330 Sioux Trail NW, Prior Lake, Minnesota 55372, phone: (952) 445-6165, Midwest Region.
SIOUX | Sisseton-Wahpeton Sioux Tribe, Evelyn Pilcher, ICWA Director, Sisseton-Wahpeton Sioux Tribe, P.O. Box 509, Agency Village, South Dakota 57262, phone: (605) 698-3993, Great Plains Region.
SIOUX | Spirit Lake Sioux Tribe, Jean Robertson, LSW, ICWA Director, Spirit Lake Sioux Tribe, P.O. Box 356, Fort Totten, North Dakota 58335, phone: (701) 766-4855, Great Plains Region.
SIOUX | Standing Rock Sioux Tribe of North & South Dakota, Beverly Iron Shield, ICWA Director, Standing Rock Sioux Tribe, P.O. Box 526, Fort Yates, North Dakota 58538, phone: (701) 854-3095, Great Plains Region.
SIOUX | Upper Sioux Community of Minnesota, Susan Campion, Manager, P.O. Box 147, Granite Falls, Minnesota 56241-0147, phone: (320) 564-2360, Midwest Region.
SIOUX | Yankton Sioux Tribe of South Dakota, Raymond Cournoyer, ICWA Director, Yankton Agency, P.O. Box 248, Marty, South Dakota 57361, phone: (605) 384-3641, Great Plains Region.
S'KLLALAM | Jamestown S'Kllalam Tribal Council, Liz Mueller, ICWA Specialist, 1033 Old Blyn Hwy, Squim, Washington 98382, phone: (360) 681-4628, Northwest Region.
S'KLLALAM | Lower Elwha Tribal Community Council, Patricia Elofson, ICWA Contact, 2851 Lower Elwha Road, Port Angeles, Washington 98363-9518, phone: (360) 452-8471, Northwest Region.
S'KLLALAM | Port Gamble Indian Community, Vickie Doyle, ICWA Contact, 31912 Little Boston Road, NE, Kingston, Washington 98346, phone: (360) 297-7623, Northwest Region.
SKOKOMISH | Skokomish Tribal Council, Kristin Hart/Terrie Remick, ICWA Contact, N. 80 Tribal Center Road, Shelton, Washington 98584-9748, phone: (360) 426-7788, Northwest Region.
SNOQUALMIE | Snoqualmie Tribe, Marie Ramirez, MSW, ICWA Contact, P.O. Box 280, Carnation, Washington 98014, phone: (425) 333-5425, Northwest Region.
SPOKANE | Spokane Tribe of Indians, Debbie Timentwa-Thomas, ICWA Contact, P.O. Box 540, Wellpinit, Washington 99040, phone: (509) 258-7502, Northwest Region.
SQUAXIN | Squaxin Island Tribal Council, Linda Charette, ICWA Contact, SE 70 Squaxin Lane, Shelton, Washington 98584-9200, phone: (360) 427-9006, Northwest Region.
STILLAGUAMISH | Stillaguamish Tribe of Washington, Gary Ramey, ICWA Contact, P.O. Box 277, Arlington, Washington 98223-0277, phone: (360) 652-7362, Northwest Region.
SUQUAMISH | Suquamish Tribe of the Port Madison Reservation, Dennis Deaton, ICWA Contact, P.O. Box 498, Suquamish, Washington 98392, phone: (360) 394-8478, Northwest Region.
SWINOMISH | Swinomish Indians, Tracy Parker, ICWA Contact, P.O. Box 388, La Conner, Washington 98257, phone: (360) 466-7222, Northwest Region.
TACHI (SEE YOKUT) | Santa Rosa Rancheria, Chairperson, P.O. Box 8, Lemoore, California 93245-0008, phone: (559) 924-1278 Ext. 4019, Pacific Region.
THREE AFFILIATED TRIBES (SEE ARIKARA/HIDATSA/MANDAN) | Three Affiliated Tribes, Katherine Felix, ICWA Representative, Three Affiliated Tribes, 404 Frontage Road, New Town, North Dakota 58763, phone: (701) 627-4781, Great Plains Region.
TIGUA (SEE PUEBLO) | Pueblo of Isleta, Caroline Dailey, Acting ICWA Director, P.O. Box 1270, Isleta, New Mexico 87022, phone: (505) 869- 2772, Southwest Region.
TOHONO' O'ODHAM (SEE PAPAGO) | Tohono O'Odham Nation, Office of Attorney General, P.O. Box 830, Sells, Arizona 85634, phone: (520) 383-3410, Western Region.
TOLOWA (SEE KARUK/YUROK) | Elk Valley Rancheria, Chairperson, 2332 Howland Hill Road, Crescent City, California 95531, phone: (707) 464-4680, Pacific Region.
TOLOWA | Smith River Rancheria, Elvira Rodriquez, ICWA Director, 140 Rowdy Creek Road, Smith River, California 95567-9446, phone: (707) 487-9255, Pacific Region.
TOLOWA (SEE ME-WOK/MIWOK/YUROK) | Trinidad Rancheria, Chairperson, P.O. Box 630, Trinidad, California 95570, phone: (707) 677-0211, Pacific Region.
TONAWANDA (SEE IROQUOIS/SENECA) | Tonawanda Band of Seneca, Council of Chiefs, 7027 Meadville Road, Basom, New York 14013, phone: (716) 542-4244, Eastern Region.
TONKAWA | Tonkawa Tribe of Oklahoma, President, P.O. Box 70, Tonkawa, Oklahoma 74653, phone: (580) 628-2561, Southern Plains Region.
TULALIP | Tulalip Tribe, Linda Jones, ICWA Contact, 6700 Totem Beach Road, Marysville, Washington 98271, phone: (360) 651-3290, Northwest Region.
TUNICA-BILOXI | Tunica-Biloxi Indian Tribe of Louisiana, Jean Allen-Wilson, LCSW, Assistant Social Service Director, P.O. Box 1589, Marksville, Louisiana 71351, phone: (318) 253-5100, Eastern Region.
TUSCARORA (SEE IROQUOIS) | Tuscarora Nation of New York, Supervisor, Community Health Worker, 2015 Mount Hope Road, Lewistown, New York 14092, phone: (716) 297-0598, Eastern Region.
UMATILLA | Confederated Tribes of the Umatilla Indian Reservation, Attorney General, Department of Justice, ICWA, P.O. Box 638, Pendleton, Oregon 97801, phone: (541) 966-2030, Northwest Region.
UMPQUA | Cow Creek Band of Umpqua Tribe of Indians, Rhonda Malone, ICWA Contact, 2371 NE Stephens, Suite 100, Roseburg, Oregon 97470-1338, phone: (541) 672-9405, Northwest Region.
UMPQUA & SIUSLAW | Confederated Tribes of Coos, Lower Umpqua & Siuslaw Indians, Tom Long, ICWA Specialist, P.O. Box 3279, Coos Bay, Oregon 97420, phone: (541) 888-3012, Northwest Region.
UPPER SKAGIT | Upper Skagit Indian Tribe of Washington, Michelle Anderson-Kamato, ICWA Contact, 2284 Community Plaza Way, Sedro Woolley, Washington 98284, phone: (360) 856-4200, Northwest Region.
UTE | Southern Ute Indian Tribe, Jerri Sindelar, ICWA Worker, P.O. Box 737, Ignacio, Colorado 81137, phone: (970) 563-4738, Southwest Region.
UTE | Ute Indian Tribe, Floyd Wyasket, Social Service Director, Box 190, Fort Duschesne, Utah 84026, phone: (435) 725-4026, Western Region.
UTE | Ute Mountain Ute Tribe (Colorado & Utah), Carla Knight-Cantsee, Social Services Director, P.O. Box 309, Towaoc, Colorado 81334, phone: (970) 564-5307/5310, Southwest Region.
WAILAKI (SEE WINTUN) | Grindstone Rancheria, ICWA Coordinator, P.O. Box 63, Elk Creek, California 95939, phone: (530) 968-5365, Pacific Region.
WAILAKI (SEE NOMLAKI/PIT RIVER/POMO/WINTUN/YUKI) | Round Valley Reservation, Valerie Britton, ICWA Coordinator, P.O. Box 448, Covelo, California 95428, phone: (707) 983-8008, Pacific Region.
WAILAKI (SEE POMO) | Scotts Valley Rancheria, Sharon Warner, ICWA Coordinator, 301 Industrial Avenue, Lakeport, California 95453, phone: (707) 263-4220, Pacific Region.
WAILAKI (SEE POMO) | Sherwood Valley Rancheria, Lorraine Laiwa, ICWA Coordinator, Indian Child & Family Preservation Program, 684 S. Orchard Avenue, Ukiah, California 95482, phone: (707) 463-2644, Pacific Region.
WAMPANOAG | Wampanoag Tribe of Gay Head (Aquinnah), Bonnie Chalifoux, Director, Department of Human Services, 20 Black Brook Road, Aquinnah, Massachusetts 02535, phone: (508) 645-9265, Eastern Region.
WARM SPRINGS (SEE PAIUTE/WASCO/WASHOE) | Confederated Tribes of Warm Springs Reservation, Warm Springs Tribal Court, Chief Judge Lola Sohappy, ICWA Contact, P.O. Box 850, Warm Springs, Oregon 97761, Northwest Region.
WASCO (SEE PAIUTE/WARM SPRINGS/WASHOE) | Confederated Tribes of Warm Springs Reservation, Warm Springs Tribal Court, Chief Judge Lola Sohappy, ICWA Contact, P.O. Box 850, Warm Springs, Oregon 97761, Northwest Region.
WASHOE (SEE PAIUTE/WARM SPRINGS/WASCO) | Confederated Tribes of Warm Springs Reservation, Warm Springs Tribal Court, Chief Judge Lola Sohappy, ICWA Contact, P.O. Box 850, Warm Springs, Oregon 97761, Northwest Region.
WASHOE (SEE PAIUTE/SHOSHONE) | Reno-Sparks Indian Colony, Attention: Director of Social Services, 98 Colony Road, Reno, Nevada 89502, phone: (775) 329-5071, Western Region.
WASHOE | Washoe Tribe of Nevada and California, Social Services Director, 919 HWY, 395 South, Gardnerville, Nevada 89410, phone: (775) 883-1446, Northwest Region.
WICHITA | Witchita and Affiliated Tribe of Oklahoma, Indian Child Welfare, Coordinator, P.O. Box 729, Anadarko, Oklahoma 73005, phone: (405) 247-2425, Southern Plains Region.
WINNEBAGO (SEE HO-CHUNK) | The Ho-Chunk Nation, ICWA Coordinator, P.O. Box 40, Black River Falls, Wisconsin 54615, phone: (715) 284-2622, Midwest Region.
WINNEBAGO | Winnebago Tribe of Nebraska, Rita Snow, ICWA Specialist, ICWA Program, P.O. Box 771, Winnebago, Nebraska 68071, phone: (402) 878-2447, Great Plains Region.
WINTUN | Colusa Rancheria, Community Services Department, 3740 Highway 45, Colusa, California 95932, phone: (530) 458-8231, Pacific Region.
WINTUN (SEE NOMLAKI) | Cortina Rancheria, Chairperson, Elaine Patterson, P.O. Box 1630, Williams, California 95987, phone: (530) 473-3274, Pacific Region.
WINTUN (SEE WAILAKI) | Grindstone Rancheria, ICWA Coordinator, P.O. Box 63, Elk Creek, California 95939, phone: (530) 968-5365, Pacific Region.
WINTUN (SEE NOMLAKI) | Paskenta Band of Nomlaki Indians, Ines Crosby, ICWA Coordinator, P.O. Box 398, Orland, California 95963, phone: (530) 865-2010, Pacific Region.
WINTUN (SEE PIT RIVER/YANA) | Redding Rancheria, Director, Social Services, 2000 Rancheria Road, Redding, California 96001-5528, phone: (530) 225-8979, Pacific Region.
WINTUN (SEE PIT RIVER/POMO/WAILAKI/NOMLAKI/YUKI) | Round Valley Reservation, Valerie Britton, ICWA Coordinator, P.O. Box 448, Covelo, California 95428, phone: (707) 983-8008, Pacific Region.
WINTUN | Rumsey Rancheria, Chairperson, P.O. Box 18, Cbrooks, California 95606, phone: (530) 796-3400, Pacific Region.
WIYOT | Bear River of Rhonerville Rancheria, Chairperson, 32 Bear River Drive, Loleta, California 95551, phone: (707) 773-1900, Pacific Region.
WIYOT (SEE HURON) | Blue Lake Rancheria, Chairperson, P.O. Box 428, Blue Lake, California 95525, phone: (707) 668-5101, Pacific Region.
WIYOT | Wiyot Tribe, Elsie McLaughlin-Feliz, Director, Social Services, 1000 Wiyot Drive, Loleta, California 95551, phone: (707) 733-5055, Pacific Region.
WYANDOTTE (SEE HURON) | Wyandotte Tribe of Oklahoma, Leaford Bearskin, Chief, P.O. Box 250, Wyandotte, Oklahoma 74370, phone: (918) 678-2297, Eastern Oklahoma Region.
YAHOOSKIN (SEE KLAMATH/MODOC) | Klamath Tribe, Morris Blakey, ICWA Specialist, P.O. Box 436, Chiloquin, Oregon 97624, phone: (541) 783-2219, Northwest Region.
YANA (SEE PIT RIVER/WINTUN) | Redding Rancheria, Director, Social Services, 2000 Rancheria Road, Redding, California 96001-5528, phone: (530) 225-8979, Pacific Region.
YAKAMA | Yakama Nation Program, Nak Nu We Sha ICWA, Attention: Ray E. Olney/Delores Armour, Program Director/Social Work Specialist, P.O. Box 151, Toppenish, Washington 98948-0151, phone: (509) 865-5121, Northwest Region.
YAQUI | Pascua Yaqui Tribe, Office of the Attorney General, Tamara Walters, Assistant Attorney General, 4725 West Calle Tetakusim, Bldg. B, Tucson, Arizona 85757, phone: (520) 883-5108, Western Region.
YAVAPAI | Fort McDowell Yavapai Tribe, Attention: CPS/ICWA Coordinator, Family and Community Services, P.O. Box 17779, Fountain Hills, Arizona 85269, phone: (480) 837-5076, Western Region.
YAVAPAI (SEE APACHE) | Yavapai-Apache Nation of the Camp Verde Indian Reservation, Frieda A. Eswonia, Director, ICWA Program, phone: 2400 Datsi Street, Camp Verde, Arizona 86322-8412, Western Region.
YAVAPAI | Yavapai-Prescott Indian Tribe, Attention: ICWA Director, 530 East Merritt Avenue, Prescott, Arizona 86301, phone: (928) 777-0532, Western Region.
YOKUT (SEE TACHI) | Santa Rosa Rancheria, Chairperson, P.O. Box 8, Lemoore, California 93245-0008, phone: (559) 924-1278 Ext. 4019, Pacific Region.
YOKUT | Table Mountain Rancheria, Chairperson, P.O. Box 410, Friant, California 93626-0410, phone: (559) 822-2587, Pacific Region.
YOKUT (SEE MONO) | Tule River Reservation, ICWA Director, P.O. Box 589, Porterville, California 93258, phone: (559) 781-4271, Pacific Region.
YOMBA (SEE SHOSHONE) | Yomba Shoshone Tribe, Chairman, HC 61 Box 6275, Austin, Nevada 89310-9301, phone: (775) 964-2463, Western Region.
YUKI (SEE PIT RIVER/POMO/NOMLAKI/WAILAKI/WINTUN) | Round Valley Reservation, Valerie Britton, ICWA Coordinator, P.O. Box 448, Covelo, California 95428, phone: (707) 983-8008, Pacific Region.
YUROK | Big Lagoon Rancheria, Barbara Orr, Director, Two Feathers Native American Family Services, 2355 Central Avenue, Suite C, McKinleyville, California 95519, phone: (707) 839-1933, Pacific Region.
YUROK (SEE WIYOT) | Blue Lake Rancheria, Chairperson, P.O. Box 428, Blue Lake, California 95525, phone: (707) 668-5101, Pacific Region.
YUROK (SEE KARUK/TOLOWA) | Elk Valley Rancheria, Chairperson, 2332 Howland Hill Road, Crescent City, California 95531, phone: (707) 464-4680, Pacific Region.
YUROK | Resighini Rancheria, Chairperson, P.O. Box 529, Klamath, California 95548, phone: (707) 482-2431, Pacific Region.
YUROK (SEE ME-WOK/MIWOK/TOLOWA) | Trinidad Rancheria, Chairperson, P.O. Box 630, Trinidad, California 95570, phone: (707) 677-0211, Pacific Region.
YUROK | Yurok Tribe, Social Services, Attention: ICWA Coordinator, P.O. Box 1027, Klamath, California 95548, phone: (707) 482-1350, Pacific Region.

2. Alaska Native Tribes and Villages

ALEUT | Agdaagux Tribe of King Cove, Arthur Newman, Tribal Administrator, P.O. Box 249, King Cove, Alaska 99612, phone: (907) 497-2648, fax: (907) 497-2803, Alaska Region.
ALEUT (SEE ALUTIIQ) | Native Village of Akhiok, David Eluaska, Tribal Manager, P.O. Box 5030, Akhiok, Alaska 99615, phone: (907) 836-2312 or (907) 836-2313, fax: (907) 836-2345, Alaska Region.
ALEUT | Native Village of Akutan, Grace Smith, Family Programs Coordinator, Aleutian/Pribilof Islands Association, 1131 East International Airport Road, Anchorage, Alaska 99518-1408, phone: (907) 276-2700 or (907) 222-4236, fax: (907) 279-4351, Alaska Region.
ALEUT | Native Village of Atka, Grace Smith, Family Programs Coordinator, Aleutian/Pribilof Islands Association, 1131 East International Airport Road, Anchorage, Alaska 99518-1408, phone: (907) 276-2700 or (907) 222-4236, fax: (907) 279-4351, Alaska Region.
ALEUT | Native Village of Belkofski, Grace Smith, Family Programs Coordinator, Aleutian/Pribilof Islands Association, 1131 East International Airport Road, Anchorage, Alaska 99518-1408, phone: (907) 276-2700 or (907) 222-4236, fax: (907) 279-4351, Alaska Region.
ALEUT (SEE ALUTIIQ) | Native Village of Chenega, Norma Selanoff, ICWA Worker, P.O. Box 8079, Chenega Bay, Alaska 99574, phone: (907) 573-5386, fax: (907) 573-5387, Alaska Region.
ALEUT (SEE ALUTIIQ) | Chignik Bay Tribal Council,¹ Debbie Carlson, Administrator, P.O. Box 50, Chignik, Alaska 99564, phone: (907) 749-2445, fax: (907) 749-2423, Alaska Region.
ALEUT (SEE ALUTIIQ) | Chignik Bay Tribal Council,² Children's Services Program Manager, Bristol Bay Native Association, P.O. Box 310, 1500 Kanakanak Road, Dillingham, Alaska 99576, phone: (907) 842-4139, fax: (907) 842-4106, Alaska Region.
ALEUT (SEE ALUTIIQ) | Native Village of Chignik Lagoon,¹ Clemence Grunert, Jr., President, P.O. Box 09, Chignik Lagoon, Alaska 99565, phone: (907) 840-2281, fax: (907) 840-2217, Alaska Region.
ALEUT (SEE ALUTIIQ) | Native Village of Chignik Lagoon,² Children's Services Program Manager, Bristol Bay Native Association, P.O. Box 310, 1500 Kanakanak Road, Dillingham, Alaska 99576, phone: (907) 842-4139, fax: (907) 842-4106, Alaska Region.
ALEUT (SEE ALUTIIQ) | Chignik Lake Village,¹ Crystal Kalmakoff, Tribal Children's Service Worker, P.O. Box 33, Chignik Lake, Alaska 99548, phone: (907) 845-2358, fax: (907) 845-2246, Alaska Region.
ALEUT (SEE ALUTIIQ) | Chignik Lake Village,² Children's Services Program Manager, Bristol Bay Native Association, P.O. Box 310, 1500 Kanakanak Road, Dillingham, Alaska 99576, phone: (907) 842-4139, fax: (907) 842-4106, Alaska Region.
ALEUT (SEE ALUTIIQ) | Cordova (See Eyak).
ALEUT (SEE ALUTIIQ) | Egegik Village,¹ Marcia Abalama, Tribal Children's Service Worker, P.O. Box 29, Egegik, Alaska 99579, phone: (907) 233-2207, fax: (907) 233-2312, Alaska Region.
ALEUT (SEE ALUTIIQ) | Egegik Village,² Children's Services Program Manager, Bristol Bay Native Association, P.O. Box 310, 1500 Kanakanak Road, Dillingham, Alaska 99576, phone: (907) 842-4139, fax: (907) 842-4106, Alaska Region.
ALEUT (SEE ALUTIIQ) | English Bay (See Native Village of Nanwalek).
ALEUT (SEE ALUTIIQ) | Native Village of Eyak (Cordova), Erin Kurz, ICWA Worker, P.O. Box 1388, Cordova, Alaska 99574, phone: (907) 424-7738, fax: (907) 424-7809, Alaska Region.
ALEUT | Native Village of False Pass, Grace Smith, Family Programs Coordinator, Aleutian/Pribilof Islands Association, 1131 East International Airport Road, Anchorage, Alaska 99518-1408, phone: (907) 276-2700 or (907) 222-4236, fax: (907) 279-4351, Alaska Region.
ALEUT (SEE ALUTIIQ) | Ivanoff Bay Village,¹ Edgar Shangin, Tribal President, 7926 Old Seward Hwy, Suite B-5, Anchorage, Alaska 99518, phone: (907) 522-2263, fax: (907) 522-2363, Alaska Region.
ALEUT (SEE ALUTIIQ) | Ivanoff Bay Village,² Children's Services Program Manager, Bristol Bay Native Association, P.O. Box 310, 1500 Kanakanak Road, Dillingham, Alaska 99576, phone: (907) 842-4139, fax: (907) 842-4106, Alaska Region.
ALEUT (SEE ALUTIIQ) | Kaguyak Village, Margie Bezona, Community Development Director, Kodiak Area Native Association, 3449 E. Rezanof Drive, Kodiak, Alaska 99615, phone: (907) 486-9816, fax: (907) 486-9886, Alaska Region.
ALEUT (SEE ALUTIIQ) | Native Village of Kanatak,¹ Tony Olivera, Tribal Administrator/ICWA Director, P.O. Box 872231, Wailla, Alaska 99687, phone: (907) 357-5991, fax: (907) 357-5992, Alaska Region.
ALEUT (SEE ALUTIIQ) | Native Village of Kanatak,² Children's Services Program Manager, Bristol Bay Native Association, P.O. Box 310, 1500 Kanakanak Road, Dillingham, Alaska 99576, phone: (907) 842-4139, fax: (907) 842-4106, Alaska Region.
ALEUT (SEE ALUTIIQ) | Native Village of Karluk, Joyce Jones, ICWA Worker, P.O. box 22, Karluk, Alaska 99608, phone: (907) 241-2218, fax: (907) 241-2208, Alaska Region.
ALEUT | King Cove (See Agdaagux).
ALEUT | King Salmon Tribe,¹ Ralph Angasan, Jr., Tribal Administrator, P.O. Box 68, King Salmon, Alaska 99613, phone: (907) 246-3553/3447, fax: (907) 246-3449, Alaska Region.
ALEUT | King Salmon Tribe,² Children's Services Program Manager, Bristol Bay Native Association, P.O. Box 310, 1500 Kanakanak Road, Dillingham, Alaska 99576, phone: (907) 842-4139, fax: (907) 842-4106, Alaska Region.
ALEUT (SEE ALUTIIQ) | Kodiak Tribal Council (See Sun'aq Tribe of Kodiak).
ALEUT (SEE ALUTIIQ) | Native Village of Larsen Bay, Geraldine Watson, ICWA Worker, P.O. Box 50, Larsen Bay, Alaska 99624, phone: (907) 847-2207, fax: (907) 847-2307, Alaska Region.
ALEUT (SEE ALUTIIQ) | Lesnoi Village (aka Woody Island), Maggie Rocheleau, Village Administrator, 3248 Mill Bay Road, Kodiak, Alaska 99615, phone: (907) 486-2821, fax: (907) 486-2738, Alaska Region.
ALEUT (SEE ALUTIIQ) | Native Village of Nanwalek (aka English Bay), Alma Moonin, IRA Administrator, P.O. Box 8028, Nanwalek, Alaska 99603-6021, phone: (907) 281-2274, fax: (907) 281-2252, Alaska Region.
ALEUT | Native Village of Nelson Lagoon,¹ Justine Gunderson, Administrator, P.O. box 913, Nelson Lagoon, Alaska 99571, phone: (907) 989-2204, fax: (907) 989-2233, Alaska Region.
ALEUT | Native Village of Nelson Lagoon,² Grace Smith, Family Programs Coordinator, Aleutian/Pribilof Islands Association, 1131 East International Airport Road, Anchorage, Alaska 99518-1408, phone: (907) 276-2700 or (907) 222-4236, fax: (907) 279-4351, Alaska Region.
ALEUT | Native Village of Nikolski, Grace Smith, Family Programs Coordinator, Aleutian/Pribilof Islands Association, 1131 East International Airport Road, Anchorage, Alaska 99518-1408, phone: (907) 276-2700 or (907) 222-4236, fax: (907) 279-4351, Alaska Region.
ALEUT (SEE ALUTIIQ) | Village of Old Harbor, Conrad Peterson, President, P.O. Box 62, Old Harbor, Alaska 99643-0062, phone: (907) 286-2215, fax: (907) 286-2277, Alaska Region.
ALEUT (SEE ALUTIIQ) | Native Village of Ouzinkie, Michelle M. Johnson, ICWA Director, P.O. Box 130, Ouzinkie, Alaska 99644-0130, phone: (907) 680-2359, fax: (907) 680-2214, Alaska Region.
ALEUT | Pauloff Harbor Village,¹ Attention Grace Smith, ICWA Coordinator, P.O. Box 97, Sand Point, Alaska 99661, phone: (907) 383-6075, fax: (907) 383-6094, Alaska Region.
ALEUT | Pauloff Harbor Village,² Grace Smith, Family Programs Coordinator, Aleutian/Pribilof Islands Association, 1131 East International Airport Road, Anchorage, Alaska 99518-1408, phone: (907) 276-2700 or (907) 222-4236, fax: (907) 279-4351, Alaska Region.
ALEUT (SEE ALUTIIQ) | Native Village of Perryville,¹ Bernice O'Domin, Tribal Children's Service Worker, P.O. Box 97, Perryville, Alaska 99648-0089, phone: (907) 853-2242, fax: (907) 853-2229, Alaska Region.
ALEUT (SEE ALUTIIQ) | Native Village of Perryville,² Children's Services Program Manager, Bristol Bay Native Association, P.O. Box 310, 1500 Kanakanak Road, Dillingham, Alaska 99576, phone: (907) 842-4139, fax: (907) 842-4106, Alaska Region.
ALEUT (SEE ALUTIIQ) | Native Village of Pilot Point, Lori Ann Abyo, Tribal Administrator, P.O. Box 449, Pilot Point, Alaska 99649, phone: (907) 797-2208, fax: (907) 797-2258, Alaska Region.
ALEUT (SEE ALUTIIQ) | Native Village of Port Graham, Mary Malchoff/Patrick Norman, ICWA Worker/Chief, P.O. Box 5510, Port Graham, Alaska 99603, phone: (907) 284-2227, fax: (907) 284-2222, Alaska Region.
ALEUT (SEE ALUTIIQ) | Native Village of Port Heiden,¹ Larissa Orloff, Tribal Administrator, Tribal Children Service Worker, P.O. Box 49007, Port Heiden, Alaska 99549, phone: (907) 837-2225/2296, fax: (907) 837-2297, Alaska Region.
ALEUT (SEE ALUTIIQ) | Native Village of Port Heiden,² Children's Services Program Manager, Bristol Bay Native Association, P.O. Box 310, 1500 Kanakanak Road, Dillingham, Alaska 99576, phone: (907) 842-4139, fax: (907) 842-4106, Alaska Region.
ALEUT (SEE ALUTIIQ) | Native Village of Port Lions, Jessica Ursin, Tribal Family Service Coordinator, P.O. box 69, Port Lions, Alaska 99550-0069, phone: (907) 454-2234, fax: (907) 454-2434, Alaska Region.
ALEUT | Qagan Tayagungin Tribe of Sand Point Village,¹ Anne M. Morris, Administrator/Tribal Clerk, Box 447, Sand Point, Alaska 99661, phone: (907) 383-5616, fax: (907) 383-5616, Alaska Region.
ALEUT | Qagan Tayagungin Tribe of Sand Point Village,² Grace Smith, Family Programs Coordinator, Aleutian/Pribilof Islands Association, 1131 East International Airport Road, Anchorage, Alaska 99518-1408, phone: (907) 276-2700 or (907) 222-4236, fax: (907) 279-4351, Alaska Region.
ALEUT | Qawalangin Tribe of Unalaska,¹ Kathy M. Dirks, Family Programs Services, P.O. Box 1130, Unalaska, Alaska 99685, phone: (907) 581-6574, fax: (907) 581-2040, Alaska Region.
ALEUT | Qawalangin Tribe of Unalaska,² Grace Smith, Family Programs Coordinator, Aleutian/Pribilof Islands Association, 1131 East International Airport Road, Anchorage, Alaska 99518-1408, phone: (907) 276-2700 or (907) 222-4236, fax: (907) 279-4351, Alaska Region.
ALEUT (SEE ALUTIIQ) | Seldovia Village Tribe, Paula Elvsass, ICWA Worker, Drawer L, Seldovia, Alaska 99663, phone: (907) 234-7898 ext. 255, fax: (907) 234-7875, Alaska Region.
ALEUT (SEE ALUTIIQ) | Sun'aq Tribe of Kodiak, Frank Peterson, Social Services Director, 312 W. Marine Way, Kodiak, Alaska 99615, phone: (907) 486-4449, fax: (907) 486-3361, Alaska Region.
ALEUT | St. George Island, Grace Smith, Family Programs Coordinator, Aleutian/Pribilof Islands Association, 1131 East International Airport Road, Anchorage, Alaska 99518-1408, phone: (907) 276-2700 or (907) 222-4236, fax: (907) 279-4351, Alaska Region.
ALEUT | St. Paul Island,¹ Maxim Buterin, Jr., ICWA Children Service Worker, P.O. Box 31, St. Paul Island, Alaska 99660, phone: (907) 923-2304/2405, phone: (907) 546-3224, Alaska Region.
ALEUT | St. Paul Island,² Grace Smith, Family Programs Coordinator, Aleutian/Pribilof Islands Association, 1131 East International Airport Road, Anchorage, Alaska 99518-1408, phone: (907) 276-2700 or (907) 222-4236, fax: (907) 279-4351, Alaska Region.
ALEUT (SEE ALUTIIQ) | Native Village of Tatitlek, Lori (Sue) Johnson, President, P.O. Box 171, Tatitlek, Alaska 99677, phone: (907) 325-2311, fax: (907) 325-2298, Alaska Region.
ALEUT (SEE ALUTIIQ) | Ugashik Village,¹ Betti J. Malagon, Tribal Administrator, 206 E. Fireweed lane, #204, Anchorage, Alaska 99503, phone: (907) 338-7611, fax: (907) 338-7659, Alaska Region.
ALEUT (SEE ALUTIIQ) | Ugashik Village,² Children's Services Program Manager, Bristol Bay Native Association, P.O. Box 310, 1500 Kanakanak Road, Dillingham, Alaska 99576, phone: (907) 842-4139, fax: (907) 842-4106, Alaska Region.
ALEUT | Unalaska (See Qawalangin Tribe of Unalaska).
ALEUT | Native Village of Unga, Grace Smith, Family Programs Coordinator, Aleutian/Pribilof Islands Association, 1131 East International Airport Road, Anchorage, Alaska 99518-1408, phone: (907) 276-2700 or (907) 222-4236, fax: (907) 279-4351, Alaska Region.
ALEUT (SEE ALUTIIQ) | Woody Island (See Lesnoi Village).
ALUTIIQ (SEE ALEUT) | Native Village of Afognak, Melissa Borton, Tribal Administrator, 115 Mill Bay Road, Suite 201, Kodiak, Alaska 99615, phone: (907) 486-6357, fax: (907) 486-6529, Alaska Region.
ALUTIIQ (SEE ALEUT) | Native Village of Akhiok, David Eluaska, Tribal Manager, P.O. Box 5030, Akhiok, Alaska 99615, phone: (907) 836-2312 or (907) 836-2313, fax: (907) 836-2345, Alaska Region.
ALUTIIQ (SEE ALEUT) | Native Village of Chenega, Norma Selanoff, ICWA Worker, P.O. Box 8079, Chenega Bay, Alaska 99574, phone: (907) 573-5386, fax: (907) 573-5387, Alaska Region.
ALUTIIQ (SEE ALEUT) | Chignik Bay Tribal Council,¹ Debbie Carlson, Administrator, P.O. Box 50, Chignik, Alaska 99564, phone: (907) 749-2445, fax: (907) 749-2423, Alaska Region.
ALUTIIQ (SEE ALEUT) | Chignik Bay Tribal Council,² Children's Services Program Manager, Bristol Bay Native Association, P.O. Box 310, 1500 Kanakanak Road, Dillingham, Alaska 99576, phone: (907) 842-4139, fax: (907) 842-4106, Alaska Region.
ALUTIIQ (SEE ALEUT) | Native Village of Chignik Lagoon,¹ Clemence Grunert, Jr., President, P.O. Box 09, Chignik Lagoon, Alaska 99565, phone: (907) 840-2281, fax: (907) 840-2217, Alaska Region.
ALUTIIQ (SEE ALEUT) | Native Village of Chignik Lagoon,² Children's Services Program Manager, Bristol Bay Native Association, P.O. Box 310, 1500 Kanakanak Road, Dillingham, Alaska 99576, phone: (907) 842-4139, fax: (907) 842-4106, Alaska Region.
ALUTIIQ (SEE ALEUT) | Chignik Lake Village,¹ Crystal Kalmakoff, Tribal Children's Service Worker, P.O. Box 33, Chignik Lake, Alaska 99548, phone: (907) 845-2358, fax: (907) 845-2246, Alaska Region.
ALUTIIQ (SEE ALEUT) | Chignik Lake Village,² Children's Services Program Manager, Bristol Bay Native Association, P.O. Box 310, 1500 Kanakanak Road, Dillingham, Alaska 99576, phone: (907) 842-4139, fax: (907) 842-4106, Alaska Region.
ALUTIIQ (SEE ALEUT) | Egegik Village,¹ Marcia Abalama, Tribal Children's Service Worker, P.O. Box 29, Egegik, Alaska 99579, phone: (907) 233-2207, fax: (907) 233-2312, Alaska Region.
ALUTIIQ (SEE ALEUT) | Egegik Village,² Children's Services Program Manager, Bristol Bay Native Association, P.O. Box 310, 1500 Kanakanak Road, Dillingham, Alaska 99576, phone: (907) 842-4139, fax: (907) 842-4106, Alaska Region.
ALUTIIQ (SEE ALEUT) | English Bay (See Native Village of Nanwalek).
ALUTIIQ (SEE ALEUT) | Native Village of Eyak (Cordova), Erin Kurz, ICWA Worker, P.O. Box 1388, Cordova, Alaska 99574, phone: (907) 424-7738, fax: (907) 424-7809, Alaska Region.
ALUTIIQ (SEE ALEUT) | Ivanoff Bay Village,¹ Edgar Shangin, Tribal President, 7926 Old Seward Hwy, Suite B-5, Anchorage, Alaska 99518, phone: (907) 522-2263, fax: (907) 522-2363, Alaska Region.
ALUTIIQ (SEE ALEUT) | Ivanoff Bay Village,² Children's Services Program Manager, Bristol Bay Native Association, P.O. Box 310, 1500 Kanakanak Road, Dillingham, Alaska 99576, phone: (907) 842-4139, fax: (907) 842-4106, Alaska Region.
ALUTIIQ (SEE ALEUT) | Kaguyak Village, Margie Bezona, Community Development Director, Kodiak Area Native Association, 3449 E. Rezanof Drive, Kodiak, Alaska 99615, phone: (907) 486-9816, fax: (907) 486-9886, Alaska Region.
ALUTIIQ (SEE ALEUT) | Native Village of Kanatak,¹ Tony Olivera, Tribal Administrator/ICWA Director, P.O. Box 872231, Wailla, Alaska 99687, phone: (907) 357-5991, fax: (907) 357-5992, Alaska Region.
ALUTIIQ (SEE ALEUT) | Native Village of Kanatak,² Children's Services Program Manager, Bristol Bay Native Association, P.O. Box 310, 1500 Kanakanak Road, Dillingham, Alaska 99576, phone: (907) 842-4139, fax: (907) 842-4106, Alaska Region.
ALUTIIQ (SEE ALEUT) | Native Village of Karluk, Joyce Jones, ICWA Worker, P.O. box 22, Karluk, Alaska 99608, phone: (907) 241-2218, fax: (907) 241-2208, Alaska Region.
ALUTIIQ (SEE ALEUT) | Kodiak Tribal Council (See Sun'aq Tribe of Kodiak).
ALUTIIQ (SEE ALEUT) | Native Village of Larsen Bay, Geraldine Watson, ICWA Worker, P.O. Box 50, Larsen Bay, Alaska 99624, phone: (907) 847-2207, fax: (907) 847-2307, Alaska Region.
ALUTIIQ (SEE ALEUT) | Lesnoi Village (aka Woody Island), Maggie Rocheleau, Village Administrator, 3248 Mill Bay Road, Kodiak, Alaska 99615, phone: (907) 486-2821, fax: (907) 486-2738, Alaska Region.
ALUTIIQ (SEE ALEUT) | Native Village of Nanwalek (aka English Bay), Alma Moonin, IRA Administrator, P.O. Box 8028, Nanwalek, Alaska 99603-6021, phone: (907) 281-2274, fax: (907) 281-2252, Alaska Region.
ALUTIIQ (SEE ALEUT) | Village of Old Harbor, Conrad Peterson, President, P.O. Box 62, Old Harbor, Alaska 99643-0062, phone: (907) 286-2215, fax: (907) 286-2277, Alaska Region.
ALUTIIQ (SEE ALEUT) | Native Village of Ouzinkie, Michelle M. Johnson, ICWA Director, P.O. Box 130, Ouzinkie, Alaska 99644-0130, phone: (907) 680-2359, fax: (907) 680-2214, Alaska Region.
ALUTIIQ (SEE ALEUT) | Native Village of Perryville,¹ Bernice O'Domin, Tribal Children's Service Worker, P.O. Box 97, Perryville, Alaska 99648-0089, phone: (907) 853-2242, fax: (907) 853-2229, Alaska Region.
ALUTIIQ (SEE ALEUT) | Native Village of Perryville,² Children's Services Program Manager, Bristol Bay Native Association, P.O. Box 310, 1500 Kanakanak Road, Dillingham, Alaska 99576, phone: (907) 842-4139, fax: (907) 842-4106, Alaska Region.
ALUTIIQ (SEE ALEUT) | Native Village of Pilot Point, Lori Ann Abyo, Tribal Administrator, P.O. Box 449, Pilot Point, Alaska 99649, phone: (907) 797-2208, fax: (907) 797-2258, Alaska Region.
ALUTIIQ (SEE ALEUT) | Native Village of Port Graham, Mary Malchoff/Patrick Norman, ICWA Worker/Chief, P.O. Box 5510, Port Graham, Alaska 99603, phone: (907) 284-2227, fax: (907) 284-2222, Alaska Region.
ALUTIIQ (SEE ALEUT) | Native Village of Port Heiden,¹ Larissa Orloff, Tribal Administrator, Tribal Children Service Worker, P.O. Box 49007, Port Heiden, Alaska 99549, phone: (907) 837-2225/2296, fax: (907) 837-2297, Alaska Region.
ALUTIIQ (SEE ALEUT) | Native Village of Port Heiden,² Children's Services Program Manager, Bristol Bay Native Association, P.O. Box 310, 1500 Kanakanak Road, Dillingham, Alaska 99576, phone: (907) 842-4139, fax: (907) 842-4106, Alaska Region.
ALUTIIQ (SEE ALEUT) | Native Village of Port Lions, Jessica Ursin, Tribal Family Service Coordinator, P.O. box 69, Port Lions, Alaska 99550-0069, phone: (907) 454-2234, fax: (907) 454-2434, Alaska Region.
ALUTIIQ (SEE ALEUT) | Seldovia Village Tribe, Paula Elvsass, ICWA Worker, Drawer L, Seldovia, Alaska 99663, phone: (907) 234-7898 ext. 255, fax: (907) 234-7875, Alaska Region.
ALUTIIQ (SEE ALEUT) | Sun'aq Tribe of Kodiak, Frank Peterson, Social Services Director, 312 W. Marine Way, Kodiak, Alaska 99615, phone: (907) 486-4449, fax: (907) 486-3361, Alaska Region.
ALUTIIQ (SEE ALEUT) | Native Village of Tatitlek, Lori (Sue) Johnson, President, P.O. Box 171, Tatitlek, Alaska 99677, phone: (907) 325-2311, fax: (907) 325-2298, Alaska Region.
ALUTIIQ (SEE ALEUT) | Ugashik Village,¹ Betti J. Malagon, Tribal Administrator, 206 E. Fireweed lane, #204, Anchorage, Alaska 99503, phone: (907) 338-7611, fax: (907) 338-7659, Alaska Region.
ALUTIIQ (SEE ALEUT) | Ugashik Village,² Children's Services Program Manager, Bristol Bay Native Association, P.O. Box 310, 1500 Kanakanak Road, Dillingham, Alaska 99576, phone: (907) 842-4139, fax: (907) 842-4106, Alaska Region.
ALUTIIQ (SEE ALEUT) | Woody Island (See Lesnoi Village).
ATHABASCAN INDIAN | Alatna Village,¹ Michelle Sam, Acting Tribal Administrator, P.O. box 70, Allakaket, Alaska 99720, phone: (907) 968-2304, fax: (907) 238-3705, Alaska Region.
ATHABASCAN INDIAN | Alatna Village,² Legal Department, Tanana Chiefs Conference, 122 First Avenue, Suite 600, Fairbanks, Alaska 99701, phone: (907) 452-8251 ext. 3177, fax: (907) 459-3953, Alaska Region.
ATHABASCAN INDIAN | Allakaket Village,¹ Elisa Bergman, ICWA Worker, P.O. Box 50, Allakaket, Alaska 99720, phone: (907) 968-2237/2303, fax: (907) 968-2233, Alaska Region.
ATHABASCAN INDIAN | Allakaket Village,² Legal Department, Tanana Chiefs Conference, 122 First Avenue, Suite 600, Fairbanks, Alaska 99701, phone: (907) 452-8251 ext. 3177, fax: (907) 459-3953, Alaska Region.
ATHABASCAN INDIAN | Anvik Village,¹ Alberta Walker, Tribal Family Youth Specialist (TFYS), P.O. box 10, Anvik, Alaska 99558, phone: (907) 663-6322, fax: (907) 663-6357, Alaska Region.
ATHABASCAN INDIAN | Anvik Village,² Legal Department, Tanana Chiefs Conference, 122 First Avenue, Suite 600, Fairbanks, Alaska 99701, phone: (907) 452-8251 ext. 3177, fax: (907) 459-3953, Alaska Region.
ATHABASCAN INDIAN | Beaver Village,¹ Arlene Pitka, ICWA Coordinator, P.O. Box 24029, Beaver, Alaska 99724, phone: (907) 628-6126, fax: (907) 628-6815, Alaska Region.
ATHABASCAN INDIAN | Beaver Village,² Legal Department, Tanana Chiefs Conference, 122 First Avenue, Suite 600, Fairbanks, Alaska 99701, phone: (907) 452-8251 ext. 3177, fax: (907) 459-3953, Alaska Region.
ATHABASCAN INDIAN | Bettles Field (See Evansville Village).
ATHABASCAN INDIAN | Birch Creek Tribe, Legal Department, Tanana Chiefs Conference, 122 First Avenue, Suite 600, Fairbanks, Alaska 99701, phone: (907) 452-8251 ext. 3177, fax: (907) 459-3953, Alaska Region.
ATHABASCAN INDIAN | Native Village of Cantwell, Angel Craig, ICWA Coordinator, Copper River Native Association, Drawer H, Copper Center, Alaska 99573, phone: (907) 822-5241 ext. 273, fax: (907) 822-8801, Alaska Region.
ATHABASCAN INDIAN | Chalkyitski Village,¹ Candice Nathaniel, ICWA Coordinator, P.O. Box 57, Chalkyitsik, Alaska 99788, phone: (907) 848-8117/8119, fax: (907) 848-8116, Alaska Region.
ATHABASCAN INDIAN | Chalkyitski Village,² Legal Department, Tanana Chiefs Conference, 122 First Avenue, Suite 600, Fairbanks, Alaska 99701, phone: (907) 452-8251 ext. 3177, fax: (907) 459-3953, Alaska Region.
ATHABASCAN INDIAN | Cheesh-Na Tribe, Elaine Sinyon, Tribal Administrator, P.O. Box 263, Gakona, Alaska 99586, phone: (907) 822-3503, fax: (907) 822-5179, Alaska Region.
ATHABASCAN INDIAN | Chickaloon Native Village, Penny Westing, ICWA Case Manager, P.O. Box Manager, P.O. Box 1105, Chickaloon, Alaska 99674, phone: (907) 745-0749, fax: (907) 745-0709, Alaska Region.
ATHABASCAN INDIAN | Chistochina (See Cheesh-Na).
ATHABASCAN INDIAN | Native Village of Chitina, Elizabeth Kelley, ICWA Worker, P.O. Box 31, Chitina, Alaska 99566, phone: (907) 823-2287, fax: (907) 823-2233, Alaska Region.
ATHABASCAN INDIAN | Circle Native Community,¹ Jessica Boyle, P.O. Box 89, Circle, Alaska 99733, phone: (907) 773-2822, fax: (907) 773-2823/2820, Alaska Region.
ATHABASCAN INDIAN | Circle Native Community,² Legal Department, Tanana Chiefs Conference, 122 First Avenue, Suite 600, Fairbanks, Alaska 99701, phone: (907) 452-8251 ext. 3177, fax: (907) 459-3953, Alaska Region.
ATHABASCAN INDIAN | Copper Center (See Native Village of Kluti-Kaah).
ATHABASCAN INDIAN | Village of Dot Lake, Dewila Lyons, ICWA Coordinator, P.O. Box 2279, Dot Lake, Alaska 99737-2275, phone: (907) 882-2742, fax: (907) 882-5558, Alaska Region.
ATHABASCAN INDIAN | Native Village of Eagle,¹ Maralyn Hinckley, Tribal Family & Youth Services, P.O. Box 19, Eagle, Alaska 99738, phone: (907) 547-2271, fax: (907) 547-2318, Alaska Region.
ATHABASCAN INDIAN | Native Village of Eagle,² Legal Department, Tanana Chiefs Conference, 122 First Avenue, Suite 600, Fairbanks, Alaska 99701, phone: (907) 452-8251 ext. 3177, fax: (907) 459-3953, Alaska Region.
ATHABASCAN INDIAN | Eklutna Native Village, Terri Corey, ICWA Coordinator, 26339 Eklutna Village Road, Chugiak, Alaska 99567, phone: (907) 688-6020, fax: (907) 688-6021, Alaska Region.
ATHABASCAN INDIAN | Evansville Village (aka Bettles Field),¹ Rachel Hanft, ICWA/Tribal Family & Youth Services, P.O. Box 26087, Bettles, Alaska 99726, phone: (907) 692-5005, fax: (907) 692-5006, Alaska Region.
ATHABASCAN INDIAN | Evansville Village (aka Bettles Field),² Legal Department, Tanana Chiefs Conference, 122 First Avenue, Suite 600, Fairbanks, Alaska 99701, phone: (907) 452-8251 ext. 3177, fax: (907) 459-3953, Alaska Region.
ATHABASCAN INDIAN | Native Village of Fort Yukon,¹ Arlene Joseph, ICWA Worker, P.O. Box 10, Fort Yukon, Alaska 99740, phone: (907) 662-3625, fax: (907) 662-3118, Alaska Region.
ATHABASCAN INDIAN | Native Village of Fort Yukon,² Legal Department, Tanana Chiefs Conference, 122 First Avenue, Suite 600, Fairbanks, Alaska 99701, phone: (907) 452-8251 ext. 3177, fax: (907) 459-3953, Alaska Region.
ATHABASCAN INDIAN | Native Village of Gakona, Charlene Nollner, Tribal Administrator, P.O. Box 102, Gakona, Alaska 99586, phone: (907) 822-5777, fax: (907) 822-5997, Alaska Region.
ATHABASCAN INDIAN | Galena Village (aka Louden Village),¹, March Runner, ICWA Director, P.O. Box 244, Galena, Alaska 99741, phone: (907) 656-1711, fax: (907) 656-1716, Alaska Region.
ATHABASCAN INDIAN | Galena Village (aka Louden Village),² Legal Department, Tanana Chiefs Conference, 122 First Avenue, Suite 600, Fairbanks, Alaska 99701, phone: (907) 452-8251 ext. 3177, fax: (907) 459-3953, Alaska Region.
ATHABASCAN INDIAN | Organized Village of Grayling (aka Holikachuk),¹ Sue Ann Nicholi, Tribal Family Youth Specialist, P.O. Box 46, Grayling, Alaska 99590, phone: (907) 453-5142, fax: (907) 453-5146, Alaska Region.
ATHABASCAN INDIAN | Organized Village of Grayling (aka Holikachuk),² Legal Department, Tanana Chiefs Conference, 122 First Avenue, Suite 600, Fairbanks, Alaska 99701, phone: (907) 452-8251 ext. 3177, fax: (907) 459-3953, Alaska Region.
ATHABASCAN INDIAN | Gulkana Village, Mr. LaMonica Claw/Charelle Randall, Tribal Administrator/ICWA Social Services, P.O. Box 254, Gakona, Alaska 99586-0254, phone: (907) 822-5363, fax: (907) 822-5976, Alaska Region.
ATHABASCAN INDIAN | Gwichyaa Gwichin (See Fort Yukon).
ATHABASCAN INDIAN | Healy Lake Village,¹ Tribal President and Tribal Administrator, P.O. Box 60300, Fairbanks, Alaska 99706, phone: (907) 876-5017, fax: (907) 876-5013, Alaska Region.
ATHABASCAN INDIAN | Healy Lake Village,² Legal Department, Tanana Chiefs Conference, 122 First Avenue, Suite 600, Fairbanks, Alaska 99701, phone: (907) 452-8251 ext. 3177, fax: (907) 459-3953, Alaska Region.
ATHABASCAN INDIAN | Holikachuk (See Grayling).
ATHABASCAN INDIAN | Holy Cross Village,¹ Eugene Paul, First Chief, Tribal Family Youth Specialist, P.O. Box 191, Holy Cross, Alaska 99602, phone: (907) 476-7249, fax: (907) 476-7259, Alaska Region.
ATHABASCAN INDIAN | Holy Cross Village,² Legal Department, Tanana Chiefs Conference, 122 First Avenue, Suite 600, Fairbanks, Alaska 99701, phone: (907) 452-8251 ext. 3177, fax: (907) 459-3953, Alaska Region.
ATHABASCAN INDIAN | Hughes Village,¹ Janet Befelt, Tribal Administrator, P.O. box 45029, Hughes, Alaska 99745, phone: (907) 889-2239, fax: (907) 889-2252, fax: (907) 476-7259, Alaska Region.
ATHABASCAN INDIAN | Hughes Village,² Legal Department, Tanana Chiefs Conference, 122 First Avenue, Suite 600, Fairbanks, Alaska 99701, phone: (907) 452-8251 ext. 3177, fax: (907) 459-3953, Alaska Region.
ATHABASCAN INDIAN | Huslia Village,¹ S. Joyce Sam, Tribal Family Youth Specialist/ICWA, P.O. Box 56, Huslia, Alaska 99746, phone: (907) 829-2202, fax: (907) 829-2202, Alaska Region.
ATHABASCAN INDIAN | Huslia Village,² Legal Department, Tanana Chiefs Conference, 122 First Avenue, Suite 600, Fairbanks, Alaska 99701, phone: (907) 452-8251 ext. 3177, fax: (907) 459-3953, Alaska Region.
ATHABASCAN INDIAN | Village of Iliamna,¹ Tim Anelon, Tribal Administrator, P.O. Box 286, Iliamna, Alaska 99606, phone: (907) 571-1246, fax: (907) 571-1256, Alaska Region.
ATHABASCAN INDIAN | Village of Iliamna,² Children's Services Program Manager, Bristol Bay Native Association, P.O. Box 310, 1500 Kanakanak Road, Dillingham, Alaska 99576, phone: (907) 842-4139, fax: (907) 842-4106, Alaska Region.
ATHABASCAN INDIAN | Village of Kaltag,¹ Eleanor Maillelle, Tribal Family Youth Specialist, P.O. box 129, Kaltag, Alaska 99748, phone: (907) 534-2243, fax: (907) 534-2264, Alaska Region.
ATHABASCAN INDIAN | Village of Kaltag,² Legal Department, Tanana Chiefs Conference, 122 First Avenue, Suite 600, Fairbanks, Alaska 99701, phone: (907) 452-8251 ext. 3177, fax: (907) 459-3953, Alaska Region.
ATHABASCAN INDIAN | Kenaitze Indian Tribe, Ms. Vide Van Velzor, ICWA Worker, 110 North Willow Avenue, Kenai, Alaska 99611, phone: (907) 283-6693, fax: (907) 283-7088, Alaska Region.
ATHABASCAN INDIAN | Native Village of Kluti-Kaah (Copper Center), Donald Johns, President, P.O. Box 68, Copper Center, Alaska 99573, phone: (907) 822-5541, fax: (907) 822-5130, Alaska Region.
ATHABASCAN INDIAN | Knik Tribe, Geraldine Nicoli, ICWA Worker, P.O. Box 871565, Wasilla, Alaska 99687-1565, phone: (907) 373-7938, fax: (907) 373-2153, Alaska Region.
ATHABASCAN INDIAN | Koyukuk Native Village,¹ Leo Lolnitz, First Chief, P.O. Box 109, Koyukuk, Alaska 99754, phone: (907) 927-2253, fax: (907) 927-2220, Alaska Region.
ATHABASCAN INDIAN | Koyukuk Native Village,² Legal Department, Tanana Chiefs Conference, 122 First Avenue, Suite 600, Fairbanks, Alaska 99701, phone: (907) 452-8251 ext. 3177, fax: (907) 459-3953, Alaska Region.
ATHABASCAN INDIAN | Lime Village, Ursula Graham, Administrator, P.O. Box LVD, McGrath, Alaska 99627-8999, phone: (907) 526-5236, fax: (907) 526-5235, Alaska Region.
ATHABASCAN INDIAN | Louden (See Galena).
ATHABASCAN INDIAN | Manley Hot Springs Village,¹ Sabrenia Jervsjo, TFYS/TWDS, P.O. Box 105, Manley Hot Springs, Alaska 99756, phone: (907) 672-3180, fax: (907) 672-3200, Alaska Region.
ATHABASCAN INDIAN | Manley Hot Springs Village,² Legal Department, Tanana Chiefs Conference, 122 First Avenue, Suite 600, Fairbanks, Alaska 99701, phone: (907) 452-8251 ext. 3177, fax: (907) 459-3953, Alaska Region.
ATHABASCAN INDIAN | McGrath Native Village,¹ Tribal Family and Youth Specialist, P.O. Box 134, McGrath, Alaska 99627, phone: (907) 524-3023, fax: (907) 524-3899, Alaska Region.
ATHABASCAN INDIAN | McGrath Native Village,² Legal Department, Tanana Chiefs Conference, 122 First Avenue, Suite 600, Fairbanks, Alaska 99701, phone: (907) 452-8251 ext. 3177, fax: (907) 459-3953, Alaska Region.
ATHABASCAN INDIAN | Mentasta Traditional Council, Ms. Cecil G. Sanford, ICWA Program, P.O. Box 6024, Mentasta, Alaska 99780, phone: (907) 291-2319, fax: (907) 291-2305, Alaska Region.
ATHABASCAN INDIAN | Native Village of Minto,¹ Lori Baker, Program Coordinator, P.O. Box 19, Minto, Alaska 99758, phone: (907) 798-7448, fax: (907) 798-7450, Alaska Region.
ATHABASCAN INDIAN | Native Village of Minto,² Legal Department, Tanana Chiefs Conference, 122 First Avenue, Suite 600, Fairbanks, Alaska 99701, phone: (907) 452-8251 ext. 3177, fax: (907) 459-3953, Alaska Region.
ATHABASCAN INDIAN | Nenana Native Association,¹ Nita M. Marks, Youth & family Services Director, P.O. Box 369, Nenana, Alaska 99760, phone: (907) 832-5461 ext. 225, fax: (907) 832-5447, Alaska Region.
ATHABASCAN INDIAN | Nenana Native Association,² Legal Department, Tanana Chiefs Conference, 122 First Avenue, Suite 600, Fairbanks, Alaska 99701, phone: (907) 452-8251 ext. 3177, fax: (907) 459-3953, Alaska Region.
ATHABASCAN INDIAN | Nikolai Village,¹ Peter A. Tony, Tribal Family Youth Specialist, P.O. Box 9105, Nikolai, Alaska 99691, phone: (907) 293-2311, fax: (907) 293-2481, Alaska Region.
ATHABASCAN INDIAN | Nikolai Village,² Legal Department, Tanana Chiefs Conference, 122 First Avenue, Suite 600, Fairbanks, Alaska 99701, phone: (907) 452-8251 ext. 3177, fax: (907) 459-3953, Alaska Region.
ATHABASCAN INDIAN | Ninilchik Village, Michelle Partridge, Social Services Specialist, P.O. Box 39444, Ninilchik, Alaska 99669, phone: (907) 567-3313 ext. 1010, fax: (907) 567-3354, Alaska Region.
ATHABASCAN INDIAN | Nondalton Village,¹ Betty Wilson-Evanoff, Social Services/ICWA Worker, P.O. Box 49, Nondalton, Alaska 99640-0049, phone: (907) 294-2206, fax: (907) 294-2262, Alaska Region.
ATHABASCAN INDIAN | Nondalton Village,² Children's Services Program Manager, Bristol Bay Native Association, P.O. Box 310, 1500 Kanakanak Road, Dillingham, Alaska 99576, phone: (907) 842-4139, fax: (907) 842-4106, Alaska Region.
ATHABASCAN INDIAN | Northway Village, Donna Northway/Daisy Northway, ICWA Worker/Tribal Administrator, P.O. Box 516, Northway, Alaska 99764, phone: (907) 778-2311, fax: (907) 778-2220, Alaska Region.
ATHABASCAN INDIAN | Nulato Village,¹ Kathleen M. Sam, Director of Human Services, P.O. Box 49, Nulato, Alaska 99765, phone: (907) 898-2329, fax: (907) 898-2207, Alaska Region.
ATHABASCAN INDIAN | Nulato Village,² Legal Department, Tanana Chiefs Conference, 122 First Avenue, Suite 600, Fairbanks, Alaska 99701, phone: (907) 452-8251 ext. 3177, fax: (907) 459-3953, Alaska Region.
ATHABASCAN INDIAN | Pedro Bay Village,¹ Kevin Jensen, operations Coordinator, P.O. Box 47020, Pedro Bay, Alaska 99647-7020, phone: (907) 850-2225, fax: (907) 850-2221, Alaska Region.
ATHABASCAN INDIAN | Pedro Bay Village,² Children's Services Program Manager, Bristol Bay Native Association, P.O. Box 310, 1500 Kanakanak Road, Dillingham, Alaska 99576, phone: (907) 842-4139, fax: (907) 842-4106, Alaska Region.
ATHABASCAN INDIAN | Rampart Village,¹ Corina Collins, Tribal Administrator, P.O. Box 76029, Rampart, Alaska 99767, phone: (907) 358-3312, fax: (907) 358-3115, Alaska Region.
ATHABASCAN INDIAN | Rampart Village,² Legal Department, Tanana Chiefs Conference, 122 First Avenue, Suite 600, Fairbanks, Alaska 99701, phone: (907) 452-8251 ext. 3177, fax: (907) 459-3953, Alaska Region.
ATHABASCAN INDIAN | Native Village of Ruby,¹ Patrick Sweetsir, Tribal Administrator, P.O. Box 210, Ruby, Alaska 99768, phone: (907) 468-4479, fax: (907) 468-4474, Alaska Region.
ATHABASCAN INDIAN | Native Village of Ruby,² Legal Department, Tanana Chiefs Conference, 122 First Avenue, Suite 600, Fairbanks, Alaska 99701, phone: (907) 452-8251 ext. 3177, fax: (907) 459-3953, Alaska Region.
ATHABASCAN INDIAN | Village of Salamatoff, Penny Carty, President, P.O. Box 2682, Kenai, Alaska 99611, phone: (907) 283-7864, fax: (907) 459-3953, Alaska Region.
ATHABASCAN INDIAN | Shageluk Native Village,¹ Kelly S. Workman, TFYS, P.O. Box 109, Shageluk, Alaska 99665, phone: (907) 473-8239/8229, fax: (907) 473-8295/8275, Alaska Region.
ATHABASCAN INDIAN | Shageluk Native Village,² Legal Department, Tanana Chiefs Conference, 122 First Avenue, Suite 600, Fairbanks, Alaska 99701, phone: (907) 452-8251 ext. 3177, fax: (907) 459-3953, Alaska Region.
ATHABASCAN INDIAN | Native Village of Stevens,¹ Randy Mayo/Cheryl Mayo Kriska, 1st Chief/Grant Administrator, P.O. Box 71372, Fairbanks, Alaska 99701, phone: (907) 452-7162, fax: (907) 452-5063, Alaska Region.
ATHABASCAN INDIAN | Native Village of Stevens,² Legal Department, Tanana Chiefs Conference, 122 First Avenue, Suite 600, Fairbanks, Alaska 99701, phone: (907) 452-8251 ext. 3177, fax: (907) 459-3953, Alaska Region.
ATHABASCAN INDIAN | Takotna Village,¹ Carole Absher, Tribal Family Youth Services Worker, P.O. Box 7529, Takotna, Alaska 99675, phone: (907) 298-2212, fax: (907) 298-2314, Alaska Region.
ATHABASCAN INDIAN | Takotna Village,² Legal Department, Tanana Chiefs Conference, 122 First Avenue, Suite 600, Fairbanks, Alaska 99701, phone: (907) 452-8251 ext. 3177, fax: (907) 459-3953, Alaska Region.
ATHABASCAN INDIAN | Native Village of Tanacross, Roy G. Denny, President, P.O. Box 76009, Tanacross, Alaska 99776, phone: (907) 883-5024 ext. 122, fax: (907) 883-4497, Alaska Region.
ATHABASCAN INDIAN | Native Village of Tanana, Thelma Starr, Acting Executive Director, P.O. Box 77130, Tanana, Alaska 99777, phone: (907) 366-7222, fax: (907) 366-7195, Alaska Region.
ATHABASCAN INDIAN | Native Village of Tazlina, Marce Simeon, ICWA Coordinator, P.O. Box 87, Glennallen, Alaska 99588, phone: (907) 822-4375, fax: (907) 822-5865, Alaska Region.
ATHABASCAN INDIAN | Telida Village,¹ Jo Royal, Natiev Village Council, P.O. Box 32, Telida, Alaska 99627, phone: (907) 524-3550, fax: (907) 524-3163, Alaska Region.
ATHABASCAN INDIAN | Telida Village,² Legal Department, Tanana Chiefs Conference, 122 First Avenue, Suite 600, Fairbanks, Alaska 99701, phone: (907) 452-8251 ext. 3177, fax: (907) 459-3953, Alaska Region.
ATHABASCAN INDIAN | Native Village of Tetlin,¹ Christie Young, Tetlin IRA Council, P.O. Box 797/Box 93, Tetlin, Alaska 99780/Tok, Alaska 99780, phone: (907) 883-2021/phone: (907) 883-2681, fax: (907) 883-2021/fax: (907) 451-1717, Alaska Region.
ATHABASCAN INDIAN | Native Village of Tetlin,² Legal Department, Tanana Chiefs Conference, 122 First Avenue, Suite 600, Fairbanks, Alaska 99701, phone: (907) 452-8251 ext. 3177, fax: (907) 459-3953, Alaska Region.
ATHABASCAN INDIAN | The Native Village of Tyonek, Angela Sandstol, Tribal President, P.O. Box 82009, Tyonek, Alaska 99682, phone: (907) 583-2111, fax: (907) 583-2442, Alaska Region.
ATHABASCAN INDIAN | Native Village of Venetie Tribal Government,¹ Ernest D. Erick, 1st Chief of Venetie Village Council, P.O. Box 81119, Venetie, Alaska 99781, phone: (907) 849-8212, fax: (907) 849-8149, Alaska Region.
ATHABASCAN INDIAN | Native Village of Venetie Tribal Government,² Legal Department, Tanana Chiefs Conference, 122 First Avenue, Suite 600, Fairbanks, Alaska 99701, phone: (907) 452-8251 ext. 3177, fax: (907) 459-3953, Alaska Region.
HAIDA INDIAN (SEE TLINGIT) | Central Council of the Tlingit and Hadia Indian Tribes, Marilyn Doyle, 320 W. Willoughby Avenue, Suite 300, Juneau, Alaska 99801-9983, phone: (907) 463-7148, fax: (907) 463-7343, Alaska Region.
HAIDA INDIAN | Hydaburg Cooperative Association, Eileen J. Carle, Human Services Director, P.O. Box 349, Hydaburg, Alaska 99922, phone: (907) 285-3662, fax: (907) 285-3541, Alaska Region.
HAIDA INDIAN | Organized Village of Kasaan, Richard J. Peterson, President, P.O. box 26-KXA, Kasaan-Ketchikan, Alaska 99950, phone: (907) 542-2230, fax; (907) 542-3006, Alaska Region.
INUPIAQ ESKIMO | Native Village of Ambler, Shield Downey, Jr./Mary J. Ramoth, First Chief/ICWA Coordinator, Box 86047, Ambler, Alaska 99786, phone: (907) 445-2189/2238, fax: (907) 445-2257/2181, Alaska Region.
INUPIAQ ESKIMO | Village of Anaktuvuk Pass,¹ Tribal President, P.O. Box 21065, Anaktuvuk Pass, Alaska 99721, phone: (907) 661-2575, fax: (907) 661-2576, Alaska Region.
INUPIAQ ESKIMO | Village of Anaktuvuk Pass,² Price Leavitt, Sr., Executive Director, Inupiat Community of the Arctic Slope, P.O. Box 934, 6986 Ahmaogak Street, Barrow, Alaska 99723, phone: (907) 852-4227, fax: (907) 852-4068, Alaska Region.
INUPIAQ ESKIMO | Atqasuk Village (Atkasook),¹ Candace Itta, President, P.O. Box 91108, Atqasuk, Alaska 99791, phone: (907) 633-2575, fax: (907) 633-2576, Alaska Region.
INUPIAQ ESKIMO | Atqasuk Village (Atkasook),² Arctic Slope Native Association, Maude Hopson, ICWA Worker, P.O. box 1232, Barrow, Alaska 99723, phone: (907) 852-9374, fax: (907) 852-2761, Alaska Region.
INUPIAQ ESKIMO | Native Village of Barrow Inupiat Traditional Government, Marie H. Ahsoak, Social Services Director, P.O. Box 1130, Barrow, Alaska 99723, phone: (907) 852-4411 ext. 209, Direct Line: (907) 852-8909, fax: (907) 852-4413, Alaska Region.
INUPIAQ ESKIMO | Native Village of Brevig Mission, Linda M. Tocktoo, Tribal Family Coordinator, P.O. Box 85039, Brevig Mission, Alaska 99785, phone: (907) 642-3012, fax: (907) 642-3042, Alaska Region.
INUPIAQ ESKIMO | Native Village of Buckland, Evans Thomas Jr., IRA President, P.O. Box 67, Buckland, Alaska 99727-0067, phone: (907) 494-2171, fax: (907) 494-2217, Alaska Region.
INUPIAQ ESKIMO | Native Village of Council, Tribal President and ICWA Coordinator, P.O. Box 2050, Nome, Alaska 99762, phone: (907) 443-7649, fax: (907) 443-5965, Alaska Region.
INUPIAQ ESKIMO | Native Village of Deering, Tribal President and ICWA Coordinator, P.O. Box 36089, Deering, Alaska 99763, phone: (907) 363-2138, fax: (907) 363-2195, Alaska Region.
INUPIAQ ESKIMO | Native Village of Elim, Joseph H. Murray, Tribal Family Coordinator, P.O. Box 39070, Elim, Alaska 99739, phone: (907) 890-2457, fax: (907) 890-2458, Alaska Region.
INUPIAQ ESKIMO | Inupiat Community of Arctic Slope, Price Levitt, Sr., Executive Director, P.O. Box 934, Barrow, Alaska 99723, phone: (907) 852-4227, fax: (907) 852-4068/4246, Alaska Region.
INUPIAQ ESKIMO | Kaktovik Village (aka Barter Island),¹ Isaac Akootchook, President, P.O. Box 73, Kaktovik, Alaska 99747, phone: (907) 640-2042, fax: (907) 640-2044, Alaska Region.
INUPIAQ ESKIMO | Kaktovik Village (aka Barter Island),² Arctic Slope Native Association, Maude Hopson, ICWA Worker, P.O. box 1232, Barrow, Alaska 99723, phone: (907) 852-9374, fax: (907) 852-2761, Alaska Region.
INUPIAQ ESKIMO | Native Village of Kiana, Elmer Jackson, ICWA Coordinator, P.O. Box 69, Kiana, Alaska 99749, phone: (907) 475-2226 ext. 14, fax: (907) 475-2266, Alaska Region.
INUPIAQ ESKIMO | King Island Native Community, Jennifer Alvanna, Tribal Family Coordinator, P.O. Box 682, Nome, Alaska 99762, phone: (907) 443-5181, fax: (907) 443-8049, Alaska Region.
INUPIAQ ESKIMO | Native Village of Kivalina,¹ Colleen E. Swan, Tribal Administrator and Tribal President, P.O. Box 50051, Kivalina, Alaska 99750, phone: (907) 645-2153, fax: (907) 645-2193/2250, Alaska Region.
INUPIAQ ESKIMO | Native Village of Kivalina,² Jackie Hill, Maniilaq Association, P.O. Box 256, Kotzebue, Alaska 99752, phone: (907) 442-7919, fax: (907) 442-7933, Alaska Region.
INUPIAQ ESKIMO | Native Village of Kobuk, Wanda Custer, ICWA Coordinator, P.O. Box 51039, Kobuk, Alaska 99751-0039, phone: (907) 948-2255, fax: (907) 948-2355, Alaska Region.
INUPIAQ ESKIMO | Native Village of Kotzebue, Nicole Cravalho, Family Services Director, P.O. Box 296, Kotzebue, Alaska 99752-0296, phone: (907) 442-3467, fax: (907) 442-2162, Alaska Region.
INUPIAQ ESKIMO | Native Village of Koyuk, Leo M. Charles Sr., Tribal Family Coordinator, P.O. Box 53030, Koyuk, Alaska 99753, phone: (907) 963-2215, fax: (907) 963-2300, Alaska Region.
INUPIAQ ESKIMO | Native Village of Mary's Igloo, Dolly Kugzruk, ICWA Worker/Kawerak Inc., P.O. Box 546, Teller, Alaska 99778, phone: (907) 642-2185, fax: (907) 642-3000, Alaska Region.
INUPIAQ ESKIMO | Native Village of Noatak, Alvin Ashby/Sarah Penn, Administrator/ICWA Worker, P.O. Box 89, Noatak, Alaska 99761-0089, phone: (907) 485-2173 ext. 12, fax: (907) 485-2137, Alaska Region.
INUPIAQ ESKIMO | Nome Eskimo Community, Moriah Sallaffie, ICWA Case Manager, P.O. Box 1090, Nome, Alaska 99762-1090, phone: (907) 443-9109, fax: (907) 443-9140, Alaska Region.
INUPIAQ ESKIMO | Noorvik Native Community,¹ Nellie Ballot, ICWA Coordinator, P.O. Box 209, Noorvik, Alaska 99763, phone: (907) 636-2258, fax: (907) 636-2268, Alaska Region.
INUPIAQ ESKIMO | Noorvik Native Community,² Jackie Hill, Maniilaq Association, P.O. Box 256, Kotzebue, Alaska 99752, phone: (907) 442-7919, fax: (907) 442-7933, Alaska Region.
INUPIAQ ESKIMO | Native Village of Nuiqsut (aka Nooiksut),¹ Sheila K. Baker, Tribal Administrator, P.O. Box 89169, Nuiqsut, Alaska 99789, phone: (907) 480-3010, fax: (907) 480-3009, Alaska Region.
INUPIAQ ESKIMO | Native Village of Nuiqsut (aka Nooiksut),² Arctic Slope Native Association, Maude Hopson, ICWA Worker, P.O. Box 1232, Barrow, Alaska 99723, phone: (907) 852-9374, fax: (907) 852-2761, Alaska Region.
INUPIAQ ESKIMO | Native Village of Point Hope, Daisy A. Sage, Family Caseworker, P.O. Box 109, Point Hope, Alaska 99766, phone: (907) 368-3122, fax: (907) 368-5401, Alaska Region.
INUPIAQ ESKIMO | Native Village of Point Lay,¹ Tribal President, Box 59031, Point Lay, Alaska 99757, phone: (907) 833-2575, Alaska Region.
INUPIAQ ESKIMO | Native Village of Point Lay,² Price Leavitt, Sr., Executive Director, Inupiat Community of the Arctic Slope, P.O. Box 934, 6986 Ahmaogak Street, Barrow, Alaska 99723, phone: (907) 852-4227, fax: (907) 852-4068, Alaska Region.
INUPIAQ ESKIMO | Native Village of Selawik, Lenora Foxglove, Executive Director, P.O. Box 59, Selawik, Alaska 99770-0059, phone: (907) 484-2165 ext. 14, fax: (907) 484-2226, Alaska Region.
INUPIAQ ESKIMO | Native Village of Shaktoolik, Tribal President and Tribal Administrator, P.O. Box 100, Shaktoolik, Alaska 99771, phone: (907) 955-2444, fax: (907) 955-2443, Alaska Region.
INUPIAQ ESKIMO | Native Village of Shishmaref, Karla Nayokpuk, Tribal Family Coordinator, P.O. Box 72110, Shishmaref, Alaska 99772, phone: (907) 649-3078/3821, fax: (907) 649-2278, Alaska Region.
INUPIAQ ESKIMO | Native Village of Shungnak, Lizzie L. Cleveland, ICWA, P.O. Box 64, Shungnak, Alaska 99773, phone: (907) 437-2163, fax: (907) 437-2183, Alaska Region.
INUPIAQ ESKIMO | Village of Solomon, Tribal President and Tribal Administrator, P.O. Box 2053, Nome, Alaska 99762, phone: (907) 443-4985, fax: (907) 443-5189, Alaska Region.
INUPIAQ ESKIMO | Native Village of Teller (Mary's Igloo), Dolly Kugzruk, ICWA Worker/Kawerak Inc., P.O. Box 546, Teller, Alaska 99778, phone: (907) 642-2185, fax: (907) 642-3000, Alaska Region.
INUPIAQ ESKIMO | Native Village of Unalakleet, Veronica Ivanoff, Tribal Family Coordinator, P.O. Box 270, Unalakleet, Alaska 99684, phone: (907) 624-3526, fax: (907) 624-5104, Alaska Region.
INUPIAQ ESKIMO | Village of Wainwright,¹ June Childress, President, P.O. Box 143, Wainwright, Alaska 99782, phone: (907) 763-2535, fax: (907) 763-2536, Alaska Region.
INUPIAQ ESKIMO | Village of Wainwright,² Arctic Slope Native Association, Maude Hopson, ICWA Worker, P.O. box 1232, Barrow, Alaska 99723, phone: (907) 852-9374, fax: (907) 852-2761, Alaska Region.
INUPIAQ ESKIMO | Native Village of Wales, Kelly Anungazuk, President, P.O. Box 549, Wales, Alaska 99783, phone: (907) 664-2185, fax: (907) 664-2200, Alaska Region.
INUPIAQ ESKIMO | Native Village of White Mountain, Katherine E. Bergamaschi, Tribal Family Coordinator/ICWA, P.O. Box 85, White Mountain, Alaska 99784, phone: (907) 638-2008, fax: (907) 638-2009, Alaska Region.
TLINGIT INDIAN | Angoon Community Association, Albert Kookesh III, Social Services Manager, P.O. Box 328, Angoon, Alaska 99820, phone: (907) 788-3411, fax: (907) 788-3412, Alaska Region.
TLINGIT INDIAN (SEE HAIDA) | Central Council of the Tlingit and Haida Indian Tribes, Marilyn Doyle, 320 W. Willoughby Avenue, Suite 300, Juneau, Alaska 99801-9983, phone: (907) 463-7148, fax: (907) 463-7343, Alaska Region.
TLINGIT INDIAN | Chilkat Indian Village (Klukwan), Elizabeth Strong, Tribal Service Specialist, P.O. Box 210/32, Haines, Alaska 99827, phone: (907) 767-5505, fax: (907) 767-5408, Alaska Region.
TLINGIT INDIAN | Chilkoot Inidan Association (Haines), Stella Howard, Family Caseworker, P.O. Box 624, Haines, Alaska 99827, phone: (907) 766-2810, fax: (907) 766-2845, Alaska Region.
TLINGIT INDIAN | Craig Community Association, Family Caseworker II, P.O. Box 746, Craig, Alaska 99921, phone: (907) 826-3948, fax: (907) 826-5526, Alaska Region.
TLINGIT INDIAN | Douglas Indian Association, Sue Ann Lindoff, Family Caseworker, 1107 West 8th, Suite 3, Juneau, Alaska 99801, phone: (907) 364-2916/2983, fax: (907) 364-2917, Alaska Region.
TLINGIT INDIAN | Haines (See Chilkoot Indian Association).
TLINGIT INDIAN | Hoonah Indian Association, Hattie Dalton, Director of Human Services, P.O. Box 602, Hoonah, Alaska 99829, phone: (907) 945-3545, fax: (907) 945-3703, Alaska Region.
TLINGIT INDIAN | Organized Village of Kake, M. Ann Jackson, Social Services Director, P.O. Box 316, Kake, Alaska 99830, phone: (907) 785-6471, fax: (907) 785-4902, Alaska Region.
TLINGIT INDIAN | Ketchikan Indian Corporation, Chuck Wanner/Terri Burr, Behavioral Health Director/Family Specialist, 2960 Tongass Avenue, First Floor, Ketchikan, Alaska 99901, phone: (907) 228-4917 ext. 1288, fax: (907) 228-4920, Alaska Region.
TLINGIT INDIAN | Klawock Cooperative Association, Henrietta Kato, ICWA Agent, P.O. Box 173, Klawock, Alaska 99925, phone: (907) 755-2326, fax: (907) 755-2647, Alaska Region.
TLINGIT INDIAN | Klukwan (See Chilkat Indian Village).
TLINGIT INDIAN | Petersburg Indian Association, Brandy Christensen, Tribal Social Worker, P.O. Box 1418, Petersburg, Alaska 99833, phone: (907) 772-3636, fax: (907) 722-3637, Alaska Region.
TLINGIT INDIAN | Organized Village of Saxman, Barbara A. Laman, Family Caseworker, Route 2, Box 2, Ketchikan, Alaska 99901, phone: (907) 225-2518, fax: (907) 247-2504, Alaska Region.
TLINGIT INDIAN | Sitka Tribe of Alaska, Terri McGraw, ICWA Caseworker, 456 Katlian Street, Sitka, Alaska 99835, phone: (907) 747-7359, fax: (907) 747-7643, Alaska Region.
TLINGIT INDIAN | Skagway Village,¹ Delia Commander, Tribal President/Administrator, P.O. Box 1157, Skagway, Alaska 99840, phone: (907) 983-4068, fax: (907) 983-3068, Alaska Region.
TLINGIT INDIAN | Skagway Village,² Indian Child Welfare Coordinator, Central Council Tlingit and Haida Indian Tribes of Alaska, 320 W. Willoughby, Suite 300, Juneau, Alaska 99801, phone: (907) 463-7148, fax: (907) 463-7343, Alaska Region.
TLINGIT INDIAN | Wrangell Cooperative Association, Elizabeth Newman, Family Caseworker II, P.O. Box 1198, Wrangell, Alaska 99929, phone: (907) 874-3482, fax: (907) 874-2982, Alaska Region.
TLINGIT INDIAN | Yakutat Tlingit Tribe, Cindy Brenner, ICWA Coordinator, P.O. Box 418, Yakutat, Alaska 99689, phone: (907) 784-3124, fax: (907) 784-3664, Alaska Region.
TSIMSHIAN INDIAN | Metlakatla Indian Community, Annette Island Reserve, Karen D. Thompson, Director Social Services/ICWA Representative/Child MH, P.O. Box 8, Metlakatala, Alaska 99926, phone: (907) 886-6911, fax: (907) 886-6913, Alaska Region.
YUPIK ESKIMO | Akiachak Native Community, Georgiann Wassilie, Tribal Family Services, P.O. Box 70, Akiachak, Alaska 99551-0070, phone: (907) 825-4626/4073, fax: (907) 825-4029/4075, Alaska Region.
YUPIK ESKIMO | Akiak Native Community, Andrea Jasper/Balassia Phillip, ICWA Worker/Social Services Director, P.O. Box 52127, Akiak, Alaska 99552, phone: (907) 765-7117, fax: (907) 765-7120, Alaska Region.
YUPIK ESKIMO | Village of Alakanuk,¹ Charlene Smith, ICWA Specialist, P.O. Box 149, Alakanuk, Alaska 99554, phone: (907) 238-3704, fax: (907) 238-3705, Alaska Region.
YUPIK ESKIMO | Village of Alakanuk,² Association of Village Council Presidents, ICWA Counsel, P.O. Box 219, Bethel, Alaska 99559, phone: (907) 543-7440, fax: (907) 543-5759, Alaska Region.
YUPIK ESKIMO | Native Village of Aleknagik,¹ Jane Gottschalk, Tribal Children Service Worker, P.O. Box 115, Aleknagik, Alaska 99555, phone: (907) 842-4577, fax: (907) 842-2229, Alaska Region.
YUPIK ESKIMO | Native Village of Aleknagik,² Children's Services Program Manager, Bristol Bay Native Association, P.O. Box 310, 1500 Kanakanak Road, Dillingham, Alaska 99576, phone: (907) 842-4139, fax: (907) 842-4106, Alaska Region.
YUPIK ESKIMO | Algaaciq Native Village (St. Mary's),¹ Sven Paukan, Tribal President, P.O. Box 48, St. Mary's, Alaska 99658-0048, phone: (907) 438-2932, fax: (907) 438-2227, Alaska Region.
YUPIK ESKIMO | Algaaciq Native Village (St. Mary's),² Association of Village Council Presidents, ICWA Counsel, P.O. Box 219, Bethel, Alaska 99559, phone: (907) 543-7440, fax: (907) 543-5759, Alaska Region.
YUPIK ESKIMO | Yupiit of Andrefski, Carol Alstrom, Tribal Administrator, P.O. Box 88, St. Mary's, Alaska 99658-0088, phone: (907) 438-2312, fax: (907) 438-2512, Alaska Region.
YUPIK ESKIMO | Village of Aniak, Muriel Morgan, ICWA Worker, Box 349, Aniak, Alaska 99557, phone: (907) 675-4349/4507, fax: (907) 675-4513, Alaska Region.
YUPIK ESKIMO | Asa'carsarmiut Tribe, Evelyn D. Peterson, ICWA Worker, P.O. Box 32107, Mountain Village, Alaska 99632, phone: (907) 591-2428, fax: (907) 591-2934, Alaska Region.
YUPIK ESKIMO | Village of Atmautluak, Louisa G. Pavilla, ICWA Worker, P.O. Box 6568, Atmautluak, Alaska 99559, phone: (907) 553-5510, fax: (907) 553-5510, Alaska Region.
YUPIK ESKIMO | Village of Bill Moore's Slough, Nancy C. Andrews, ICWA Family Specialist, P.O. Box 20288, Kotlik, Alaska 99620, phone: (907) 899-4236, fax: (907) 899-4461, Alaska Region.
YUPIK ESKIMO | Village of Chefornak,¹ Edward Kinegak, ICWA Specialist, P.O. Box 110, Chefornak, Alaska 99561-0110, phone: (907) 867-8808, fax: (907) 867-8711, Alaska Region.
YUPIK ESKIMO | Village of Chefornak,² Association of Village Council Presidents, ICWA Counsel, P.O. Box 219, Bethel, Alaska 99559, phone: (907) 543-7440, fax: (907) 543-5759, Alaska Region.
YUPIK ESKIMO | Chevak Native Village (aka Kashunamiut Tribe),¹ Esther Friday, ICWA Director/Worker, P.O. Box 140, Chevak, Alaska 99563, phone: (907) 858-7918, fax: (907) 858-7919, Alaska Region.
YUPIK ESKIMO | Chevak Native Village (aka Kashunamiut Tribe),² Association of Village Council Presidents, ICWA Counsel, P.O. Box 219, Bethel, Alaska 99559, phone: (907) 543-7440, fax: (907) 543-5759, Alaska Region.
YUPIK ESKIMO | Chinki Eskimo Community (Golovin), Joyce Fagerstrom, Tribal Family Coordinator, P.O. Box 62019, Golovin, Alaska 99762, phone: (907) 779-3489, fax: (907) 779-2000, Alaska Region.
YUPIK ESKIMO | Native Village of Chuathbaluk, Lucy Simeon, Vice Chairman, P.O. Box CHU, Chuathbaluk, Alaska 99557, phone: (907) 467-4323/4313, fax: (907) 467-4113/4311, Alaska Region.
YUPIK ESKIMO | Chuloonawick Native Village, LaVerne Manumik, Tribal Administrator, P.O. Box 245, Emmonak, Alaska 99581, phone: (907) 949-1341/1345, fax: (907) 949-1346, Alaska Region.
YUPIK ESKIMO | Village of Clarks Point,¹ Harry Wassily Sr., Tribal President, P.O. Box 90, Clarks Point, Alaska 99569, phone: (907) 236-1427, fax: (907) 236-1428, Alaska Region.
YUPIK ESKIMO | Village of Clarks Point,² Children's Services Program Manager, Bristol Bay Native Association, P.O. Box 310, 1500 Kanakanak Road, Dillingham, Alaska 99576, phone: (907) 842-4139, fax: (907) 842-4106, Alaska Region.
YUPIK ESKIMO | Village of Crooked Creek, Evelyn Thomas/Lorraine John, President/ICWA Worker, P.O. box 69, Crooked Creek, Alaska 99575, phone: (907) 432-2200, fax: (907) 432-2201, Alaska Region.
YUPIK ESKIMO | Curyung Tribal Council (Native Village of Dillingham),¹ Chris Itumulria, Tribal Children Service Worker, P.O. Box 216, Dillingham, Alaska 99576, phone: (907) 842-4508, fax: (907) 842-4510, Alaska Region.
YUPIK ESKIMO | Curyung Tribal Council (Native Village of Dillingham),² Children's Services Program Manager, Bristol Bay Native Association, P.O. Box 310, 1500 Kanakanak Road, Dillingham, Alaska 99576, phone: (907) 842-4139, fax: (907) 842-4106, Alaska Region.
YUPIK ESKIMO | Dillingham (See Curyung Tribal Council).
YUPIK ESKIMO | Native Village of Diomede (aka Inalik), Suzy Iyapana, ICWA Coordinator, P.O. Box 7079, Diomede, Alaska 99762, phone: (907) 686-2202, fax: (907) 686-2203, Alaska Region.
YUPIK ESKIMO | Native Village of Eek,¹ Carla David, ICWA Worker, P.O. Box 89, Eek, Alaska 99578, phone: (907) 536-5572, fax: (907) 536-5711, Alaska Region.
YUPIK ESKIMO | Native Village of Eek,² Association of Village Council Presidents, ICWA Counsel, P.O. Box 219, Bethel, Alaska 99559, phone: (907) 543-7440, fax: (907) 543-5759, Alaska Region.
YUPIK ESKIMO | Native Village of Ekuk,¹ Tribal Administrator, 300 Main Street, P.O. Box 530, Dillingham, Alaska 99576, phone: (907) 842-3842, fax: (907) 842-3843, Alaska Region.
YUPIK ESKIMO | Native Village of Ekuk,² Children's Services Program Manager, Bristol Bay Native Association, P.O. Box 310, 1500 Kanakanak Road, Dillingham, Alaska 99576, phone: (907) 842-4139, fax: (907) 842-4106, Alaska Region.
YUPIK ESKIMO | Ekwok Village,¹ Sandra Stermer, Tribal Children Service Worker, P.O. Box 70, Ekwok, Alaska 99580, phone: (907) 464-3349, fax: (907) 464-3350, Alaska Region.
YUPIK ESKIMO | Ekwok Village,² Children's Services Program Manager, Bristol Bay Native Association, P.O. Box 310, 1500 Kanakanak Road, Dillingham, Alaska 99576, phone: (907) 842-4139, fax: (907) 842-4106, Alaska Region.
YUPIK ESKIMO | Emmonak Village, Priscilla S. Kameroff/Andrew Kelly Sr., ICWA Specialist/President, P.O. Box 126, Emmonak, Alaska 99581-0126, phone: (907) 949-1820/1720, fax: (907) 949-1384, Alaska Region.
YUPIK ESKIMO | Fortuna Ledge (See Native Village of Marshall).
YUPIK ESKIMO | Native Village of Gambell, Charlene Apangalook, ICWA Coordinator, P.O. Box 90, Gambell, Alaska 99742, phone: (907) 985-5346, fax: (907) 985-5014, Alaska Region.
YUPIK ESKIMO | Native Village of Georgetown, Amber Matthews, Tribal Administrator, 4300 B Street, Suite 207, Anchorage, Alaska 99503, phone: (907) 274-2195, fax: (907) 274-2196, Alaska Region.
YUPIK ESKIMO | Golovin (See Chinik Eskimo Community).
YUPIK ESKIMO | Native Village of Goodnews Bay, Fannie H. Hunt, ICWA Coordinator, P.O. Box 138, Goodnews Bay, Alaska 99589, phone: (907) 967-8929, fax: (907) 967-8330, Alaska Region.
YUPIK ESKIMO | Native Village of Hamilton, Irene R.K. Williams, Tribal Administrator, P.O. Box 20248, Kotlik, Alaska 99620-0248, phone: (907) 899-4252/4255, fax: (907) 899-4202, Alaska Region.
YUPIK ESKIMO | Native Village of Hopper Bay,¹ Mildred B. Metcalf, CFFS, ICWA Representative, P.O. Box 69, Hooper Bay, Alaska 99604, phone: (907) 758-4068/4006, fax: (907) 758-4066/4606, Alaska Region.
YUPIK ESKIMO | Native Village of Hopper Bay,² Association of Village Council Presidents, ICWA Counsel, P.O. Box 219, Bethel, Alaska 99559, phone: (907) 543-7440, fax: (907) 543-5759, Alaska Region.
YUPIK ESKIMO | Igiugig Village,¹ Tribal Administrator, P.O. Box 4008, Igiugig, Alaska 996013, phone: (907) 533-3211, fax: (907) 533-3217, Alaska Region.
YUPIK ESKIMO | Igiugig Village,² Children's Services Program Manager, Bristol Bay Native Association, P.O. Box 310, 1500 Kanakanak Road, Dillingham, Alaska 99576, phone: (907) 842-4139, fax: (907) 842-4106, Alaska Region.
YUPIK ESKIMO | Iqurmuit Traditional Council,¹ Steven Nick, ICWA Coordinator, P.O. Box 09, Russian Mission, Alaska 99657-0009, phone: (907) 584-5594, fax: (907) 584-5596, Alaska Region.
YUPIK ESKIMO | Iqurmuit Traditional Council,² Association of Village Council Presidents, ICWA Counsel, P.O. Box 219, Bethel, Alaska 99559, phone: (907) 543-7440, fax: (907) 543-5759, Alaska Region.
YUPIK ESKIMO | Village of Kalskag (aka Upper Kalskag),¹ Lisa Holmberg, ICWA Worker, P.O. Box 50, Upper Kalskag, Alaska 99607, phone: (907) 471-2418, fax: (907) 471-2399, Alaska Region.
YUPIK ESKIMO | Village of Kalskag (aka Upper Kalskag),² Association of Village Council Presidents, ICWA Counsel, P.O. Box 219, Bethel, Alaska 99559, phone: (907) 543-7440, fax: (907) 543-5759, Alaska Region.
YUPIK ESKIMO | Village of Lower Kalskag,¹ Flora Levi, ICWA Community Family Service Specialist, P.O. Box 27, Lower Kalskag, Alaska 99626, phone: (907) 471-2412, fax: (907) 471-2412, Alaska Region.
YUPIK ESKIMO | Village of Lower Kalskag,² Association of Village Council Presidents, ICWA Counsel, P.O. Box 219, Bethel, Alaska 99559, phone: (907) 543-7440, fax: (907) 543-5759, Alaska Region.
YUPIK ESKIMO | Kashunamiut Tribe (See Chevak).
YUPIK ESKIMO | Kasigluk Traditional Edlers Council, Olinka Nicholas, ICWA Family Service Specialist, P.O. Box 19, Kasigluk, Alaska 99609, phone: (907) 477-6418, fax: (907) 477-6416, Alaska Region.
YUPIK ESKIMO | Native Village of Kipnuk,¹ Nicole A. Slim, ICWA Specialist, P.O. Box 57, Kipnuk, Alaska 99614, phone: (907) 896-5430, fax: (907) 896-5704, Alaska Region.
YUPIK ESKIMO | Native Village of Kipnuk,² Association of Village Council Presidents, ICWA Counsel, P.O. Box 219, Bethel, Alaska 99559, phone: (907) 543-7440, fax: (907) 543-5759, Alaska Region.
YUPIK ESKIMO | Kokhanok Village,¹ Mary Andrew, Tribal Children Service Worker, P.O. Box 1007, Kokhanok, Alaska 99606, phone: (907) 282-2224, fax: (907) 282-2221, Alaska Region.
YUPIK ESKIMO | Kokhanok Village,² Children's Services Program Manager, Bristol Bay Native Association, P.O. Box 310, 1500 Kanakanak Road, Dillingham, Alaska 99576, phone: (907) 842-4139, fax: (907) 842-4106, Alaska Region.
YUPIK ESKIMO | Koliganek Village (See New Koliganek).
YUPIK ESKIMO | Native Village of Kongiganak,¹ Janet Otto, ICWA Worker, P.O. Box 5092, Kongiganak, Alaska 99545, phone: (907) 557-5311, fax: (907) 557-5348, Alaska Region.
YUPIK ESKIMO | Native Village of Kongiganak,² Association of Village Council Presidents, ICWA Counsel, P.O. Box 219, Bethel, Alaska 99559, phone: (907) 543-7440, fax: (907) 543-5759, Alaska Region.
YUPIK ESKIMO | Village of Kotlik,¹ Henrietta M. Teeluk, ICWA Worker, P.O. Box 20210, Kotlik, Alaska 99620, phone: (907) 899-4459, fax: (907) 899-4459/4790, Alaska Region.
YUPIK ESKIMO | Village of Kotlik,² Association of Village Council Presidents, ICWA Counsel, P.O. Box 219, Bethel, Alaska 99559, phone: (907) 543-7440, fax: (907) 543-5759, Alaska Region.
YUPIK ESKIMO | Organized Village of Kwethluk, Chariton A. Epchook, ICWA Coordinator, P.O. Box 130, Kwethluk, Alaska 99621, phone: (907) 588-8705, fax: (907) 588-8429, Alaska Region.
YUPIK ESKIMO | Native Village of Kwigillingok, Andrew Beaver, ICWA Worker, P.O. Box 49, Kwigillingok, Alaska 99622, phone: (907) 588-8705, fax: (907) 588-8429, Alaska Region.
YUPIK ESKIMO | Native Village of Kwinhagak (aka Quinhagak), Fannie Hernandez, Health & Human Service Director/ICWA, P.O. Box 149, Quinhagak, Alaska 99655, phone: (907) 556-8167 ext. 410, fax: (907) 556-8521, Alaska Region.
YUPIK ESKIMO | Levelock Village,¹ Lucinda Tallekpalek, Tribal Children Service Worker, P.O. Box 70, Levelock, Alaska 99625, phone: (907) 287-3030, fax: (907) 287-3032, Alaska Region.
YUPIK ESKIMO | Levelock Village,² Children's Services Program Manager, Bristol Bay Native Association, P.O. Box 310, 1500 Kanakanak Road, Dillingham, Alaska 99576, phone: (907) 842-4139, fax: (907) 842-4106, Alaska Region.
YUPIK ESKIMO | Manokotak Village,¹ Allsion George, Tribal Children's Service Worker, P.O. Box 169, Manokotak, Alaska 99628, phone: (907) 289-2067/2074, fax: (907) 289-1235, Alaska Region.
YUPIK ESKIMO | Manokotak Village,² Children's Services Program Manager, Bristol Bay Native Association, P.O. Box 310, 1500 Kanakanak Road, Dillingham, Alaska 99576, phone: (907) 842-4139, fax: (907) 842-4106, Alaska Region.
YUPIK ESKIMO | Native Village of Marshall (aka Fortuna Ledge), Ruth Fitka, Social Service Director, Box 110, Marshall, Alaska 99585, phone: (907) 679-6302/6128, fax: (907) 679-6187, Alaska Region.
YUPIK ESKIMO | Native Village of Mekoryuk, Mona K. David, ICWA Coordinator, P.O. Box 66, Mekoryuk, Alaska 99630, phone: (907) 827-8827, fax: (907) 827-8170, Alaska Region.
YUPIK ESKIMO | Mountain Village (See Asa'carsarmiut Tribe).
YUPIK ESKIMO | Naknek Native Village,¹ Linda Patterson, ICWA Worker and Tribal Administrator, P.O. Box 106, Naknek, Alaska 99633, phone: (907) 246-4210, fax: (907) 246-3563, Alaska Region.
YUPIK ESKIMO | Naknek Native Village,² Children's Services Program Manager, Bristol Bay Native Association, P.O. Box 310, 1500 Kanakanak Road, Dillingham, Alaska 99576, phone: (907) 842-4139, fax: (907) 842-4106, Alaska Region.
YUPIK ESKIMO | Native Village of Napaimute,¹ Marcie Sherer, President, P.O. Box 1301, Bethel, Alaska 99559, phone: (907) 543-2887, fax: (907) 543-2892, Alaska Region.
YUPIK ESKIMO | Native Village of Napaimute,² Association of Village Council Presidents, ICWA Counsel, P.O. Box 219, Bethel, Alaska 99559, phone: (907) 543-7440, fax: (907) 543-5759, Alaska Region.
YUPIK ESKIMO | Native Village of Napakiak,¹ Sally K. Billy, ICWA-CFSS, P.O. Box 34114, Napakiak, Alaska 99634, phone: (907) 589-2815, fax: (907) 589-2814, Alaska Region.
YUPIK ESKIMO | Native Village of Napakiak,² Association of Village Council Presidents, ICWA Counsel, P.O. Box 219, Bethel, Alaska 99559, phone: (907) 543-7440, fax: (907) 543-5759, Alaska Region.
YUPIK ESKIMO | Native Village of Napaskiak, Jacqueline Nicholai, ICWA Advocate, P.O. Box 6009, Napaskiak, Alaska 99559, phone: (907) 737-7821, fax: (907) 737-7845, Alaska Region.
YUPIK ESKIMO | New Koliganek Village Council (Koliganek Village),¹ Sally Kayoukluk, Tribal Service Worker, P.O. Box 5026, Koliganek, Alaska 99576, phone: (907) 596-3425, fax: (907) 596-3462, Alaska Region.
YUPIK ESKIMO | New Koliganek Village Council (Koliganek Village),² Children's Services Program Manager, Bristol Bay Native Association, P.O. Box 310, 1500 Kanakanak Road, Dillingham, Alaska 99576, phone: (907) 842-4139, fax: (907) 842-4106, Alaska Region.
YUPIK ESKIMO | New Stuyahok Village,¹ Wassillie Andrews, Tribal Administrator, P.O. Box 49, New Stuyahok, Alaska 99637, phone: (907) 693-3102/3173, fax: (907) 693-3179, Alaska Region.
YUPIK ESKIMO | New Stuyahok Village,² Children's Services Program Manager, Bristol Bay Native Association, P.O. Box 310, 1500 Kanakanak Road, Dillingham, Alaska 99576, phone: (907) 842-4139, fax: (907) 842-4106, Alaska Region.
YUPIK ESKIMO | Newhalen Village,¹ Joanne Wassillie/Maxine Wasillie, Tribal Administrator/ICWA Worker, P.O. Box 207, Newhalen, Alaska 99606-0207, phone: (907) 571-1410, fax: (907) 571-1537, Alaska Region.
YUPIK ESKIMO | Newhalen Village,² Children's Services Program Manager, Bristol Bay Native Association, P.O. Box 310, 1500 Kanakanak Road, Dillingham, Alaska 99576, phone: (907) 842-4139, fax: (907) 842-4106, Alaska Region.
YUPIK ESKIMO | Newtok Village, Tom John, Tribal Court, P.O. Box 5545, Newtok, Alaska 99559-5545, phone: (907) 237-2314, fax: (907) 237-2428, Alaska Region.
YUPIK ESKIMO | Native Village of Nightmute,¹ Noah Lawrence, Administrator, Box 90021, Nightmute, Alaska 99690, phone: (907) 647-6215, fax: (907) 647-6112, Alaska Region.
YUPIK ESKIMO | Native Village of Nightmute,² Association of Village Council Presidents, ICWA Counsel, P.O. Box 219, Bethel, Alaska 99559, phone: (907) 543-7440, fax: (907) 543-5759, Alaska Region.
YUPIK ESKIMO | Nunakauyarmiut Tribe (Native Village of Toksook Bay), Marcella White/Simeon John, ICWA Coordinator/Council President, P.O. Box 37048, Toksook Bay, Alaska 99637, phone: (907) 427-7914/7114, fax: (907) 427-7206/7714, Alaska Region.
YUPIK ESKIMO | Nunam Iqua (formerly Sheldon's Point),¹ Edward J. Admas, Sr., Tribal President, P.O. Box 27, Nunam Iqua, Alaska 99666, phone: (907) 498-44911, fax: (907) 498-4185, Alaska Region.
YUPIK ESKIMO | Nunam Iqua (formerly Sheldon's Point),² Association of Village Council Presidents, ICWA Counsel, P.O. Box 219, Bethel, Alaska 99559, phone: (907) 543-7440, fax: (907) 543-5759, Alaska Region.
YUPIK ESKIMO | Native Village of Nunapitchuk, Alexandria Tobeluk, Community Family Service Specialist/ICWA, P.O. Box 104, Nunapitchuk, Alaska 99641-0130, phone: (907) 527-5731, fax: (907) 527-5732, Alaska Region.
YUPIK ESKIMO | Village of Ohogamiut, Nick P. Andrews Jr., Tribal Administrator, P.O. Box 49, Marshall, Alaska 99585, phone: (907) 679-6517/6598, fax: (907) 679-6516, Alaska Region.
YUPIK ESKIMO | Orutsararmuit Native Vilage (aka Bethel), Vicki Koehler, Social Services Director, P.O. Box 327, Bethel, Alaska 99559, phone: (907) 543-2608, fax: (907) 543-0520, Alaska Region.
YUPIK ESKIMO | Oscarville Traditional Village,¹ Andrew J. Larson Jr., ICWA/CFSS Worker, P.O. Box 6129, Napaskiak, Alaska 99559, phone: (907) 737-7100, fax: (907) 737-7428/7101, Alaska Region.
YUPIK ESKIMO | Oscarville Traditional Village,² Association of Village Council Presidents, ICWA Counsel, P.O. Box 219, Bethel, Alaska 99559, phone: (907) 543-7440, fax: (907) 543-5759, Alaska Region.
YUPIK ESKIMO | Native Village of Paimiut, Agatha Napoleon, Clerk/Envronmental Programs, P.O. Box 230, Hooper Bay, Alaska 99604, phone: (907) 758-4002, fax: (907) 758-4024, Alaska Region.
YUPIK ESKIMO | Pilot Station Traditional Village,¹ Wassillie E. Myers, Tribal Council President, P.O. Box 5119, Pilot Station, Alaska 99650-5119, phone: (907) 549-3373, fax: (907) 549-3301, Alaska Region.
YUPIK ESKIMO | Pilot Station Traditional Village,² Association of Village Council Presidents, ICWA Counsel, P.O. Box 219, Bethel, Alaska 99559, phone: (907) 543-7440, fax: (907) 543-5759, Alaska Region.
YUPIK ESKIMO | Native Village of Pitka's Point, Ruth Riley, President, P.O. Box 127, St. Mary's, Alaska 99658, phone: (907) 438-2833, fax: (907) 438-2569, Alaska Region.
YUPIK ESKIMO | Platinum Traditional Village, Traditional President and ICWA Worker, P.O. Box 8, Platinum, Alaska 99651, phone: (907) 979-8610, fax: (907) 979-8178, Alaska Region.
YUPIK ESKIMO | Portage Creek Village (aka Ohgensakale),¹ Mary Ann Johnson, Tribal Administrator, 1327 E. 72nd Ave, Unit B, Anchorage, Alaska 99508, phone: (907) 277-1105, fax: (907) 277-1104, Alaska Region.
YUPIK ESKIMO | Portage Creek Village (aka Ohgensakale),² Children's Services Program Manager, Bristol Bay Native Association, P.O. Box 310, 1500 Kanakanak Road, Dillingham, Alaska 99576, phone: (907) 842-4139, fax: (907) 842-4106, Alaska Region.
YUPIK ESKIMO | Quinhagak (See Kwinhagak).
YUPIK ESKIMO | Village of Red Devil,¹ Tribal Administrator, P.O. Box 27, Red Devil, Alaska 99656, phone: (907) 447-3223, fax: (907) 447-3224, Alaska Region.
YUPIK ESKIMO | Village of Red Devil,² Association of Village Council Presidents, ICWA Counsel, P.O. Box 219, Bethel, Alaska 99559, phone: (907) 543-7440, fax: (907) 543-5759, Alaska Region.
YUPIK ESKIMO | Russian Mission (See Iqurmuit Traditional Council).
YUPIK ESKIMO | Native Village of Saint Michael, Shirley Martin, IRA President, P.O. Box 59050, St. Michael, Alaska 99659, phone: (907) 923-2304/2405, fax: (907) 923-2406, Alaska Region.
YUPIK ESKIMO | Native Village of Savoonga, Ronnie Toolie, Council Member, Tribal President, P.O. Box 120, Savoonga, Alaska 99769, phone: (907) 984-6211, fax: (907) 984-6156, Alaska Region.
YUPIK ESKIMO | Native Village of Scammon Bay,¹ Regina Black/Brandon Aguckak, ICWA Community Family Service Specialist/Executive Director, P.O. Box 110, Scammon Bay, Alaska 99662, phone: (907) 558-5078/5127, fax: (907) 558-5134, Alaska Region.
YUPIK ESKIMO | Native Village of Scammon Bay,² Association of Village Council Presidents, ICWA Counsel, P.O. Box 219, Bethel, Alaska 99559, phone: (907) 543-7440, fax: (907) 543-5759, Alaska Region.
YUPIK ESKIMO | Sheldon's Point (See Nunam Iqua).
YUPIK ESKIMO | Village of Sleetmute, Gladys Fredericks, ICWA Worker, P.O. Box 109, Sleetmute, Alaska 99668, phone: (907) 449-4225, fax: (907) 449-4203, Alaska Region.
YUPIK ESKIMO | South Naknek Village,¹ Lorianne Rawson, Tribal Administrator, P.O. Box 70029, South Naknek, Alaska 99670, phone: (907) 246-8614, fax: (907) 246-8613, Alaska Region.
YUPIK ESKIMO | South Naknek Village,² Children's Services Program Manager, Bristol Bay Native Association, P.O. Box 310, 1500 Kanakanak Road, Dillingham, Alaska 99576, phone: (907) 842-4139, fax: (907) 842-4106, Alaska Region.
YUPIK ESKIMO | St. Mary's (See Algaaciq).
YUPIK ESKIMO | Village of Stony River,¹ President, P.O. Box SRV, Birch Road, Stony River, Alaska 99557, phone: (907) 537-3253, fax: (907) 537-3254, Alaska Region.
YUPIK ESKIMO | Village of Stony River,² Association of Village Council Presidents, ICWA Counsel, P.O. Box 219, Bethel, Alaska 99559, phone: (907) 543-7440, fax: (907) 543-5759, Alaska Region.
YUPIK ESKIMO | Traditional Village of Togiak,¹ Emma J. Wassillie, Tribal Children Service Worker, P.O. Box 310, Togiak, Alaska 99678, phone: (907) 493-5431, fax: (907) 493-5734, Alaska Region.
YUPIK ESKIMO | Traditional Village of Togiak,² Children's Services Program Manager, Bristol Bay Native Association, P.O. Box 310, 1500 Kanakanak Road, Dillingham, Alaska 99576, phone: (907) 842-4139, fax: (907) 842-4106, Alaska Region.
YUPIK ESKIMO | Toksook Bay (See Nunakauyarmiut Tribe).
YUPIK ESKIMO | Tuluksak Native Community,¹ Joseph Alexie/Margaret Andrew, President/ICWA Coordinator, P.O. Box 95, Tuluksak, Alaska 99679, phone: (907) 695-6902/6420, fax: (907) 695-6903/6932, Alaska Region.
YUPIK ESKIMO | Tuluksak Native Community,² Association of Village Council Presidents, ICWA Counsel, P.O. Box 219, Bethel, Alaska 99559, phone: (907) 543-7440, fax: (907) 543-5759, Alaska Region.
YUPIK ESKIMO | Native Village of Tuntutuliak,¹ Robert Enock, Tribal Administrator, P.O. Box 8086, Tuntutuliak, Alaska 99680, phone: (907) 256-2128, fax: (907) 256-2080, Alaska Region.
YUPIK ESKIMO | Native Village of Tuntutuliak,² Association of Village Council Presidents, ICWA Counsel, P.O. Box 219, Bethel, Alaska 99559, phone: (907) 543-7440, fax: (907) 543-5759, Alaska Region.
YUPIK ESKIMO | Native Village of Tununak,¹ Edna Flynn, ICWA Worker, P.O. Box 77, Tununak, Alaska 99681-0077, phone: (907) 652-6220, fax: (907) 652-6011, Alaska Region.
YUPIK ESKIMO | Native Village of Tununak,² Association of Village Council Presidents, ICWA Counsel, P.O. Box 219, Bethel, Alaska 99559, phone: (907) 543-7440, fax: (907) 543-5759, Alaska Region.
YUPIK ESKIMO | Twin Hills Village ¹ John W. Sharp, Tribal President, P.O. Box TWA, Twin Hills, Alaska 99576, phone: (907) 525-4821, fax: (907) 525-4822, Alaska Region.
YUPIK ESKIMO | Twin Hills Village,² Children's Services Program Manager, Bristol Bay Native Association, P.O. Box 310, 1500 Kanakanak Road, Dillingham, Alaska 99576, phone: (907) 842-4139, fax: (907) 842-4106, Alaska Region.
YUPIK ESKIMO | Umkumiute Native Village, Jay A. Dull, Sr., President, P.O. Box 96062, Nightmute, Alaska 99690, phone: (907) 647-6145, fax: (907) 647-6146, Alaska Region.
YUPIK ESKIMO | Native Village of Upper Kalskag (See Kalskag).

Dated: March 26, 2009.
George T. Skibine,
Deputy Assistant Secretary for Policy & Economic Development.

[FR Doc. E9-9644 Filed 4-27-09; 8:45 am]

BILLING CODE 4310-4J-P